DEPARTMENT OF STATE

[Public Notice 8444]

Office of the Chief of Protocol; Gifts to Federal Employees from Foreign Government Sources Reported to Employing Agencies in Calendar Year 2012

The Department of State submits the following comprehensive listing of the statements which, as required by law, Federal employees filed with their employing agencies during calendar year 2012 concerning gifts received from foreign government sources. The compilation includes reports of both tangible gifts and gifts of travel or travel expenses of more than minimal value, as defined by statute. Also, included are gifts received in previous years including one gift in 2008, two gifts in 2009, four gifts in 2010, twenty-seven gifts in 2011, and two gifts with unknown dates. These latter gifts are being reported in 2012 as the Office of the Chief of Protocol, Department of State, did not receive the relevant information to include them in earlier reports.

Publication of this listing in the Federal Register is required by Section 7342(f) of Title 5, United States Code, as added by Section 515(a)(1) of the Foreign Relations Authorization Act, Fiscal Year 1978 (Pub. L. 95-105, August 17, 1977, 91 Stat. 865).

Dated: August 2, 2013.
Patrick F. Kennedy
Under Secretary for Management, Department of State.

Agency: The White House—Executive Office of the President
[Report of Tangible Gifts Furnished by The White House—Executive Office of the President]
Name and title of person accepting the gift on behalf of the U.S. Government | Gift, date of acceptance on behalf of the U.S. Government, estimated value, and current disposition or location | Identity of foreign donor and government | Circumstances justifying acceptance
The Honorable Barack Obama, President of the United States | Large book of original artwork, photographs, and text by artist Marilena Ferrari, with a Renaissance-style stone carving cover. Gold-painted box containing certificates of authenticity for accompanying artwork. Gold-painted box containing bookmark and magnifying glass. Gold-painted box containing hand-written full version of the Star Spangled Banner in custom ink and calligraphy. Large gold leaf painted box housing all items. Rec'd—7/10/2009. Est. Value—$124,000.00. Disposition—National Archives and Records Administration | His Excellency Silvio Berlusconi, President of the Council of Ministers of the Italian Republic | Non-acceptance would cause embarrassment to donor and U.S. Government.
The Honorable Barack Obama, President of the United States | Small enamel keepsake box. One bag of coffee. One candle. Six steak knives. Four Christmas mugs. Book, title: “The Fifty Year Career of Hollywood's Greatest Costume Designer,” by J. Jorgensen. Glass “PEACE” plate. Small stainless steel tea infuser. Small stainless steel sugar bowl. Small stainless steel cream receptacle. Stainless steel coffee pot. 7″ tall crystal candlestick. 14″ high handmade shaker box. Bowl made from “Innervisions” Record by Stevie Wonder. 14″ x 11″ painting, title: “A Forest,” artist unknown. Small white keepsake box. Decorative shell display plate. 7″ x 7″ shell picture frame. 10″ x 10″ Chinese checkers plate. 15″ x 15″ glass plate with game board painted on it. Large brown basket. Set of three faux books in multiple colors. Rec'd—12/1/2011. Est. Value—$554.00. Disposition—National Archives and Records Administration; Coffee, candle, and steak knives handled pursuant to United States Secret Service policy | His Majesty Sultan Haji Hassanal Bolkiah Mu'izzaddin Waddaulah ibni Al-Marhum Sultan Haji Omar `Ali Saifuddien Sa'adul Khairi Waddien, Sultan and Yang Di-Pertuan of Brunei Darussalum | Non-acceptance would cause embarrassment to donor and U.S. Government.
The Honorable Barack Obama, President of the United States | 54″ x 39″ pure wool hand-woven rug artwork, title: “Magic Knots” in leather carrying bag. Blue, purple, and orange silk head shawl. Rec'd—1/13/2012. Est. Value—$405.00. Disposition—National Archives and Records Administration | His Excellency Elin Suleymanov, Ambassador of the Republic of Azerbaijan to the United States | Non-acceptance would cause embarrassment to donor and U.S. Government.
The Honorable Barack Obama, President of the United States | Silver ornament dagger in a black display box. Rec'd—1/18/2012. Est. Value—$440.00. Disposition—National Archives and Records Administration | His Excellency Jorge Argüello, Ambassador of the Argentine Republic | Non-acceptance would cause embarrassment to donor and U.S. Government.
The Honorable Barack Obama, President of the United States | Basketball in custom red, white, and blue coloring, autographed by donor. 20″ x 79″ replica painting, title: “Five Oxen from the Tang Dynasty,” by H. Haung. Rec'd—2/13/2012. Est. Value—$740.00. Disposition—National Archives and Records Administration | His Excellency Xi Jinping, Vice President of the People's Republic of China | Non-acceptance would cause embarrassment to donor and U.S. Government.
The Honorable Barack Obama, President of the United States | Traditional Georgian headpiece of black wool, silk, and gold embroidery. One copy of the Georgian constitution. Copy of Georgian declaration of independence in display case. Rec'd—2/14/2012. Est. Value—$750.00. Disposition—National Archives and Records Administration | His Excellency Mikheil Saakashvili, President of Georgia | Non-acceptance would cause embarrassment to donor and U.S. Government.
The Honorable Barack Obama, President of the United States | Custom Dunlop table tennis table with United States and United Kingdom decals, inscription, and paddles. Rec'd—3/14/2012. Est. Value—$1,100.00. Disposition—National Archives and Records Administration | The Right Honorable David Cameron, MP, Prime Minister of the United Kingdom of Great Britain and Northern Ireland, and Mrs. Samantha Cameron | Non-acceptance would cause embarrassment to donor and U.S. Government.
The Honorable Barack Obama, President of the United States | Crystal bowl centerpiece. 27″ tall bronze statue of James Hoban. Certificate of President Obama's Irish heritage. Two silver shamrock charm bracelets. Lamb's wool scarf. Lamb's wool blanket. Rec'd—3/20/2012. Est. Value—$7,246.19. Disposition—National Archives and Records Administration | His Excellency Enda Kenny, Taioseach of Ireland | Non-acceptance would cause embarrassment to donor and U.S. Government.
The Honorable Barack Obama, President of the United States | 27″ x 40″ painting, title: “Enemy in Sight,” by P. Rindlisacher, depicting a naval scene from 1813. Rec'd—4/2/2012. Est. Value—$765.00. Disposition—National Archives and Records Administration | The Right Honorable Stephen Harper, P.C., M.P., Prime Minister of Canada | Non-acceptance would cause embarrassment to donor and U.S. Government.
The Honorable Barack Obama, President of the United States | 32″ x 39″ framed cross-stitch art of the President and First Lady by artist G. Alves. 31″ x 19″ painting on wood, title: “Ensala,” by F. Galeno. Rec'd—4/9/2012. Est. Value—$860.00. Disposition—National Archives and Records Adminsitration | Her Excellency Dilma Rousseff, President of the Federative Republic of Brazil | Non-acceptance would cause embarrassment to donor and U.S. Government.
The Honorable Barack Obama, President of the United States | 10″ tall x 12″ wide gold-plated clock with mother of pearl face and horse figure on the base. Rec'd—4/12/2012. Est. Value—$16,500.00. Disposition—National Archives and Records Administration | His Royal Highness Crown Prince Salman bin Abdulaziz Al Saud, Minister of Defense of the Kingdom of Saudi Arabia | Non-acceptance would cause embarrassment to donor and U.S. Government.
The Honorable Barack Obama, President of the United States | Silver figure representing oversized coffee bean. 29″ long decorative sash. Hardcover book, title: “Un Pais de Opportunidades”. Rec'd—4/13/2012. Est. Value—$942.84. Disposition—National Archives and Records Administration | His Excellency Juan Manuel Santos Calderon, President of the Republic of Colombia | Non-acceptance would cause embarrassment to donor and U.S. Government.
The Honorable Barack Obama, President of the United States | Large, high-quality book, title: “Cien Años de Soledad,” by G.G. Marquez, with hand-drawn pictures presented in wood and canvas case. Rec'd—4/30/2012. Est. Value—$1,000.00. Disposition—National Archives and Records Administration | His Excellency Juan Manuel Santos Calderón, President of the Republic of Colombia | Non-acceptance would cause embarrassment to donor and U.S. Government.
The Honorable Barack Obama, President of the United States | 5″ tall x 3.5″ wide red etched Egerman crystal vase with four small feet and leaf designs. Rec'd—5/8/2012. Est. Value—$680.00. Disposition—National Archives and Records Adminstration | His Excellency Vaclav Klaus, President of the Czech Republic | Non-acceptance would cause embarrassment to donor and U.S. Government.
The Honorable Barack Obama, President of the United States | 25″ x 34″ set of 20 engraved prints of the 2005 edition of the Turgot map of Paris. Beige patent personal items bag. Woven beige leather wallet. Beige leather tote bag. Sothys bath products. Rec'd—5/18/2012. Est. Value—$1,473.13. Disposition—National Archives and Records Administration; Bath products handled pursuant to United States Secret Service policy | His Excellency François Hollande, President of the French Republic | Non-acceptance would cause embarrassment to donor and U.S. Government.
The Honorable Barack Obama, President of the United States | 16″ tall antique yellow vase with flower design. Rec'd—5/18/2012. Est. Value—$440.00. Disposition—National Archives and Records Administration | His Excellency Hu Jintao, President of the People's Republic of China | Non-acceptance would cause embarrassment to donor and U.S. Government.
The Honorable Barack Obama, President of the United States | 13″ tall x 17″ diameter white porcelain vase with black and red divergent pattern and images of the White House and Kremlin on opposite sides, artist unknown. Photo book of the Medvedev presidency. Rec'd—5/19/2012. Est. Value—$3,460.00. Disposition—National Archives and Records Administration | His Excellency Dimitry Medvedev, Prime Minister of the Russian Federation | Non-acceptance would cause embarrassment to donor and U.S. Government.
The Honorable Barack Obama, President of the United States | Book, title: “Azerbaijan.” Book, title: “Azerbaijan: The Land of Tolerance.” Book, title: “Azerbaijani Carpets Garabagh Group,” by V. Muradov. Six gold cups with blue and silver engraving. Rec'd—5/20/2012. Est. Value—$553.00. Disposition—National Achives and Records Administration | His Excellency Ilham Aliyev, President of the Republic of Azerbaijan | Non-acceptance would cause embarrassment to donor and U.S. Government.
The Honorable Barack Obama, President of the United States | 9″ diameter gold wreath of oak leaves and acorns. Rec'd—5/20/2012. Est. Value—$390.00. Disposition—National Archives and Records Administration | His Excellency Rosen Plevneliev, President of Bulgaria | Non-acceptance would cause embarrassment to donor and U.S. Government.
The Honorable Barack Obama, President of the United States | Book, title: “President Abdullah Gül: In His Own Words.” 5″ tall silver bowl with Turkish star and moon on top rim. Rec'd—5/21/2012. Est. Value—$1,435.00. Disposition—National Archives and Records Administration | His Excellency Abdullah Gül, President of the Republic of Turkey | Non-acceptance would cause embarrassment to donor and U.S. Government.
The Honorable Barack Obama, President of the United States | Australian flag presented in custom box made of Australian wood. Rec'd—5/21/2012. Est. Value—$490.00. Disposition—National Archives and Records Administration | The Honorable Julia Gillard, MP, Prime Minister of the Commonwealth of Australia | Non-acceptance would cause embarrassment to donor and U.S. Government.
The Honorable Barack Obama, President of the United States | Silver desk set by Rozet and Fischmeister. Rec'd—5/22/2012. Est. Value—$650.00. Disposition—National Archives and Records Administration | His Excellency Werner Faymann, Federal Chancellor of the Republic of Austria | Non-acceptance would cause embarrassment to donor and U.S. Government.
The Honorable Barack Obama, President of the United States | 8″ x 10″ painting of winter landscape, artist unknown. Book, title: “Rostov Enamels,” by V. Borisova. Rec'd—6/6/2012. Est. Value—$540.00. Disposition—National Archives and Records Administration | His Excellency Dimitry Medvedev, Prime Minister of the Russian Federation | Non-acceptance would cause embarrassment to donor and U.S. Government.
The Honorable Barack Obama, President of the United States | 18″ hand-woven Buntal fiber box with laminated rainbow shell lid and bone handle on a mahogany stand. Rec'd—6/7/2012. Est. Value—$870.00. Disposition—National Archives and Records Administration | His Excellency Benigno S. Aquino III, President of the Republic of the Philippines | Non-acceptance would cause embarrassment to donor and U.S. Government.
The Honorable Barack Obama, President of the United States | 10″ black wooden coyote suspended in metal display box. Coca-Cola bottle decorated with beads. Book, title: “Rastros Irrastreables, Artwork by El Nacho.” Two collared button-down shirts, one white and one white with blue stripes. Round silver cufflinks by FCO OTERO. Wooden chest with lock housing five bottles of liquor. Rec'd—6/17/2012. Est. Value—$2,788.00. Disposition—National Archives and Records Administration; Liquor handled pursuant to United States Secret Service Policy | His Excellency Felipe de Jesús Calderón Hinojosa, President of the United Mexican States | Non-acceptance would cause embarrassment to donor and U.S. Government.
The Honorable Barack Obama, President of the United States | 8″ x 11″ silver chalice with ornate blue designs on bowl and base. Rec'd—6/18/2012. Est. Value—$3,400.00. Disposition—National Archives and Records Administration | His Excellency Vladimir Putin, President of Russia | Non-acceptance would cause embarrassment to donor and U.S. Government.
The Honorable Barack Obama, President of the United States | 14″ tall vase with lotus pattern in white and blue. Rec'd—8/29/2012. Est. Value—$950.00. Disposition—National Archives and Records Administration | His Excellency Hu Jintao, President of the People's Republic of China | Non-acceptance would cause embarrassment to donor and U.S. Government.
The Honorable Barack Obama, President of the United States | Earthenware ceramic head sculpture by Jamaican artist. Gold lapel pin reading “Jamaica 1952-2012”. Rec'd—9/24/2012. Est. Value—$2,216.00. Disposition—National Archives and Records Administration | Her Excellency Portia Simpson Miller, Prime Minister of Jamaica | Non-acceptance would cause embarrassment to donor and U.S. Government.
The Honorable Barack Obama, President of the United States | 41″ long saber with 34″ blade, silver filigree handle and sheath. Rec'd—9/27/2012. Est. Value—$440.00. Disposition—National Archives and Records Administration | His Excellency Tsakhiagiin Elbegdorj, President of Mongolia | Non-acceptance would cause embarrassment to donor and U.S. Government.
The Honorable Barack Obama, President of the United States | Stationery set of varying paper sizes, envelopes, and letter opener, held within painted black wooden box. Rec'd—10/16/2012. Est. Value—$450.00. Disposition—National Archives and Records Administration | Her Excellency Yingluck Shinawatra, Prime Minister of the Kingdom of Thailand | Non-acceptance would cause embarrassment to donor and U.S. Government.
The Honorable Barack Obama, President of the United States | 30″ x 18″ framed painting of a city at sunset, painted by donor. Rec'd—11/17/2012. Est. Value—$420.00. Disposition—National Archives and Records Administration | Daw Aung San Suu Kyi, Chairperson of Burma's National League for Democracy and Member of Parliament | Non-acceptance would cause embarrassment to donor and U.S. Government.
The Honorable Barack Obama, President of the United States | Royal Bone Chinaware tea set. Framed photograph of President Obama and the Prime Minister. Rec'd—11/18/2012. Est. Value—$1,000.00. Disposition—National Archives and Records Administration | Her Excellency Yingluck Shinawatra, Prime Minister of Thailand | Non-acceptance would cause embarrassment to donor and U.S. Government.
The Honorable Barack Obama, President of the United States | 6″ tall x 4″ wide short silver vase with raised decorative designs. Rec'd—11/20/2012. Est. Value—$650.00. Disposition—National Archives and Records Administration | Samdech Akka Moha Sena Padel Techo Hun Sen, Prime Minister of the Kingdom of Cambodia | Non-acceptance would cause embarrassment to donor and U.S. Government.
The Honorable Barack Obama, President of the United States | Silver-tinted goblet with pointed lid and flower etchings. Rec'd—11/20/2012. Est. Value—$650.00. Disposition—National Archives and Records Administration | His Excellency U Thein Sein, President of Burma | Non-acceptance would cause embarrassment to donor and U.S. Government.
The Honorable Barack Obama, President of the United States | 5″ wide Aztec calendar stamped on a pure silver coin weighing one kilogram. Rec'd—11/27/2012. Est. Value—$1,701.66. Disposition—National Archives and Records Administration | His Excellency Enrique Peña Nieto, President of the United Mexican States | Non-acceptance would cause embarrassment to donor and U.S. Government.
The Honorable Barack Obama, President of the United States | Silver filigree bowl with raised floral designs around the bowl, pedestal base, a polished band around the center with inscription, and lid with knob on top. Rec'd—11/28/2012. Est. Value—$650.00. Disposition—National Archives and Records Adminsitration | His Royal Highness Haji Al-Muhtadee Billah, Crown Prince of Brunei Darussalam | Non-acceptance would cause embarrassment to donor and U.S. Government.
The Honorable Barack Obama, President of the United States | Scented candle. Pewter and silver picture frame. Book, title: “In Wildness Is the Preservation of the World,” photos by E. Porter and text by H.D. Thoreau. Book, title: “Everyday Heroes,” by K. Fried. Book, title: “Where Miracles Are Born and Squandered,” by T. Lane. Two ceramic bowls with stars and stripes. Two ceramic mugs with stars and stripes. Cutting board. Pottery vase. Wooden bowl from Hawaii. Christmas wreath. Hanging stained glass sign reading “Obama 2012.” Glass plate painted with red and black checkerboard. Handcrafted painted game table. Large brown trunk. Rec'd—12/10/2012. Est. Value—$1,906.97. Disposition—National Archives and Records Administration; Candle handled pursuant to United States Secret Service policy | His Majesty Sultan Haji Hassanal Bolkiah Mu'izzaddin Waddaulah ibni Al-Marhum Sultan Haji Omar `Ali Saifuddien Sa'adul Khairi, Sultan and Yang Di-Pertuan of Brunei Darussalam | Non-acceptance would cause embarrassment to donor and U.S. Government.
The Honorable Barack Obama, President of the United States, and Mrs. Michelle Obama | Book, title: “Berliner Philharmoniker: Im Takt Der Zeit,” published by the Berlin Philharmonic, including 12 compact discs featuring their historic concerts. Crystal Theresienthal candy dish. Rec'd—5/19/2012. Est. Value—$553.00. Disposition—National Archives and Records Administration | Her Excellency Dr. Angela Merkel, Chancellor of the Federal Republic of Germany | Non-acceptance would cause embarrassment to donor and U.S. Government.
The Honorable Barack Obama, President of the United States, and Mrs. Michelle Obama | 6″ x 4″ custom, solid oak music box by Reuge with dark stain, brass hinge, and brass parts. Rec'd—5/21/2012. Est. Value—$470.00. Disposition—National Archives and Records Administration | His Excellency Didier Burkhalter, Federal Councilor and Head of the Federal Department of Foreign Affairs of the Swiss Confederation | Non-acceptance would cause embarrassment to donor and U.S. Government.
The Honorable Barack Obama, President of the United States, and Mrs. Michelle Obama | 26″ tall wooden royal seat from Benin. Ten samples of cloth made in Benin. 29″ x 42″ painting of Benin landscape, artist unknown. Ten samples of Dutch cloth. Rec'd—5/29/2012. Est. Value—$2,415.00. Disposition—National Archives and Records Administration | His Excellency Dr. Boni Yayi, President of the Republic of Benin | Non-acceptance would cause embarrassment to donor and U.S. Government.
The Honorable Barack Obama, President of the United States, and Mrs. Michelle Obama | Book, title: “Archimede Seguso,” by R. B. Mentasti. Parabolic glass bowl with gold coloring. Rec'd—6/15/2012. Est. Value—$1,845.00. Disposition—National Archives and Records Administration | His Excellency Mario Monti, President of the Council of Minister of the Italian Republic | Non-acceptance would cause embarrassment to donor and U.S. Government.
The Honorable Barack Obama, President of the United States, and Mrs. Michelle Obama | 2″ x 3″ rug in flower and octagon design and multiple colors. Six hand-cut crystal glasses with gold tinted base and handle. Rec'd—12/20/2012. Est. Value—$1,450.00. Disposition—National Archives and Records Administration | His Excellency Elin Suleymanov, Ambassador of the Republic of Azerbaijan to the United States | Non-acceptance would cause embarrassment to donor and U.S. Government.
Mrs. Michelle Obama, First Lady of the United States | Cashmere scarf by J. Saunders. Rec'd—3/13/2012. Est. Value—$480.00. Disposition—National Archives and Records Administration | Mrs. Samantha Cameron, Spouse of the Prime Minister of the United Kingdom of Great Britain and Northern Ireland | Non-acceptance would cause embarrassment to donor and U.S. Government.
Mrs. Michelle Obama, First Lady of the United States | Labradorite bead necklace, matching bracelet with maple leaf and pine cone pendants, and silver hoop earrings. Rec'd—5/19/2012. Est. Value—$470.00. Disposition—National Archives and Records Administration | The Right Honorable Stephen Harper, P.C., M.P., Prime Minister of Canada | Non-acceptance would cause embarrassment to donor and U.S. Government.
Mrs. Michelle Obama, First Lady of the United States | Goldenrod earrings with blue crystal set stud and box chain drop featuring pave set hexagon. Rec'd—7/28/2012. Est. Value—$492.00. Disposition—National Archives and Records Administration | Mrs. Samantha Cameron, Spouse of the Prime Minister of the United Kingdom of Great Britain and Northern Ireland | Non-acceptance would cause embarrassment to donor and U.S. Government.
Mrs. Michelle Obama, First Lady of the United States | Set of filigree silver jewelry including a bracelet, ring, necklace, and earrings with red agate stone settings. Rec'd—9/27/2012. Est. Value—$680.00. Disposition—National Archives and Records Administration | His Excellency Abdo Rabo Mansour Hadi, President of the Republic of Yemen | Non-acceptance would cause embarrassment to donor and U.S. Government.
Mrs. Michelle Obama, First Lady of the United States | Gold flower earrings with amber teardrops. Pearl necklace with gold pendant. Rec'd—10/11/2012. Est. Value—$780.00. Disposition—National Archives and Records Administration | Monika Kmecová, Spouse of the Ambassador of the Slovak Republic to the United States | Non-acceptance would cause embarrassment to donor and U.S. Government.
Mrs. Michelle Obama, First Lady of the United States | Pearl necklace with gold and diamond clasp. Rec'd—11/20/2012. Est. Value—$4,200.00. Disposition—National Archives and Records Administration | His Excellency U Thein Sein, President of Burma | Non-acceptance would cause embarrassment to donor and U.S. Government.
First Family | Circular gold pin. Pink beaded bracelet. Three flower hair pins. Samsung digital camera. Security Summit silver coin. Samsung Galaxy Tab 10.1. Rec'd—3/26/2012. Est. Value—$1,355.00. Disposition—National Archives and Records Administration | His Excellency Lee Myung-bak, President of the Republic of Korea | Non-acceptance would cause embarrassment to donor and U.S. Government.
First Family | Two woven, multi-colored fabric bags. Small woven handbag with beads and long handle. Book, title: “Silvia Tchesrassi photography,” by J.C. Obando. Book, title: “Lágrimas de América” by artist C.C. Daza. Rec'd—6/13/2012. Est. Value—$1,690.00. Disposition—National Archives and Records Administration | His Excellency Juan Manuel Santos Calderón, President of the Republic of Colombia | Non-acceptance would cause embarrassment to donor and U.S. Government.
First Family Children | Two flower brooches of pearl, gold, and diamond. Rec'd—11/20/2012. Est. Value—$4,440.00. Disposition—National Archives and Records Administration | His Excellency U Thein Sein, President of Burma | Non-acceptance would cause embarrassment to donor and U.S. Government.
White House Staff Member Bird, Debra | 4″ diameter paperweight. Qahwah coffee cup. 4″ diameter silver bowl. 9″ long Qahwah platter. Book, title: “Arabia: In Search of Golden Ages,” by M.H. Morgan. Rec'd—2/9/2012. Est. Value—$395.00. Disposition—Gift Office; Pending Transfer to General Services Administration | His Excellency Adel A. Al-Jubeir, Ambassdor of the Kingdom of Saudi Arabia to the United States | Non-acceptance would cause embarrassment to donor and U.S. Government.
White House Staff Member Blinken, Anthony | 10,000 Dram gold coin with certificate of authenticity. Rec'd—12/13/2012. Est. Value—$1,000.00. Disposition—Gift Office; Pending Transfer to General Services Administration | His Excellency Tigran Sargsyan, Prime Minister of the Republic of Armenia | Non-acceptance would cause embarrassment to donor and U.S. Government.
White House Staff Member Brennan, John | Jewelry set of necklace, bracelet, earrings, and ring. Replica of the ancient palace Dar Alhajar. Janbia, a traditional dagger presented in a display case. Rec'd—3/19/2012. Est. Value—$525.00. Disposition-Gift Office; Pending Transfer to General Services Administration | Major General Ahmed Ali al-Ashwal, Chief of Staff for the Army of the Republic of Yemen | Non-acceptance would cause embarrassment to donor and U.S. Government.
White House Staff Member Brennan, John | Set of filigree silver jewelry and coral stones including necklace, bracelet, ring, and earrings. 14″ long saber with silver handle and silver sheath encrusted with coral stones. Rec'd—9/27/2012. Est. Value—$590.00. Disposition—Gift Office; Pending Transfer to General Services Administration | His Excellency Abdo Rabo Mansour Hadi, President of the Republic of Yemen | Non-acceptance would cause embarrassment to donor and U.S. Government.
White House Staff Member Brennan, John | Three Bulgarian military medals and pins in a case with accompanying certificate. Rec'd—11/19/2012. Est. Value—$895.00. Disposition—Gift Office; Pending Transfer to General Services Administration | His Excellency Tsvetan Tsvetanov, Minister of the Interior of the Republic of Bulgaria | Non-acceptance would cause embarrassment to donor and U.S. Government.
White House Staff Member Donilon, Thomas | Book, title: “International Conference.” Two 4″ tall amber cups with silver accents along the rim, middle, and bottom. Rec'd—4/2/2012. Est. Value—$545.00. Disposition—Pending Transfer to General Services Administration | General Nikolay Patrushev, Secretary of the Security Council of the Russian Federation | Non-acceptance would cause embarrassment to donor and U.S. Government.
White House Staff Member Donilon, Thomas | 8″ tall amber-colored glass sculpture with four legs, decorated with Chinese characters. Rec'd—5/7/2012. Est. Value—$460.00. Disposition—Gift Office; Pending Transfer to General Services Administration | His Excellency Liang Guanglie, Minister for National Defense of the People's Republic of China | Non-acceptance would cause embarrassment to donor and U.S. Government.
White House Staff Member Donilon, Thomas | Eleven piece tea set with a pot and five cups. Rec'd—6/18/2012. Est. Value—$640.00. Disposition—Gifts Office, Pending Transfer to General Services Administration | His Excellency Dai Bingguo, State Councilor of the People's Republic of China | Non-acceptance would cause embarrassment to donor and U.S. Government.
White House Staff Member Donilon, Thomas | 14″ x 9″ x 2″ sterling silver bowl with a leaf design on one end, standing on two legs. Chocolate candies. Rec'd—12/31/2012. Est. Value—$990.00. Disposition—Gift Office; Pending Transfer to General Services Administration; Chocolates handled pursuant to United States Secret Service Policy | His Excellency Adel A. Al-Jubeir, Ambassdor of the Kingdom of Saudi Arabia to the United States | Non-acceptance would cause embarrassment to donor and U.S. Government.
White House Staff Member Eggers, Jeffrey | 48″ x 75″ red Afghan carpet with beige and black pattern. Rec'd—7/18/2012. Est. Value—$400.00. Disposition—Gift Office; Pending Transfer to General Services Administration | His Excellency Eklil Hakimi, Ambassador of the Islamic Republic of Afghanistan to the United States | Non-acceptance would cause embarrassment to donor and U.S. Government.
White House Staff Member Holmes, David | 48″ x 75″ red Afghan carpet with beige and black pattern. Rec'd—7/18/2012. Est. Value—$400.00. Disposition—Gift Office; Pending Transfer to General Services Administration | His Excellency Eklil Hakimi, Ambassador of the Islamic Republic of Afghanistan to the United States | Non-acceptance would cause embarrassment to donor and U.S. Government.
White House Staff Member McDonough, Denis | 11.5″ x 15″ framed print of a male holding a flag while riding a horse, artist unknown. Rec'd—2/28/2012. Est. Value—$425.00. Disposition—Gift Office; Pending Transfer to General Service Administration | His Excellency Kairat Umarov, Ambassador of the Republic of Kazakhstan to the United States | Non-acceptance would cause embarrassment to donor and U.S. Government.
White House Staff Member McDonough, Denis | 6″ tall gold-plated model ship with single mast and several sails. Four boxes of six gold-plated “Dilmun Seals.”. Rec'd—7/15/2012. Est. Value—$920.00. Disposition—Gift Office; Pending Transfer to General Services Administration | His Excellency Shaikh Khalifa Bin Abdullah Bin Mohamed Al-Khalifa, Director of the National Security Agency of the Kingdom of Bahrain | Non-acceptance would cause embarrassment to donor and U.S. Government.
White House Staff Member Newton, Julia | 4″ diameter paperweight. Qahwah coffee cup. 4″ diameter silver bowl. 9″ long Qahwah platter. Book, title: “Arabia: In Search of Golden Ages,” by M.H. Morgan. Rec'd—2/8/2012. Est. Value—$395.00. Disposition—Gift Office; Pending Transfer to General Services Administration | His Excellency Adel A. Al-Jubeir, Ambassdor of the Kingdom of Saudi Arabia to the United States | Non-acceptance would cause embarrassment to donor and U.S. Government.
White House Staff Member Power, Samantha | 94″ black silk scarf with flowers, designed by Yolanda. Pack of assorted tea. Rec'd—5/17/2012. Est. Value—$373.00. Disposition—Pending Transfer to General Services Administration; Tea handled pursuant to United States Secret Service policy | G. L. Peris, Cabinet Minister of External Affairs of the Democratic Socialist Republic of Sri Lanka | Non-acceptance would cause embarrassment to donor and U.S. Government.
White House Staff Member Russel, Daniel | Commemorative ballpoint pen, green with silver lettering. Book, title: “His Majesty Sultan Haji Hassanal Bolkiah Mu'izzaddin Waddaulah—Sultan and Yang Di-Pertuan of Brunei Darussalam: A Celebration of Forty Glorious Years of Reign”. Rec'd—11/29/2012. Est. Value—$750.00. Disposition—Gift Office; Pending Transfer to General Services Administration | His Majesty Sultan Haji Hassanal Bolkiah Mu'izzaddin Waddaulah ibni Al-Marhum Sultan Haji Omar `Ali Saifuddien Sa'adul Khairi Waddien, Sultan and Yang Di-Pertuan of Brunei Darussalam | Non-acceptance would cause embarrassment to donor and U.S. Government.
White House Staff Member Seiler, Syd | Black lacquer ware screen with nature designs and Korean characters. CD, title: “Ji-Hae Park Classic Volume 2.” Large 2012 wall calendar. Rec'd—1/18/2012. Est. Value—$519.99. Disposition—Gift Office; Pending Transfer to General Services Administration | His Excellency Major General Lee Seo-young, Defense Attaché of the Republic of Korea | Non-acceptance would cause embarrassment to donor and U.S. Government.
White House Staff Member Sherwood-Randall, Elizabeth | Gold bracelet with “evil eye” diamond. Rec'd—9/14/2012. Est. Value—$518.00. Disposition—Gift Office; Pending Transfer to General Services Administration | Ms. Fugen Tan, Spouse of the Ambassador of the Republic of Turkey to the United States | Non-acceptance would cause embarrassment to donor and U.S. Government.

Agency: The White House—Office of the Vice President
[Report of Tangible Gifts Furnished by The White House—Office of the Vice President]
Name and title of person accepting the gift on behalf of the U.S. Government | Gift, date of acceptance on behalf of the U.S. Government, estimated value, and current disposition or location | Identity of foreign donor and government | Circumstances justifying acceptance
The Honorable Joseph R. Biden, Jr., Vice President of the United States | A silver knife and chain with a wooden handle. Pair of chopsticks with silver ends. Wooden sheath with silver alloy designs. Bridled silver alloy strap with stirrup-style loop. Separate leather and silver alloy pack/clip with two bridled cords plus leather stirrup strap/loop. Leather presentation box. Rec'd—2/2/2012. Est. Value—$980.00. Disposition—National Archives and Records Administration | His Excellency Sukhbaatar Batbold, Prime Minister of Mongolia | Non-acceptance would cause embarrassment to donor and U.S. Government.
The Honorable Joseph R. Biden, Jr., Vice President of the United States | Brown leather cigar box with applied sterling silver. Rectangular plaque on hinged lid (12 interior slots). Rec'd—3/5/2012. Est. Value—$390.00. Disposition—National Archives and Records Administration | His Excellency Felipe de Jesús Calderón Hinojosa, President of the United Mexican States | Non-acceptance would cause embarrassment to donor and U.S. Government.
The Honorable Joseph R. Biden, Jr., Vice President of the United States | Light blue hardcover book, title: “Between Two Seas: A Celebration of Modern Bahrain,” by Andrew Weaver. William & Son brown box with silver 8-point (beach theme) leaf design on top. Cylindrical box carved in dark brown leather topped by sterling silver 8-petal rosette with beige suede interior plus cover with attached dark brown leather butterfly, in presentation box. Rec'd—6/12/2012. Est. Value—$590.00. Disposition—National Archives and Records Administration | His Royal Highness Prince Salman bin Hamad Al-Khalifa, Crown Prince of the Kingdom of Bahrain and Deputy Supreme Commander of the Bahrain Defense Force | Non-acceptance would cause embarrassment to donor and U.S. Government.
The Honorable Joseph R. Biden, Jr., Vice President of the United States | Female bare-breasted bust, face in profile, carved into tooth with 6.25″ outside length carved and curved and 5.25″ inside length adhered to wood. Carved tooth depicting female head with long hair 6.5″ long on outside of cone, 5.5″ long on inside of cone on wood ovoid two holes where carving has exposed internal cavity. Ebony carving of standing female carrying basket on head with four lobes hanging from left hand. Rec'd—6/28/2012. Est. Value—$530.00. Disposition—National Archives and Records Administration | Her Excellency Ellen Johnson Sirleaf, President of the Republic of Liberia | Non-acceptance would cause embarrassment to donor and U.S. Government.
The Honorable Joseph R. Biden, Jr., Vice President of the United States | Knife, curved blade, waisted silver handle and curved sheath with filigree work in a presentation box. Set of silver filigree jewelry with coral stones (included necklace, bracelet, ring, and earrings). Rec'd—10/15/2012. Est. Value—$1,300.00. Disposition—National Archives and Records Administration | His Excellency Abdo Rabo Mansour Hadi, President of the Republic of Yemen | Non-acceptance would cause embarrassment to donor and U.S. Government.
Dr. Jill Biden, Second Lady of the United States | Torch from the 2011 Special Olympics held in Athens, Greece. Torch was made by Zolotas, having tapered matte stone head over fluted navy blue handle. Rec'd—6/23/2011. Est. Value—$470.00. Disposition—National Archives and Records Administration | The Honorable Kgalema Motlanthe, Deputy President of the Republic of South Africa | Non-acceptance would cause embarrassment to donor and U.S. Government.

Agency: Department of State
[Report of Tangible Gifts Furnished by the Department of State]
Name and title of person accepting the gift on behalf of the U.S. Government | Gift, date of acceptance on behalf of the U.S. Government, estimated value, and current disposition or location | Identity of foreign donor and government | Circumstances justifying acceptance.
The Honorable Hillary Clinton, Secretary of State of the United States | Framed oil on canvas painting depicting two female figures in the forefront and others in the background. Wooden antique from the Attie ethnic group of the Republic of Cote d'Ivoire with a carved pattern on the outside, a cover and a metal stand. Rec'd—1/17/2012. Est. Value—$570.00. Disposition—Pending Transfer to General Services Administration | His Excellency Alassane Ouattara, President of the Republic of Cote d'Ivoire | Non-acceptance would cause embarrassment to donor and U.S. Government.
The Honorable Hillary Clinton, Secretary of State of the United States | Sterling silver and amber jewelry containing a cuff bracelet, a necklace, and earrings. Rec'd—1/31/2012. Est. Value—$550.00. Disposition—Pending Transfer to General Services Administration | His Excellency Yerzhan Kazykhanov, Minister of Foreign Affairs of the Republic of Kazakhstan | Non-acceptance would cause embarrassment to donor and U.S. Government.
The Honorable Hillary Clinton, Secretary of State of the United States | Two piece bronze sculpture of a red chili pepper with a black granite base plate. Rec'd—2/1/2012. Est. Value—$540.00. Disposition—Pending Transfer to General Services Administration | His Excellency K. Shanmugam, Minister of Foreign Affairs of the Republic of Singapore | Non-acceptance would cause embarrassment to donor and U.S. Government.
The Honorable Hillary Clinton, Secretary of State of the United States | Amber-colored Pasabahce Magazalan decorative vase with ornate design on border. Rec'd—2/13/2012. Est. Value—$460.00. Disposition—Pending Transfer to General Services Administration | His Excellency Ahmet Davutoğlu, Minister of Foreign Affairs of the Republic of Turkey | Non-acceptance would cause embarrassment to donor and U.S. Government.
The Honorable Hillary Clinton, Secretary of State of the United States | Inlaid silver-plated box with satin lining containing a large bouquet, four small bouquets, and four “Hands of Fatimah”. Rec'd—2/25/2012. Est. Value—$450.00. Disposition—Pending Transfer to General Services Administration | His Excellency Hamadi Jebali, Interim Prime Minister of the Republic of Tunisia | Non-acceptance would cause embarrassment to donor and U.S. Government.
The Honorable Hillary Clinton, Secretary of State of the United States | Ship made of silver and Algerian coral. Two cases of assorted Algerian wine. Four cases of Algerian dates. Rec'd—2/25/2012. Est. Value—$2,023.00. Disposition—Pending Transfer to General Services Administration | His Excellency Abdelaziz Bouteflika, President of the People's Democratic Republic of Algeria | Non-acceptance would cause embarrassment to donor and U.S. Government.
The Honorable Hillary Clinton, Secretary of State of the United States | White gold jewelry with teardrop rubies and diamonds containing a necklace, a bracelet, earrings, and a ring. Rec'd—3/31/2012. Est. Value—$500,000.00. Disposition—Pending Transfer to General Services Administration | King Abdullah bin Abd al-Aziz al-Saud, Custodian of the Two Holy Mosques, King of the Kingdom of Saudi Arabia | Non-acceptance would cause embarrassment to donor and U.S. Government.
The Honorable Hillary Clinton, Secretary of State of the United States | Frosted glass Dior vase with green floral design. Rec'd—4/11/2012. Est. Value—$470.00. Disposition—Pending Transfer to General Services Administration | His Excellency Alain Juppé, Minister of Foreign and European Affairs of the French Republic | Non-acceptance would cause embarrassment to donor and U.S. Government.
The Honorable Hillary Clinton, Secretary of State of the United States | Statue of two golden horses on a black marble base. Rec'd—4/12/2012. Est. Value—$6,700.00. Disposition—Pending Transfer to General Services Administration | His Royal Highness Crown Prince Salman bin Abdulaziz Al Saud, Minister of Defense of the Kingdom of Saudi Arabia | Non-acceptance would cause embarrassment to donor and U.S. Government.
The Honorable Hillary Clinton, Secretary of State of the United States | Natural baby South Sea pearl necklace. Book, title: “Philippines Living Landscapes and Cultural Landmarks: World Heritage Sites”. Rec'd—4/30/2012. Est. Value—$465.00. Disposition—Pending Transfer to General Services Administration | His Excellency Albert F. del Rosario, Secretary of Foreign Affairs of the Republic of the Philippines | Non-acceptance would cause embarrassment to donor and U.S. Government.
The Honorable Hillary Clinton, Secretary of State of the United States | Five strand pearl necklace. Three Jamdani saris. Rec'd—5/5/2012. Est. Value—$480.00. Disposition—Pending Transfer to General Services Administration | Madame Khaleda Zia, Chairperson of the Bangladesh Nationalist Party | Non-acceptance would cause embarrassment to donor and U.S. Government.
The Honorable Hillary Clinton, Secretary of State of the United States | Plaster of Paris work reproduction inspired by Jainal Abedin artwork of oxen pulling a wagon. Pearl necklace. Rec'd—5/5/2012. Est. Value—$425.00. Disposition—Pending Transfer to General Services Administration | Her Excellency Sheikh Hasina, Prime Minister of the People's Republic of Bangladesh | Non-acceptance would cause embarrassment to donor and U.S. Government.
The Honorable Hillary Clinton, Secretary of State of the United States | Silver chalice with lid in wooden box. Rec'd—5/17/2012. Est. Value—$450.00. Disposition—Pending Transfer to General Services Administration | His Excellency U Wunna Maung Lwin, Minister of Foreign Affairs of Burma | Non-acceptance would cause embarrassment to donor and U.S. Government.
The Honorable Hillary Clinton, Secretary of State of the United States | Set of scarf, brooch, earrings, and bracelet. Rec'd—6/4/2012. Est. Value—$520.00. Disposition—Pending Transfer to General Services Administration | His Excellency Eduard Nalbandian, Foreign Minister of the Republic of Armenia | Non-acceptance would cause embarrassment to donor and U.S. Government.
The Honorable Hillary Clinton, Secretary of State of the United States | 43″ x 61″ “Garabah Shusha” wool carpet. A set of two silver and gold wash teacups and saucers. Book, title: “Azerbaijan—The Land of Tolerance.” A letter of authenticity. Rec'd—6/6/2012. Est. Value—$420.00. Disposition—Pending Transfer to General Services Administration | His Excellency Ilham Aliyev, President of the Republic of Azerbaijan | Non-acceptance would cause embarrassment to donor and U.S. Government.
The Honorable Hillary Clinton, Secretary of State of the United States | Silver pot with a foliated scroll design. Rec'd—6/11/2012. Est. Value—$480.00. Disposition—Pending Transfer to General Services Administration | The Honorable Hor Namhong, Deputy Prime Minister and Minister of Foreign Affairs and Inernational Cooperation of the Kingdom of Cambodia | Non-acceptance would cause embarrassment to donor and U.S. Government.
The Honorable Hillary Clinton, Secretary of State of the United States | Porcelain Imperial Lomonosov tea set. DVD of Russian documentary film on Secretary Clinton. Framed photo of Secertary Clinton with Foreign Minister Lavrov. Rec'd—6/29/2012. Est. Value—$435.00. Disposition—Pending Transfer to General Services Administration | His Excellency Sergey Lavrov, Minister of Foreign Affairs of the Russian Federation | Non-acceptance would cause embarrassment to donor and U.S. Government.
The Honorable Hillary Clinton, Secretary of State of the United States | Pavlovaposadsky shawl. Engraved metallic picture of Saint Isaac's Cathedral. Rec'd—6/29/2012. Est. Value—$530.00. Disposition—Pending Transfer to General Services Administration | Valentina Matviyenko, Chairman of the Federation Council of the Russian Federation | Non-acceptance would cause embarrassment to donor and U.S. Government.
The Honorable Hillary Clinton, Secretary of State of the United States | 34″ x 26″ painting of Secretary Clinton in a gold frame. Rec'd—6/2012. Est. Value—$500.00. Disposition—Pending Transfer to General Services Administration | His Excellency Illham Aliyev, President of the Republic of Azerbaijan | Non-acceptance would cause embarrassment to donor and U.S. Government.
The Honorable Hillary Clinton, Secretary of State of the United States | 80″ x 108″ large tan, red, and gold woven Afghan rug. Rec'd—7/7/2012. Est. Value—$2,200.00. Disposition—Pending Transfer to General Services Administration | His Excellency Hamid Karzai, President of the Islamic Republic of Afghanistan | Non-acceptance would cause embarrassment to donor and U.S. Government.
The Honorable Hillary Clinton, Secretary of State of the United States | Modern oil on canvas painting, title: “Bold,” abstract with colors of red, orange, yellow, and white with a black frame with linen-colored matting including presentation plate and description. Rec'd—7/9/2012. Est. Value—$450.00. Disposition—Pending Transfer to General Services Administration | His Excellency Tsakhiagiin Elbegdorj, President of Mongolia | Non-acceptance would cause embarrassment to donor and U.S. Government.
The Honorable Hillary Clinton, Secretary of State of the United States | Black caviar. Rec'd—7/9/2012. Est. Value—$500.00. Disposition—Handled Pursuant to the Guidelines Set Forth by General Services Administrations | His Excellency Elin Suleymanov, Ambassador of the Republic of Azerbaijan to the United States | Non-acceptance would cause embarrassment to donor and U.S. Government.
The Honorable Hillary Clinton, Secretary of State of the United States | Silver rice container. Decorated silk shawl. Rec'd—7/11/2012. Est. Value—$430.00. Disposition—Pending Transfer to General Services Administration | His Excellency Thongloun Sisoulith, Foreign Minister of the Lao People's Democratic Republic | Non-acceptance would cause embarrassment to donor and U.S. Government.
The Honorable Hillary Clinton, Secretary of State of the United States | 12″ x 8″ picture in wooden frame, title: “Jahangir Presents Prince Khurram with a Turban Ornament”. Rec'd—7/31/2012. Est. Value—$600.00. Disposition—Pending Transfer to General Services Administration | Mr. Kapil Sibal, Minister of Human Resources Development of the Republic of India | Non-acceptance would cause embarrassment to donor and U.S. Government.
The Honorable Hillary Clinton, Secretary of State of the United States | Hand-blown glass vase. Hand-blown glass plate. Rec'd—8/8/2012. Est. Value—$495.00. Disposition—Pending Transfer to General Services Administration | Her Excellency Maite Nkoana-Mashabane, Minister of International Relations and Cooperation of the Republic of South Africa | Non-acceptance would cause embarrassment to donor and U.S. Government.
The Honorable Hillary Clinton, Secretary of State of the United States | Brown tin indigenous face sculpture. Pink tablecloth with blue and yellow design. Blue tablecloth with white design. Yellow and black tablecloth with pink design. Woven blue and white blanket with orange, yellow, and blue design. White woven tablecloth with beige embroidery. Beige tablecloth with white design. Burgundy tablecloth with white fish design. Red tablecloth with black and white design. Two mint green fabric table runners. Large olive green tablecloth with white design. Set of green napkins and tablecloth with tribal design. Set of white napkins and tablecloth with tribal designs. Orange woven tablecloth with blue design. Orange woven tablecloth with white design. Purple and orange woven tablecloth with orange design. Rec'd—8/10/2012. Est. Value—$485.00. Disposition—Pending Transfer to General Services Administration | His Excellency Dr. Boni Yayi, President of the Republic of Benin | Non-acceptance would cause embarrassment to donor and U.S. Government.
The Honorable Hillary Clinton, Secretary of State of the United States | Avaiki black pearl necklace. Avaiki black pearl earrings. Rec'd—8/31/2012. Est. Value—$990.00. Disposition—Pending Transfer to General Services Administration | The Honorable Henry Puna, Prime Minister of the Cook Islands | Non-acceptance would cause embarrassment to donor and U.S. Government.
The Honorable Hillary Clinton, Secretary of State of the United States | Cognac. Rec'd—8/2012. Est. Value—$560.00. Disposition—Handled Pursuant to the Guidelines Set Forth by General Services Administrations | His Excellency Vladimir Putin, President of the Russian Federation | Non-acceptance would cause embarrassment to donor and U.S. Government.
The Honorable Hillary Clinton, Secretary of State of the United States | Box covered in purple handwoven fabric containing traditional Timorese noblewoman garments and jewelry. Box containing miniature silver filigree republic of a Timorese traditional home. Book, title: “Strategies for the Future,” by Prime Minister Kay Rala Xanana Gusmao with personal note to Secretary Clinton. Book, title: “Xanana Gusmao and the First Ten Years of Building the Timorese State,” by Prime Minister Kay Rala Xanana Gusmao with personal note to Secretary Clinton.. Rec'd—9/6/2012. Est. Value—$420.00. Disposition—Pending Transfer to General Services Administration | His Excellency Kay Rala Xanana Gusmao, Prime Minister of the Democratic Republic of Timor-Leste | Non-acceptance would cause embarrassment to donor and U.S. Government.
The Honorable Hillary Clinton, Secretary of State of the United States | Mouawad Larme D'Amour 18k gold, sapphire, and diamond earrings, necklace, and bracelet. Rec'd—9/7/2012. Est. Value—$58,000.00. Disposition—Pending Transfer to General Services Administration | Her Majesty Paduka Seri Baginda Raja Isteri Pengiran Anak Hajah Saleha binti Al-Marhum Pengiran Pemancha Anak Haji Mohdamed Alam, Queen of Brunei Darussalam | Non-acceptance would cause embarrassment to donor and U.S. Government.
The Honorable Hillary Clinton, Secretary of State of the United States | Silver jewelry box with a plaque written “With Compliment HRH Prince Mohamed Bolkiah, Brunei Darussalam”. Rec'd—9/7/2012. Est. Value—$440.00. Disposition—Pending Transfer to General Services Administration | His Royal Highness, Prince Mohamed Bolkiah ibni Al-Marhum Sultan Haji Omar Ali' Saifuddien Sa'adul Khairi Waddien, Minister of Foreign Affairs and Trade of Brunei Darussalam | Non-acceptance would cause embarrassment to donor and U.S. Government.
The Honorable Hillary Clinton, Secretary of State of the United States | Book, title: “The Wealth of Russia.” Set of three silver coins. Rec'd—9/8/2012. Est. Value—$400.00. Disposition—Pending Transfer to General Services Administration | His Excellency Vladimir Putin, President of the Russian Federation | Non-acceptance would cause embarrassment to donor and U.S. Government.
The Honorable Hillary Clinton, Secretary of State of the United States | Two rings and horn brooch. Silver and coral jewelry set with a necklace, bracelet, earrings, and ring. Rec'd—9/25/2012. Est. Value—$440.00. Disposition—Pending Transfer to General Services Administration | His Excellency Abdo Rabo Mansour Hadi, President of the Republic of Yemen | Non-acceptance would cause embarrassment to donor and U.S. Government.
The Honorable Hillary Clinton, Secretary of State of the United States | Photo album of Secretary Clinton and State Councilor Dai's previous meetings. A pink floral Chinese silk scarf in a red box. Rec'd—10/3/2012. Est. Value—$520.00. Disposition—Pending Transfer to General Services Administration | His Excellency Dai Bingguo, State Councilor of the People's Republic of China | Non-acceptance would cause embarrassment to donor and U.S. Government.
The Honorable Hillary Clinton, Secretary of State of the United States | Gold pen set on a stand with a horse and human figurine. Rec'd—10/3/2012. Est. Value—$950.00. Disposition—Pending Transfer to General Services Administration | His Excellency Erlan Idrissov, Minister of Foreign Affairs of the Republic of Kazakhstan | Non-acceptance would cause embarrassment to donor and U.S. Government.
The Honorable Hillary Clinton, Secretary of State of the United States | Blue scarf with black, purple, and blue beaded flowers. Gold and red earrings. Red jacket with tan and green leaves with silver and red accents. Rec'd—10/29/2012. Est. Value—$520.00. Disposition—Pending Transfer to General Services Administration | Her Excellency Atifete Jahjaga, President of the Republic of Kosovo | Non-acceptance would cause embarrassment to donor and U.S. Government.
The Honorable Hillary Clinton, Secretary of State of the United States | Silver tea set with six teacups, six saucers, six spoons, and a teapot with a lid. Rec'd—10/29/2012. Est. Value—$1,750.00. Disposition—Pending Transfer to General Services Administration | His Excellency Abdelaziz Bouteflika, President of the People's Democratic Republic of Algeria | Non-acceptance would cause embarrassment to donor and U.S. Government.
The Honorable Hillary Clinton, Secretary of State of the United States | Framed silver filigree jewelry. Rec'd—10/31/2012. Est. Value—$470.00. Disposition—Pending Transfer to General Services Administration | Her Excellency Atifete Jahjaga, President of the Republic of Kosovo | Non-acceptance would cause embarrassment to donor and U.S. Government.
The Honorable Hillary Clinton, Secretary of State of the United States | 3.5″ x 6″ x 4.5″ silver filigree box. Rec'd—10/31/2012. Est. Value—$400.00. Disposition—Pending Transfer to General Services Administration | His Excellency Sali Berisha, Prime Minister of the Republic of Albania | Non-acceptance would cause embarrassment to donor and U.S. Government.
The Honorable Hillary Clinton, Secretary of State of the United States | Book, title: “Buddha Image of Wat Pho.” Book, title: “Wat Pho's Phra Vihara of the Recling Buddha.” Book, title: “Architecture of Wat Pho”. Rec'd—11/18/2012. Est. Value—$680.00. Disposition—Pending Transfer to General Services Administration | His Venerable Holiness Phra Dhammapanyabordee, Abbott of the Wat Pho Monastery of the Kingdom of Thailand | Non-acceptance would cause embarrassment to donor and U.S. Government.
The Honorable Hillary Clinton, Secretary of State of the United States | Multi-colored Royal Bone China Thai tea set with four cups and four saucers. Rec'd—11/18/2012. Est. Value—$440.00. Disposition—Pending Transfer to General Services Administration | His Excellency Surapong Tovichakchaikul, Deputy Prime Minister and Foreign Minister of the Kingdom of Thailand | Non-acceptance would cause embarrassment to donor and U.S. Government.
The Honorable Hillary Clinton, Secretary of State of the United States | Filigree jewelry holder. Rec'd—11/19/2012. Est. Value—$450.00. Disposition—Pending Transfer to General Services Administration | His Excellency Bujar Nishani, President of the Republic of Albania | Non-acceptance would cause embarrassment to donor and U.S. Government.
The Honorable Hillary Clinton, Secretary of State of the United States | Large floral arrangement with a get well card. Rec'd—12/17/2012. Est. Value—$450.00. Disposition—Pending Transfer to General Services Administration | His Excelleny Shaikh Khalid bin Ahmed Al-Khalifa, Foreign Minister of the Kingdom of Bahrain | Non-acceptance would cause embarrassment to donor and U.S. Government.
The Honorable Hillary Clinton, Secretary of State of the United States | Large floral arrangement with a get well card. Rec'd—12/17/2012. Est. Value—$607.50. Disposition—Pending Transfer to General Services Administration | His Majesty King Hamad bin Isa Al- Khalifa, King of the Kingdom of Bahrain | Non-acceptance would cause embarrassment to donor and U.S. Government.
The Honorable Hillary Clinton, Secretary of State of the United States | Brooch and earrings. Rec'd—12/30/2012. Est. Value—$670.00. Disposition—Pending Transfer to General Services Administration | The Presidency of Bosnia and Herzegovina | Non-acceptance would cause embarrassment to donor and U.S. Government.
The Honorable Hillary Clinton, Secretary of State of the United States | 30.5″ metal sword with plexiglass stand. Rec'd—12/31/2012. Est. Value—$430.00. Disposition—Pending Transfer to General Services Administration | His Excellency Dimitris Avramopoulous, Minister of Foreign Affairs of the Hellenic Republic | Non-acceptance would cause embarrassment to donor and U.S. Government.
The Honorable Hillary Clinton, Secretary of State of the United States | Statuette in wooden box with inscription: “Msho Tcharyntir,” translation “Homilies of Mush”. Rec'd—Unknown. Est. Value—$2,200.00. Disposition—Pending Transfer to General Services Administration | His Excellency Serzh Sargsyan, President of the Republic of Armenia | Non-acceptance would cause embarrassment to donor and U.S. Government.
The Honorable William J. Burns, Deputy Secretary of State | Silver paperweight with magnifying glass. Food basket with Sil Sal ceramic jar full of candies, box of dates and chocolates, sundried tomatoes, various spices, a jar of jam, wine, olive oil, hot sauce, honey, hot red peppers in oil, olives in oil, and magnesium oil. Rec'd—1/12/2012. Est. Value—$400.00. Disposition—Pending Transfer to General Services Administration | His Majesty King Abdullah II ibn Al Hussein, King of the Hashemite Kingdom of Jordan | Non-acceptance would cause embarrassment to donor and U.S. Government.
The Honorable William J. Burns, Deputy Secretary of State | Gold-plated plaque with display box. Shadow box with Dallah and historic Al-Masmak display. Rec'd—1/19/2012. Est. Value—$750.00. Disposition—Pending Transfer to General Services Administration | Sheikh Muhammad al-Issa, Minister of Justice of the Kingdom of Saudi Arabia | Non-acceptance would cause embarrassment to donor and U.S. Government.
The Honorable R. Nicholas Burns, Under Secretary of State for Political Affairs | Large silver tray with personal inscription. Small silver tray with “souvenir” engraving. Rec'd—Unknown. Est. Value—$360.00. Disposition—Pending Transfer to General Services Administration | Political General Hok Lundy, Commissioner General of the Kingdom of Cambodia | Non-acceptance would cause embarrassment to donor and U.S. Government.
The Honorable Jeffrey Feltman, Assistant Secretary for Near Eastern Affairs | Gold-plated plaque with display box. Shadow box with Dallah and historic Al-Masmak display. Rec'd—1/19/2012. Est. Value—$570.00. Disposition—Pending Transfer to General Services Administration | Sheikh Muhammad al-Issa, Minister of Justice of the Kingdom of Saudi Arabia | Non-acceptance would cause embarrassment to donor and U.S. Government.
The Honorable Jose W. Fernandez, Assistant Secretary for the Economics and Business Bureau | 16GB iPad 2 with Wifi. Rec'd—3/3/2012. Est. Value—$480.00. Disposition—Pending Transfer to General Services Administration | The Jeddah Chamber of Commerce and Industry of the Kingdom of Saudi Arabia | Non-acceptance would cause embarrassment to donor and U.S. Government.
The Honorable Philip Gordon, Assistant Secretary for European and Eurasian Affairs | Four ounce black cavier. Rec'd—7/9/2012. Est. Value—$500.00. Disposition—Pending Transfer to General Services Administration | His Excellency Elin Suleymanov, Ambassador of the Republic of Azerbaijan to the United States | Non-acceptance would cause embarrassment to donor and U.S. Government.
The Honorable Kurt M. Campbell, Assistant Secretary for East Asian and Pacific Affairs | Book, title: “His Majesty Sultan Haji Hassanal Bolkiah Mui'izzaddin Waddaulah Sultan dan Yang Di-Pertuan of Brunei Darussalam: A Celebration of Forty Glorius Years of Reign.” Commemorative ballpoint pen. Rec'd—9/10/2012. Est. Value—$1,500.00. Disposition—Pending Transfer to General Services Administration | His Majesty Sultan Haji Hassanal Bolkiah Mui'izaddin Waddaulah ibni Al-Marhum Sultan Haji Omar `Ali Saifuddien Sa'adula Khairi Waddien, Sultan and Yang Di-Pertuan of Brunei Darussalam | Non-acceptance would cause embarrassment to donor and U.S. Government.
The Honorable Kerri-Ann Jones, Assistant Secretary for Oceans and International Environmental and Scientific Affairs | 10″ x 14″ painted lacquer in a metal frame. Rec'd—10/17/2012. Est. Value—$430.00. Disposition—Retained for Official Use Only | Ministry of Natural Resources and Environment of the Kingdom of Thailand | Non-acceptance would cause embarrassment to donor and U.S. Government.
The Honorable Capricia Penavic Marshall, Chief of Protocol | Pearl and diamond pin and earring set in a wooden box. Rec'd—10/29/2012. Est. Value—$ 1,300.00. Disposition—Pending Transfer to General Services Administration | Ms. Ravijojla Pavlovic, Chief of Protocol of Bosnia and Herzegovina | Non-acceptance would cause embarrassment to donor and U.S. Government.
The Honorable Daniel Benjamin, Ambassador at Large | Sword with sheath and case. Rec'd—12/2012. Est. Value—$1,130.00. Disposition—Pending Transfer to General Services Administration | His Excellency Mohammed Nasser Ahmed, Defense Minister of the Republic of Yemen | Non-acceptance would cause embarrassment to donor and U.S. Government.
The Honorable James F. Jeffrey, U.S. Ambassador to the Republic of Iraq | Carpet of Babylon. Rec'd—7/29/2012. Est. Value—$750.00. Disposition—Retained for Official Use Only | The Provinicial Reconstruction Team of the Government of the Republic of Iraq | Non-acceptance would cause embarrassment to donor and U.S. Government.
The Honorable Michael Michalak, U.S. Ambassador to Vietnam | Two 1.3 liter Minh Long tea set. Rec'd—2/2011. Est. Value—$765.00. Disposition—Pending Transfer to General Services Administration | His Excellency Tran Viet Tan, Deputy Minister of Public Security of Vietnam | Non-acceptance would cause embarrassment to donor and U.S. Government.
The Honorable Linda Thomas-Greenfield, U.S. Ambassador to Liberia | Gold-plated seal of Liberia which is part of the Liberian Medal of Honor. Rec'd—2/2012. Est. Value—$385.00. Disposition—Pending Transfer to General Services Administration | Ministry of Justice of the Republic of Liberia | Non-acceptance would cause embarrassment to donor and U.S. Government.
The Honorable James Smith, U.S. Ambassador to the Kingdom of Saudi Arabia | Rolex Oyster Perpetual watch (ref: 116000). Rec'd—5/22/2012. Est. Value—$5,200.00. Disposition—Pending Transfer to General Services Administration | Prince Fahd bin Badr bin Abdulaziz Al-Saud, Governor of the Al-Jouf Province of the Kingdom of Saudi Arabia | Non-acceptance would cause embarrassment to donor and U.S. Government.
The Honorable Richard J. Schmierer, U.S. Ambassador to Oman | Two bottles of Amouage perfume in a wooden gift box. Rec'd—7/29/2012. Est. Value—$625.00. Disposition—Pending Transfer to General Services Administration | His Highness Sayyid Mundhir bin Majid Said Al Sa'id, Head of Liaison and Coordination Services of the Royal Office of Oman | Non-acceptance would cause embarrassment to donor and U.S. Government.
The Honorable Richard J. Schmierer, U.S. Ambassador to Oman | Silver letter opener in the shape of a traditional Omani sword, embellished with silver-wire design in a wooden box inscribed with logo and “Royal Air Force of Oman”. Rec'd—7/30/2012. Est. Value—$490.00. Disposition—Pending Transfer to General Services Administration | Matar Bin Ali Al-Obaidani, Air Vice Marshall and Commander of the Royal Air Force of Oman | Non-acceptance would cause embarrassment to donor and U.S. Government.
Mirembe L. Nantongo, Deputy Chief of Mission | Original painting by Yousef Ahmed. Rec'd—5/23/2012. Est. Value—$3,000.00. Disposition—Retained for Official Use Only | Dr. Hessa Al Jaber, Secretary General of the Supreme Council of Information and Communication Technology of the State of Qatar | Non-acceptance would cause embarrassment to donor and U.S. Government.
Brian Goldbeck, Consul General | Two 15-year Maotai bottles. Rec'd—6/25/2012. Est. Value—$3,146.00. Disposition—Retained at Embassy for Official Use | Wan Qingliang, Guangzhou Party Secretary of the People's Republic of China | Non-acceptance would cause embarrassment to donor and U.S. Government.
Ms. Sangeeta Shields, Spouse of the U.S. Ambassador to Brunei Darussalam | Three pieces of silk fabric. Rec'd—8/12/2011. Est. Value—$390.00. Disposition—Pending Transfer to General Services Administration | Her Majesty Paduka Seri Baginda Raja Isteri Pengiran Anak Hajah Saleha binti Al-Marhum Pengiran Pemancha Anak Haji Mohdamed Alam, Queen of Brunei Darussalam | Non-acceptance would cause embarrassment to donor and U.S. Government.
Carlos Pascual, Special Envoy and Coordinator for International Energy Affairs | Samsung Galaxy tablet. Jewelry box. Bookbag. Rec'd—1/5/2012. Est. Value—$635.00. Disposition—Pending Transfer to General Services Administration | Pehin Datu Singamanteri Colonel (R) Dato Seri Setia (Dr) Awang Haji Md Yasmin Haji Umar, Minister of Energy of Brunei Darussalam | Non-acceptance would cause embarrassment to donor and U.S. Government.
Helen LaFave, Deputy Director | Shadow box with Dallah and historic Al-Masmak display. Rec'd—1/19/2012. Est. Value—$410.00. Disposition—Permission to Retain for Official Use Only | Sheikh Muhammad al-Issa, Minister of Justice for the Kingdom of Saudi Arabia | Non-acceptance would cause embarrassment to donor and U.S. Government.
Harold Haugjukoh, Legal Advisor | Wooden box with placard reading “With the compliments of the Minister of Justice Kingdom of Saudi Arabia.” Leather bound shadow box book including a small teapot and picture/small model of Al-Masmak. Rec'd—1/19/2012. Est. Value—$410.00. Disposition—Pending Transfer to General Services Administration | Sheikh Muhammad al-Issa, Minister of Justice for the Kingdom of Saudi Arabia | Non-acceptance would cause embarrassment to donor and U.S. Government.
James Infanzon, Protocol Officer | Tissot men's watch with black face. Rec'd—1/20/2012. Est. Value—$780.00. Disposition—Pending Transfer to General Services Administration | His Majesty King Abdullah II ibn Al Hussein, King of the Hashemite Kingdom of Jordan | Non-acceptance would cause embarrassment to donor and U.S. Government.
Daniel Joyce, Desk Officer | Cover men's watch with black leather wristband. Rec'd—1/20/2012. Est. Value—$390.00. Disposition—Pending Transfer to General Services Administration | His Majesty King Abdullah II ibn Al Hussein, King of the Hashemite Kingdom of Jordan | Non-acceptance would cause embarrassment to donor and U.S. Government.
Jason Rahlan, Protocol Officer | Swiss Chrono military men's silver watch with black face. Rec'd—1/20/2012. Est. Value—$430.00. Disposition—Pending Transfer to General Services Administration | His Majesty King Abdullah II ibn Al Hussein, King of the Hashemite Kingdom of Jordan | Non-acceptance would cause embarrassment to donor and U.S. Government.
Kristi Roberts, Desk Officer | Steel Tissot watch with red accents on the face. Rec'd—1/20/2012. Est. Value—$740.00. Disposition—Pending Transfer to General Services Administration | His Majesty King Abdullah II ibn Al Hussein, King of the Hashemite Kingdom of Jordan | Non-acceptance would cause embarrassment to donor and U.S. Government.
Ambassador Victoria Nuland, Spokesperson | Silver and pewter necklace with circular pendant and one pearl in the bottom center. Rec'd—1/30/2012. Est. Value—$390.00. Disposition—Pending Transfer to General Services Administration | Mr. Lulzim Basha, Mayor of Tirana of the Republic of Albania | Non-acceptance would cause embarrassment to donor and U.S. Government.
Ambassador Victoria Nuland, Spokesperson | Four oz. black cavier. Rec'd—7/9/2012. Est. Value—$500.00. Disposition—Pending Transfer to General Services Administration | His Excellency Elin Suleymanov, Ambassador of the Republic of Azerbaijan to the United States | Non-acceptance would cause embarrassment to donor and U.S. Government.
Robert F. Cekuta, Principal Deputy Assistant Secretary | Painting from Dubai. Rec'd—4/23/2012. Est. Value—$840.00. Disposition—Pending Transfer to General Services Administration | His Excellency Saeed Mohammed Al Tayer, Vice Chairman of the Supreme Council of Energy of the United Arab Emirates | Non-acceptance would cause embarrassment to donor and U.S. Government.
Janet Breslin-Smith, Spouse of the U.S. Ambassador to Saudi Arabia | Rolex Oyster Perpetual watch (ref. 176200). Rec'd—5/22/2012. Est. Value—$4,750.00. Disposition—Pending Transfer to General Services Administration | Prince Fahd bin Badr bin Abdulaziz Al-Saud, Governor of the Al-Jouf Province of the Kingdom of Saudi Arabia | Non-acceptance would cause embarrassment to donor and U.S. Government.
Tawhid Al-Saffy, Agricultural Trade Officer | Salvatore Ferragamo watch (K12020494). Rec'd—5/22/2012. Est. Value—$1,450.00. Disposition—Pending Transfer to General Services Administration | Prince Fahd bin Badr bin Abdulaziz Al-Saud, Governor of the Al-Jouf Province of the Kingdom of Saudi Arabia | Non-acceptance would cause embarrassment to donor and U.S. Government.
Rachel Smith, Staff Assistant | Roberto Cavalli Venmo lady's watch (R7251692025). Rec'd—5/22/2012. Est. Value—$505.00. Disposition—Pending Transfer to General Services Administration | Prince Fahd bin Badr bin Abdulaziz Al-Saud, Governor of the Al-Jouf Province of the Kingdom of Saudi Arabia | Non-acceptance would cause embarrassment to donor and U.S. Government.
Imam Asfour, Chief of Protocol at the United States Embassy to the Kingdom of Saudi Arabia | Roberto Cavalli watch (R7251692025). Rec'd—5/22/2012. Est. Value—$570.00. Disposition—Pending Transfer to General Services Administration | Prince Fahd bin Badr bin Abdulaziz Al-Saud, Governor of the Al-Jouf Province of the Kingdom of Saudi Arabia | Non-acceptance would cause embarrassment to donor and U.S. Government.
Catherine Schweitzer, Cultural Affairs Officer | Roberto Cavalli Venmo lady's watch. Rec'd—5/22/2012. Est. Value—$505.00. Disposition—Pending Transfer to General Services Administration | Prince Fahd bin Badr bin Abdulaziz Al-Saud, Governor of the Al-Jouf Province of the Kingdom of Saudi Arabia | Non-acceptance would cause embarrassment to donor and U.S. Government.
Eunhee Jeong, Office Manager to the U.S. Ambassador to the Kingdom of Saudi Arabia | Roberto Cavalli Venmo lady's watch (R7251692025). Rec'd—5/22/2012. Est. Value—$505.00. Disposition—Pending Transfer to General Services Administration | Prince Fahd bin Badr bin Abdulaziz Al-Saud, Governor of the Al-Jouf Province of the Kingdom of Saudi Arabia | Non-acceptance would cause embarrassment to donor and U.S. Government.
Karen Bauer, Education Advisor | Roberto Cavalli Venmo lady's watch (R7251692025). Rec'd—5/22/2012. Est. Value—$505.00. Disposition—Pending Transfer to General Services Administration | Prince Fahd bin Badr bin Abdulaziz Al-Saud, Governor of the Al-Jouf Province of the Kingdom of Saudi Arabia | Non-acceptance would cause embarrassment to donor and U.S. Government.
Daniel McIntosh, Desk Officer | Tag Heuer men's watch. Rec'd—5/22/2012. Est. Value—$470.00. Disposition—Pending Transfer to General Services Administration | His Highness Sheikh Mohammed bin Rashid Al-Maktoum, Foreign Minister of the United Arab Emirates | Non-acceptance would cause embarrassment to donor and U.S. Government.
Daniel McIntosh, Desk Officer | Montblanc black leather portfolio. Bvlgari men's tie. Rec'd—5/22/2012. Est. Value—$665.00. Disposition—Pending Transfer to General Services Administration | His Excellency Yousef Mana Saeed Al Otaiba, Ambassador of the United Arab Emirates to the United States | Non-acceptance would cause embarrassment to donor and U.S. Government.
Mark Walsh, Deputy Chief of Protocol | Tiffany & Co. cufflinks. Rec'd—7/6/2012. Est. Value—$700.00. Disposition—Pending Transfer to General Services Administration | His Excellency Mohamed Abdulla Al Junaibi, Director of Protocol and Communication Department at the Crown Prince Court of the United Arab Emirates | Non-acceptance would cause embarrassment to donor and U.S. Government.
Philippe L. Reines, Deputy Assistant Secretary of State | Book, title: “His Majesty Sultan Haji Hassanal Bolkiah Mui'izzaddin Waddaulah Sultan dan Yang Di-Pertuan of Brunei Darussalam: A Celebration of Forty Glorius Years of Reign.” Commemorative ballpoint pen. Rec'd—9/10/2012. Est. Value—$1,500.00. Disposition—Pending Transfer to General Services Administration | His Majesty Sultan Haji Hassanal Bolkiah Mu'izaddin Waddaulah ibni Al-Marhum Sultan Haji Omar `Ali Saifuddien Sa'adula Khairi Waddien, Sultan and Yang Di-Pertuan of Brunei Darussalam | Non-acceptance would cause embarrassment to donor and U.S. Government.
Ambassador Victoria Nuland, Spokesperson | Book, title: “His Majesty Sultan Haji Hassanal Bolkiah Mui'izzaddin Waddaulah Sultan dan Yang Di-Pertuan of Brunei Darussalam: A Celebration of Forty Glorius Years of Reign.” Commemorative ballpoint pen. Rec'd—9/10/2012. Est. Value—$1,500.00. Disposition—Pending Transfer to General Services Administration | His Majesty Sultan Haji Hassanal Bolkiah Mu'izaddin Waddaulah ibni Al-Marhum Sultan Haji Omar `Ali Saifuddien Sa'adula Khairi Waddien, Sultan and Yang Di-Pertuan of Brunei Darussalam | Non-acceptance would cause embarrassment to donor and U.S. Government.
Jacob J. Sullivan, Deputy Chief of Staff and Director of Policy Planning | Book, title: “His Majesty Sultan Haji Hassanal Bolkiah Mui'izzaddin Waddaulah Sultan dan Yang Di-Pertuan of Brunei Darussalam: A Celebration of Forty Glorius Years of Reign.” Commemorative ballpoint pen. Rec'd—9/10/2012. Est. Value—$1,500.00. Disposition—Pending Transfer to General Services Administration | His Majesty Sultan Haji Hassanal Bolkiah Mu'izaddin Waddaulah ibni Al-Marhum Sultan Haji Omar `Ali Saifuddien Sa'adula Khairi Waddien, Sultan and Yang Di-Pertuan of Brunei Darussalam | Non-acceptance would cause embarrassment to donor and U.S. Government.
Nicholas S. Merrill, Staff Assistant | Commemorative ballpoint pen. Rec'd—9/10/2012. Est. Value—$1,400.00. Disposition—Pending Transfer to General Services Administration | His Majesty Sultan Haji Hassanal Bolkiah Mu'izaddin Waddaulah ibni Al-Marhum Sultan Haji Omar `Ali Saifuddien Sa'adula Khairi Waddien, Sultan and Yang Di-Pertuan of Brunei Darussalam | Non-acceptance would cause embarrassment to donor and U.S. Government.
Kenneth Bradley, Security Detail | Commemorative ballpoint pen. Rec'd—9/10/2012. Est. Value—$1,400.00. Disposition—Pending Transfer to General Services Administration | His Majesty Sultan Haji Hassanal Bolkiah Mu'izaddin Waddaulah ibni Al-Marhum Sultan Haji Omar `Ali Saifuddien Sa'adula Khairi Waddien, Sultan and Yang Di-Pertuan of Brunei Darussalam | Non-acceptance would cause embarrassment to donor and U.S. Government.
Michael Linebach, Security Detail | Commemorative ballpoint pen. Rec'd—9/10/2012. Est. Value—$1,400.00. Disposition—Pending Transfer to General Services Administration | His Majesty Sultan Haji Hassanal Bolkiah Mu'izaddin Waddaulah ibni Al-Marhum Sultan Haji Omar `Ali Saifuddien Sa'adula Khairi Waddien, Sultan and Yang Di-Pertuan of Brunei Darussalam | Non-acceptance would cause embarrassment to donor and U.S. Government.
Janina de Guzman, Executive Secretariat | Commemorative ballpoint pen. Rec'd—9/10/2012. Est. Value—$1,400.00. Disposition—Pending Transfer to General Services Administration | His Majesty Sultan Haji Hassanal Bolkiah Mu'izaddin Waddaulah ibni Al-Marhum Sultan Haji Omar `Ali Saifuddien Sa'adula Khairi Waddien, Sultan and Yang Di-Pertuan of Brunei Darussalam | Non-acceptance would cause embarrassment to donor and U.S. Government.
Monica R. Hanley, Staff Assistant | Commemorative ballpoint pen. Rec'd—9/10/2012. Est. Value—$1,400.00. Disposition—Pending Transfer to General Services Administration | His Majesty Sultan Haji Hassanal Bolkiah Mu'izaddin Waddaulah ibni Al-Marhum Sultan Haji Omar `Ali Saifuddien Sa'adula Khairi Waddien, Sultan and Yang Di-Pertuan of Brunei Darussalam | Non-acceptance would cause embarrassment to donor and U.S. Government.
Carolina E. Adler, Public Affairs Officer | Commemorative ballpoint pen. Rec'd—9/10/2012. Est. Value—$1,400.00. Disposition—Pending Transfer to General Services Administration | His Majesty Sultan Haji Hassanal Bolkiah Mu'izaddin Waddaulah ibni Al-Marhum Sultan Haji Omar `Ali Saifuddien Sa'adula Khairi Waddien, Sultan and Yang Di-Pertuan of Brunei Darussalam | Non-acceptance would cause embarrassment to donor and U.S. Government.
Wossenyelesh Mazengia, Executive Secretariat | Commemorative ballpoint pen. Rec'd—9/10/2012. Est. Value—$1,400.00. Disposition—Pending Transfer to General Services Administration | His Majesty Sultan Haji Hassanal Bolkiah Mu'izaddin Waddaulah ibni Al-Marhum Sultan Haji Omar `Ali Saifuddien Sa'adula Khairi Waddien, Sultan and Yang Di-Pertuan of Brunei Darussalam | Non-acceptance would cause embarrassment to donor and U.S. Government.

Agency: Administrative Office of the United States Courts
[Report of Tangible Gifts Furnished by the Administrative Office of the United States Courts]
Name and title of person accepting the gift on behalf of the U.S. Government | Gift, date of acceptance on behalf of the U.S. Government, estimated value, and current disposition or location | Identity of foreign donor and government | Circumstances justifying acceptance
The Honorable John G. Roberts, Jr. Chief Justice of the United States | Edo Kiriko cut glass vase. Rec'd—10/28/2012. Est. Value—$1,500.00. Disposition—United States Supreme Court, Retained for Official Use Only | Chief Justice Supreme Court of Japan | Non-acceptance would cause embarrassment to donor and U.S. Government.
Esther DeVries of the U.S. Sentencing Commission | Mont Blanc watch. Rec'd—9/16/2012. Est. Value—$850.00. Disposition—United States Sentencing Commission, Retained for Official Use Only | The Kingdom of Bahrain | Non-acceptance would cause embarrassment to donor and U.S. Government.

Agency: Central Intelligence Agency
[Report of Tangible Gifts Furnished by the Central Intelligence Agency]
Name and title of person accepting the gift on behalf of the U.S. Government | Gift, date of acceptance on behalf of the U.S. Government, estimated value, and current disposition or location | Identity of foreign donor and government | Circumstances justifying acceptance
The Honorable David H. Petraeus, Director of the Central Intelligence Agency | Revolving desk clock barometer/thermometer. Rec'd—1/8/2012. Est. Value—$500.00. Disposition—Pending Transfer to General Services Administration | 5 U.S.C. 7342(f)(4) | Non-acceptance would cause embarrassment to donor and U.S. Government.
The Honorable David H. Petraeus, Director of the Central Intelligence Agency | Silver double-spouted presentation teapot. Rec'd—1/19/2012. Est. Value—$500.00. Disposition—Pending Transfer to General Services Administration | 5 U.S.C. 7342(f)(4) | Non-acceptance would cause embarrassment to donor and U.S. Government.
The Honorable David H. Petraeus, Director of the Central Intelligence Agency | Bronzed composition of a soldier. Rec'd—1/20/2012. Est. Value—$500.00. Disposition—Pending Transfer to General Services Administration | 5 U.S.C. 7342(f)(4) | Non-acceptance would cause embarrassment to donor and U.S. Government.
The Honorable David H. Petraeus, Director of the Central Intelligence Agency | Bronze dagger blade, circa 930-586 BCE, with a silver wreath mount. Rec'd—1/26/2012. Est. Value—$500.00. Disposition—Pending Transfer to General Services Administration | 5 U.S.C. 7342(f)(4) | Non-acceptance would cause embarrassment to donor and U.S. Government.
The Honorable David H. Petraeus, Director of the Central Intelligence Agency | Steel kilij-style blade saber with copper mounted leather scabbard. Rec'd—2/2/2012. Est. Value—$700.00. Disposition—Pending Transfer to General Services Administration | 5 U.S.C. 7342(f)(4) | Non-acceptance would cause embarrassment to donor and U.S. Government.
The Honorable David H. Petraeus, Director of the Central Intelligence Agency | White Fendi wristwatch. Rec'd—2/10/2012. Est. Value—$1,000.00. Disposition—Pending Transfer to General Services Administration | 5 U.S.C. 7342(f)(4) | Non-acceptance would cause embarrassment to donor and U.S. Government.
The Honorable David H. Petraeus, Director of the Central Intelligence Agency | Large check Burberry cashmere scarf. Rec'd—2/10/2012. Est. Value—$395.00. Disposition—Pending Transfer to General Services Administration | 5 U.S.C. 7342(f)(4) | Non-acceptance would cause embarrassment to donor and U.S. Government.
The Honorable David H. Petraeus, Director of the Central Intelligence Agency | Silver Valentino wristwatch. Rec'd—2/10/2012. Est. Value—$500.00. Disposition—Pending Transfer to General Services Administration | 5 U.S.C. 7342(f)(4) | Non-acceptance would cause embarrassment to donor and U.S. Government.
The Honorable David H. Petraeus, Director of the Central Intelligence Agency | Large, framed lithograph of a seated figure, unsigned. Rec'd—2/10/2012. Est. Value—$500.00. Disposition—Pending Transfer to General Services Administration | 5 U.S.C. 7342(f)(4) | Non-acceptance would cause embarrassment to donor and U.S. Government.
The Honorable David H. Petraeus, Director of the Central Intelligence Agency | Maple Walnut two-string lahuta in a fitted walnut case. Rec'd—2/13/2012. Est. Value—$500.00. Disposition—Pending Transfer to General Services Administration | 5 U.S.C. 7342(f)(4) | Non-acceptance would cause embarrassment to donor and U.S. Government.
The Honorable David H. Petraeus, Director of the Central Intelligence Agency | Gold overlaid opaque white glass vase. Rec'd—3/12/2012. Est. Value—$500.00. Disposition—Pending Transfer to General Services Administration | 5 U.S.C. 7342(f)(4) | Non-acceptance would cause embarrassment to donor and U.S. Government.
The Honorable David H. Petraeus, Director of the Central Intelligence Agency | Coral studded filigree silver single-edge dagger. Rec'd—3/13/2012. Est. Value—$1,500.00. Disposition—Pending Transfer to General Services Administration | 5 U.S.C. 7342(f)(4) | Non-acceptance would cause embarrassment to donor and U.S. Government.
The Honorable David H. Petraeus, Director of the Central Intelligence Agency | Coral-studded filigree silver model of a four-masted ship. Rec'd—3/14/2012. Est. Value—$3,500.00. Disposition—Pending Transfer to General Services Administration | 5 U.S.C. 7342(f)(4) | Non-acceptance would cause embarrassment to donor and U.S. Government.
The Honorable David H. Petraeus, Director of the Central Intelligence Agency | Three Roman-Byzantine pottery vessels, circa 1st Century A.D.—5th Century B.C. Rec'd—3/19/2012. Est. Value—$750.00. Disposition—Pending Transfer to General Services Administration | 5 U.S.C. 7342(f)(4) | Non-acceptance would cause embarrassment to donor and U.S. Government.
The Honorable David H. Petraeus, Director of the Central Intelligence Agency | Silver model of a two-masted ship. Rec'd—4/16/2012. Est. Value—$1,500.00. Disposition—Pending Transfer to General Services Administration | 5 U.S.C. 7342(f)(4) | Non-acceptance would cause embarrassment to donor and U.S. Government.
The Honorable David H. Petraeus, Director of the Central Intelligence Agency | 6′ x 4′ silk rug, red ground with a red and navy blue border. Rec'd—4/23/2012. Est. Value—$1,200.00. Disposition—Pending Transfer to General Services Administration | 5 U.S.C. 7342(f)(4) | Non-acceptance would cause embarrassment to donor and U.S. Government.
The Honorable David H. Petraeus, Director of the Central Intelligence Agency | Bronze commemorative monument. Rec'd—5/9/2012. Est. Value—$500.00. Disposition—Pending Transfer to General Services Administration | 5 U.S.C. 7342(f)(4) | Non-acceptance would cause embarrassment to donor and U.S. Government.
The Honorable David H. Petraeus, Director of the Central Intelligence Agency | Single-edged steel saber in a brass mounted scabbard. Rec'd—6/5/2012. Est. Value—$500.00. Disposition—Pending Transfer to General Services Administration | 5 U.S.C. 7342(f)(4) | Non-acceptance would cause embarrassment to donor and U.S. Government.
The Honorable David H. Petraeus, Director of the Central Intelligence Agency | Silver and pink glazed coffee set. Rec'd—6/5/2012. Est. Value—$400.00. Disposition—Pending Transfer to General Services Administration | 5 U.S.C. 7342(f)(4) | Non-acceptance would cause embarrassment to donor and U.S. Government.
The Honorable David H. Petraeus, Director of the Central Intelligence Agency | Gilt metal hilted commemorative replica of Khan Kubrat's sword. Rec'd—6/6/2012. Est. Value—$500.00. Disposition—Pending Transfer to General Services Administration | 5 U.S.C. 7342(f)(4) | Non-acceptance would cause embarrassment to donor and U.S. Government.
The Honorable David H. Petraeus, Director of the Central Intelligence Agency | Silver mounted black leather scabbard and steel blade saber. Rec'd—6/7/2012. Est. Value—$1,500.00. Disposition—Pending Transfer to General Services Administration | 5 U.S.C. 7342(f)(4) | Non-acceptance would cause embarrassment to donor and U.S. Government.
The Honorable David H. Petraeus, Director of the Central Intelligence Agency | Silver presentation bowl. Rec'd—6/12/2012. Est. Value—$700.00. Disposition—Pending Transfer to General Services Administration | 5 U.S.C. 7342(f)(4) | Non-acceptance would cause embarrassment to donor and U.S. Government.
The Honorable David H. Petraeus, Director of the Central Intelligence Agency | Large golden falcon with a clock insert. Rec'd—7/9/2012. Est. Value—$1,500.00. Disposition—Pending Transfer to General Services Administration | 5 U.S.C. 7342(f)(4) | Non-acceptance would cause embarrassment to donor and U.S. Government.
The Honorable David H. Petraeus, Director of the Central Intelligence Agency | Small golden falcon with a clock insert. Rec'd—7/9/2012. Est. Value—$500.00. Disposition—Pending Transfer to General Services Administration | 5 U.S.C. 7342(f)(4) | Non-acceptance would cause embarrassment to donor and U.S. Government.
The Honorable David H. Petraeus, Director of the Central Intelligence Agency | Petrus Pomerol Grand Vin, 2001. Rec'd—7/9/2012. Est. Value—$1,700.00. Disposition—Pending Transfer to General Services Administration | 5 U.S.C. 7342(f)(4) | Non-acceptance would cause embarrassment to donor and U.S. Government.
The Honorable David H. Petraeus, Director of the Central Intelligence Agency | 6.8′ x 4.4′ silk rug, ivory with a light blue and beige background. Rec'd—7/10/2012. Est. Value—$8,000.00. Disposition—Pending Transfer to General Services Administration | 5 U.S.C. 7342(f)(4) | Non-acceptance would cause embarrassment to donor and U.S. Government.
The Honorable David H. Petraeus, Director of the Central Intelligence Agency | Rolex gentleman's stainless steel automatic chronometer wristwatch. Rec'd—7/10/2012. Est. Value—$6,500.00. Disposition—Pending Transfer to General Services Administration | 5 U.S.C. 7342(f)(4) | Non-acceptance would cause embarrassment to donor and U.S. Government.
The Honorable David H. Petraeus, Director of the Central Intelligence Agency | 5′ x 3′ silk rug, ivory background with beige and rose accents. Rec'd—8/2/2012. Est. Value—$700.00. Disposition—Pending Transfer to General Services Administration | 5 U.S.C. 7342(f)(4) | Non-acceptance would cause embarrassment to donor and U.S. Government.
The Honorable David H. Petraeus, Director of the Central Intelligence Agency | 6.6′ x 4.1′ silk rug, red background with a beige ground guard border. Rec'd—9/3/2012. Est. Value—$5,000.00. Disposition—Pending Transfer to General Services Administration | 5 U.S.C. 7342(f)(4) | Non-acceptance would cause embarrassment to donor and U.S. Government.
The Honorable David H. Petraeus, Director of the Central Intelligence Agency | Filigree silver scabbard with short sword. Rec'd—9/7/2012. Est. Value—$2,500.00. Disposition—Pending Transfer to General Services Administration | 5 U.S.C. 7342(f)(4) | Non-acceptance would cause embarrassment to donor and U.S. Government.
The Honorable David H. Petraeus, Director of the Central Intelligence Agency | Sheep's horn bow and arrow. Rec'd—11/11/2012. Est. Value—$500.00. Disposition—Pending Transfer to General Services Administration | 5 U.S.C. 7342(f)(4) | Non-acceptance would cause embarrassment to donor and U.S. Government.
Michael J. Morell, Deputy Director of the Central Intelligence Agency | Woven fabric in a commemorative metal mounted red stained wood stand. Rec'd—2/21/2012. Est. Value—$500.00. Disposition—On Display in the Deputy Director's Suite for Official Use Only | 5 U.S.C. 7342(f)(4) | Non-acceptance would cause embarrassment to donor and U.S. Government.
Michael J. Morell, Deputy Director of the Central Intelligence Agency | Cartier silver men's watch. Rec'd—2/21/2012. Est. Value—$9,000.00. Disposition—Pending Transfer to General Services Administration | 5 U.S.C. 7342(f)(4) | Non-acceptance would cause embarrassment to donor and U.S. Government.
Michael J. Morell, Deputy Director of the Central Intelligence Agency | Black steel barrel and walnut stock shotgun. Rec'd—3/4/2012. Est. Value—$700.00. Disposition—Pending Transfer to General Services Administration | 5 U.S.C. 7342(f)(4) | Non-acceptance would cause embarrassment to donor and U.S. Government.
Michael J. Morell, Deputy Director of the Central Intelligence Agency | Filigree silver double-edged short sword and scabbard. Rec'd—3/4/2012. Est. Value—$2,500.00. Disposition—Pending Transfer to General Services Administration | 5 U.S.C. 7342(f)(4) | Non-acceptance would cause embarrassment to donor and U.S. Government.
Michael J. Morell, Deputy Director of the Central Intelligence Agency | One medium plate with semi-precious stones inlaid and one matching small plate. Rec'd—4/25/2012. Est. Value—$500.00. Disposition—On Display in the Deputy Director's Suite for Official Use Only | 5 U.S.C. 7342(f)(4) | Non-acceptance would cause embarrassment to donor and U.S. Government.
Michael J. Morell, Deputy Director of the Central Intelligence Agency | Six silver commemorative medallions. Rec'd—6/17/2012. Est. Value—$500.00. Disposition—Pending Transfer to General Services Administration | 5 U.S.C. 7342(f)(4) | Non-acceptance would cause embarrassment to donor and U.S. Government.
Michael J. Morell, Deputy Director of the Central Intelligence Agency | 8′ x 5′ silk rug, navy blue ground with three vertical rows of stylized flowers. Rec'd—6/19/2012. Est. Value—$2,000.00. Disposition—On Display in the Deputy Director's Suite for Official Use Only | 5 U.S.C. 7342(f)(4) | Non-acceptance would cause embarrassment to donor and U.S. Government.
Michael J. Morell, Deputy Director of the Central Intelligence Agency | Hamilton Jazzmaster watch. Rec'd—7/9/2012. Est. Value—$1,500.00. Disposition—Pending Transfer to General Services Administration | 5 U.S.C. 7342(f)(4) | Non-acceptance would cause embarrassment to donor and U.S. Government.
Michael J. Morell, Deputy Director of the Central Intelligence Agency | Filigree silver double-edged dagger. Rec'd—9/28/2012. Est. Value—$1,500.00. Disposition—On Display in the Deputy Director's Suite for Official Use Only | 5 U.S.C. 7342(f)(4) | Non-acceptance would cause embarrassment to donor and U.S. Government.
An Agency Employee | Gold bullion presentation coin. Rec'd—2/1/2008. Est. Value—$2,000.00. Disposition—Pending Transfer to General Services Administration | 5 U.S.C. 7342(f)(4) | Non-acceptance would cause embarrassment to donor and U.S. Government.
An Agency Employee | Two silk rugs, one brown and one yellow. Rec'd—6/1/2010. Est. Value—$800.00. Disposition—Pending Transfer to General Services Administration | 5 U.S.C. 7342(f)(4) | Non-acceptance would cause embarrassment to donor and U.S. Government.
An Agency Employee | Cartier Roadster fountain pen. Rec'd—1/5/2012. Est. Value—$750.00. Disposition—Pending Transfer to General Services Administration | 5 U.S.C. 7342(f)(4) | Non-acceptance would cause embarrassment to donor and U.S. Government.
An Agency Employee | 18″ brown wood grain M1 rifle. Rec'd—1/18/2012. Est. Value—$699.00. Disposition—Pending Transfer to General Services Administration | 5 U.S.C. 7342(f)(4) | Non-acceptance would cause embarrassment to donor and U.S. Government.
An Agency Employee | Chess set and a silk rug. Rec'd—4/16/2012. Est. Value—$1,080.00. Disposition—Pending Transfer to General Services Administration | 5 U.S.C. 7342(f)(4) | Non-acceptance would cause embarrassment to donor and U.S. Government.
An Agency Employee | Cartier ink pen. Rec'd—4/30/2012. Est. Value—$395.00. Disposition—Pending Transfer to General Services Administration | 5 U.S.C. 7342(f)(4) | Non-acceptance would cause embarrassment to donor and U.S. Government.
An Agency Employee | Sterling silver cufflinks and silver fountain pen. Rec'd—5/25/2012. Est. Value—$800.00. Disposition—Pending Transfer to General Services Administration | 5 U.S.C. 7342(f)(4) | Non-acceptance would cause embarrassment to donor and U.S. Government.
An Agency Employee | Baum and Mercier quartz watch. Rec'd—5/25/2012. Est. Value—$1,190.00. Disposition—Pending Transfer to General Services Administration | 5 U.S.C. 7342(f)(4) | Non-acceptance would cause embarrassment to donor and U.S. Government.
An Agency Employee | Romanson Trofish edition Swiss wristwatch. Rec'd—6/15/2012. Est. Value—$1,000.00. Disposition—Pending Transfer to General Services Administration | 5 U.S.C. 7342(f)(4) | Non-acceptance would cause embarrassment to donor and U.S. Government.
An Agency Employee | Romanson Trofish edition Swiss wristwatch. Rec'd—6/15/2012. Est. Value—$1,000.00. Disposition—Pending Transfer to General Services Administration | 5 U.S.C. 7342(f)(4) | Non-acceptance would cause embarrassment to donor and U.S. Government.
An Agency Employee | Romanson Trofish edition Swiss wristwatch. Rec'd—6/15/2012. Est. Value—$1,000.00. Disposition—Pending Transfer to General Services Administration | 5 U.S.C. 7342(f)(4) | Non-acceptance would cause embarrassment to donor and U.S. Government.
An Agency Employee | Romanson Trofish edition Swiss wristwatch. Rec'd—6/15/2012. Est. Value—$1,000.00. Disposition—Pending Transfer to General Services Administration | 5 U.S.C. 7342(f)(4) | Non-acceptance would cause embarrassment to donor and U.S. Government.
An Agency Employee | Femini-T Tissot lady's watch. Rec'd—6/28/2012. Est. Value—$850.00. Disposition—Pending Transfer to General Services Administration | 5 U.S.C. 7342(f)(4) | Non-acceptance would cause embarrassment to donor and U.S. Government.
An Agency Employee | Cartier ink pen. Rec'd—7/7/2012. Est. Value—$395.00. Disposition—Pending Transfer to General Services Administration | 5 U.S.C. 7342(f)(4) | Non-acceptance would cause embarrassment to donor and U.S. Government.
An Agency Employee | Hamilton Jazzmaster Watch. Rec'd—7/9/2012. Est. Value—$1,500.00. Disposition—Pending Transfer to General Services Administration | 5 U.S.C. 7342(f)(4) | Non-acceptance would cause embarrassment to donor and U.S. Government.
An Agency Employee | Hamilton stainless steel wristwatch with brown leather band. Rec'd—7/10/2012. Est. Value—$1,500.00. Disposition—Pending Transfer to General Services Administration | 5 U.S.C. 7342(f)(4) | Non-acceptance would cause embarrassment to donor and U.S. Government.
An Agency Employee | Pierre Balmain Swiss quartz men's watch. Rec'd—7/16/2012. Est. Value—$700.00. Disposition—Pending Transfer to General Services Administration | 5 U.S.C. 7342(f)(4) | Non-acceptance would cause embarrassment to donor and U.S. Government.
An Agency Employee | Raymond Weil watch. Rec'd—7/18/2012. Est. Value—$750.00. Disposition—Pending Transfer to General Services Administration | 5 U.S.C. 7342(f)(4) | Non-acceptance would cause embarrassment to donor and U.S. Government.
An Agency Employee | EOS 60D SLR camera with 18-135MM lens. Rec'd—7/27/2012. Est. Value—$1,150.00. Disposition—Pending Transfer to General Services Administration | 5 U.S.C. 7342(f)(4) | Non-acceptance would cause embarrassment to donor and U.S. Government.
An Agency Employee | Rolex gold and stainless steel wristwatch. Rec'd—7/30/2012. Est. Value—$14,000.00. Disposition—Pending Transfer to General Services Administration | 5 U.S.C. 7342(f)(4) | Non-acceptance would cause embarrassment to donor and U.S. Government.
An Agency Employee | Silk rug. Rec'd—9/16/2012. Est. Value—$500.00. Disposition—Pending Transfer to General Services Administration | 5 U.S.C. 7342(f)(4) | Non-acceptance would cause embarrassment to donor and U.S. Government.
An Agency Employee | Rado Centrix men's wristwatch. Rec'd—10/18/2012. Est. Value—$1,250.00. Disposition—Pending Transfer to General Services Administration | 5 U.S.C. 7342(f)(4) | Non-acceptance would cause embarrassment to donor and U.S. Government.
An Agency Employee | Six encased displays with various historical items including rare stamps, currencies, and prayer books. Rec'd—11/6/2012. Est. Value—$6,000.00. Disposition—Pending Transfer to General Services Administration | 5 U.S.C. 7342(f)(4) | Non-acceptance would cause embarrassment to donor and U.S. Government.
An Agency Employee | 3′ x 5′ silk rug. Two bottles of cologne. An iPhone 5. Rec'd—12/20/2012. Est. Value—$3,375.00. Disposition—Pending Transfer to General Services Administration | 5 U.S.C. 7342(f)(4) | Non-acceptance would cause embarrassment to donor and U.S. Government.
An Agency Employee | Chopard cufflinks. Chopard ballpoint pen. Chopard money clip. Rec'd—12/29/2012. Est. Value—$1,000.00. Disposition—Pending Transfer to General Services Administration | 5 U.S.C. 7342(f)(4) | Non-acceptance would cause embarrassment to donor and U.S. Government.

Agency: Department of Commerce
[Report of Tangible Gifts Furnished by the Department of Commerce]
Name and title of person accepting the gift on behalf of the U.S. Government | Gift, date of acceptance on behalf of the U.S. Government, estimated value, and current disposition or location | Identity of foreign donor and government | Circumstances justifying acceptance
Assistant Secretary Suresh Kumar | Aluminum box with fishing rod and reel. Rec'd—1/26/2012. Est. Value—$400.00. Disposition—ITA/US&FCS/Office of the Director General (ODG), Washington, DC; Returning to General Services Administration (GSA), Office of Procurement and Administrative Services | Youser Group, Xi'an Sha'anxi Province of the People's Republic of China | Non-acceptance would cause embarrassment to donor and U.S. Government.

Agency: Department of Defense
[Report of Tangible Gifts Furnished by the Department of Defense]
Name and title of person accepting the gift on behalf of the U.S. Government | Gift, date of acceptance on behalf of the U.S. Government, estimated value, and current disposition or location | Identity of foreign donor and government | Circumstances justifying acceptance
The Honorable Leon E. Panetta, Secretary of Defense | Statue of a man riding a horse from the Keith Lipert Gallery. Rec'd—1/4/2012. Est. Value—$565.00. Disposition—Pending Transfer to General Services Administration | His Excellency Adel A. Al-Jubeir, Ambassador of the Kingdom of Saudi Arabia to the United States | Non-acceptance would cause embarrassment to donor and U.S. Government.
The Honorable Leon E. Panetta, Secretary of Defense | Holy water. Glass eagle. Dagger/knife. Keffiyeh and Agal Headdress. Rec'd—2/23/2012. Est. Value—$460.00. Disposition—Pending Transfer to General Services Administration | His Excellency Lieutenant General Mashal M. Al-Zaben, Chairman of the Joint Chiefs of Staff of the Armed Forces of the Hashemite Kingdom of Jordan | Non-acceptance would cause embarrassment to donor and U.S. Government.
The Honorable Leon E. Panetta, Secretary of Defense | Wool Afghan rug. Rec'd—3/1/2012. Est. Value—$1,600.00. Disposition—Pending Transfer to General Services Administration | His Excellency Hamid Karzai, President of the Islamic Republic of Afghanistan | Non-acceptance would cause embarrassment to donor and U.S. Government.
The Honorable Leon E. Panetta, Secretary of Defense | Lapis bowl and rug. Rec'd—3/14/2012. Est. Value—$435.00. Disposition—Pending Transfer to General Services Administration | His Excellency Bismullah Khan Mohammadi, Minister of Interior of the Islamic Republic of Afghanistan | Non-acceptance would cause embarrassment to donor and U.S. Government.
The Honorable Leon E. Panetta, Secretary of Defense | Wristwatch. Rec'd—3/21/2012. Est. Value—$375.00. Disposition—Pending Transfer to General Services Administration | His Excellency Lee Myung-bak, President of the Republic of Korea | Non-acceptance would cause embarrassment to donor and U.S. Government.
The Honorable Leon E. Panetta, Secretary of Defense | Chalice. Rec'd—3/23/2012. Est. Value—$2,100.00. Disposition—Pending Transfer to General Services Administration | His Excellency Seyran Ohanyan, Minister of Defense of the Republic of Armenia | Non-acceptance would cause embarrassment to donor and U.S. Government.
The Honorable Leon E. Panetta, Secretary of Defense | Statue, title: “Vision of the Bear”. Rec'd—3/27/2012. Est. Value—$500.00. Disposition—Pending Transfer to General Services Administration | The Honorable Peter G. MacKay, P.C., Q.C., M.P., Minister of National Defense of Canada | Non-acceptance would cause embarrassment to donor and U.S. Government.
The Honorable Leon E. Panetta, Secretary of Defense | Wool Afghan rug. Rec'd—4/10/2012. Est. Value—$400.00. Disposition—Pending Transfer to General Services Administration | His Excellency Abdul Rahim Wardak, Minister of Defense of the Islamic Republic of Afghanistan | Non-acceptance would cause embarrassment to donor and U.S. Government.
The Honorable Leon E. Panetta, Secretary of Defense | Art object with a camel and palm tree. Rec'd—4/11/2012. Est. Value—$7,600.00. Disposition—Pending Transfer to General Services Administration | His Royal Highness Crown Prince Salman bin Abdulaziz Al Saud, Minister of Defense of the Kingdom of Saudi Arabia | Non-acceptance would cause embarrassment to donor and U.S. Government.
The Honorable Leon E. Panetta, Secretary of Defense | Wristwatch display box. Rec'd—4/30/2012. Est. Value—$425.00. Disposition—Pending Transfer to General Services Administration | His Excellency Albert F. del Rosario, Secretary of Foreign Affairs of the Republic of the Philippines | Non-acceptance would cause embarrassment to donor and U.S. Government.
The Honorable Leon E. Panetta, Secretary of Defense | Tea set. Rec'd—6/4/2012. Est. Value—$450.00. Disposition—Pending Transfer to General Services Administration | His Excellency General Phung Quang Thanh, Minister of National Defense of the Socialist Republic of Vietnam | Non-acceptance would cause embarrassment to donor and U.S. Government.
The Honorable Leon E. Panetta, Secretary of Defense | Plate with bust image and jewelry box. Rec'd—9/18/2012. Est. Value—$420.00. Disposition—Pending Transfer to General Services Administration | His Excellency Liang Guanglie, Minister of National Defense of the People's Republic of China | Non-acceptance would cause embarrassment to donor and U.S. Government.
The Honorable Leon E. Panetta, Secretary of Defense | Dragon boat. Rec'd—9/18/2012. Est. Value—$850.00. Disposition—Pending Transfer to General Services Administration | His Excellency General Xu Caihou, Vice Chairman of the Central Military Committee of the People's Republic of China | Non-acceptance would cause embarrassment to donor and U.S. Government.
The Honorable Leon E. Panetta, Secretary of Defense | Art object in the shape of a tree. Rec'd—10/6/2012. Est. Value—$520.00. Disposition—Pending Transfer to General Services Administration | His Excellency Ollanta Humala Tasso, President of the Republic of Peru | Non-acceptance would cause embarrassment to donor and U.S. Government.
The Honorable Leon E. Panetta, Secretary of Defense | Rug. Rec'd—12/13/2012. Est. Value—$800.00. Disposition—Pending Transfer to General Services Administration | His Excellency Hamid Karzai, President of the Islamic Republic of Afghanistan | Non-acceptance would cause embarrassment to donor and U.S. Government.
The Honorable General Martin E. Dempsey, Chairman of the Joint Chiefs of Staff | Dove statue with stand. Rec'd—1/20/2012. Est. Value—$565.00. Disposition—Pending Transfer to General Services Administration | His Excellency Lieutenant General Binyamin Gantz and Mrs. Gantz, Chief of the General Staff of the Israel Defense Forces and Spouse | Non-acceptance would cause embarrassment to donor and U.S. Government.
The Honorable General Martin E. Dempsey, Chairman of the Joint Chiefs of Staff | Sea shell with tassel. Rec'd—1/24/2012. Est. Value—$450.00. Disposition—Pending Transfer to General Services Administration | His Excellency General Jung Seung-jo, Chairman of the Joint Chiefs of Staff of the Republic of Korea | Non-acceptance would cause embarrassment to donor and U.S. Government.
The Honorable General Martin E. Dempsey, Chairman of the Joint Chiefs of Staff | Knife/dagger. Rec'd—1/31/2012. Est. Value—$555.00. Disposition—Pending Transfer to General Services Administration | His Excellency Lieutenant General Hamad Thani Al Rumaithy, Chief of Staff of the United Arab Emirates Armed Forces | Non-acceptance would cause embarrassment to donor and U.S. Government.
The Honorable General Martin E. Dempsey, Chairman of the Joint Chiefs of Staff | Etienne Aigner men's wristwatch. Christian Dior Pen. Dunhill of London Wallet. Delsey Suitcase. Etienne Aigner Women's Wristwatch. Burberry Scarf. Rec'd—2/2/2012. Est. Value—$1,775.00. Disposition—Pending Transfer to General Services Administration | His Excellency Lieutenant General Hamad Thani Al Rumaithy, Chief of Staff of the United Arab Emirates Armed Forces | Non-acceptance would cause embarrassment to donor and U.S. Government.
The Honorable General Martin E. Dempsey, Chairman of the Joint Chiefs of Staff | Plaque and wool Afghan rug. Rec'd—2/7/2012. Est. Value—$440.00. Disposition—Pending Transfer to General Services Administration | General Sher Mohammad Karimi, Chief of Staff of the Afghan National Army | Non-acceptance would cause embarrassment to donor and U.S. Government.
The Honorable General Martin E. Dempsey, Chairman of the Joint Chiefs of Staff | Silver candleholder and tapestry/wall hanging. Rec'd—2/11/2012. Est. Value—$795.00. Disposition—Pending Transfer to General Services Administration | His Excellency Lieutenant General Samy Enan, Chief of Staff of the Armed Forces of the Arab Republic of Egypt | Non-acceptance would cause embarrassment to donor and U.S. Government.
The Honorable General Martin E. Dempsey, Chairman of the Joint Chiefs of Staff | Plaque. Holy water. Glass eagle. Muslim headdress and garment. Rec'd—2/23/2012. Est. Value—$550.00. Disposition—Pending Transfer to General Services Administration | His Excellency Lieutenant General Mashal M. Al-Zaben, Chairman of the Joint Chiefs of Staff of the Armed Forces of the Hashemite Kingdom of Jordan | Non-acceptance would cause embarrassment to donor and U.S. Government.
The Honorable General Martin E. Dempsey, Chairman of the Joint Chiefs of Staff | Wristwatch. Rec'd—3/30/2012. Est. Value—$375.00. Disposition—Pending Transfer to General Services Administration | His Excellency Major General Lee Seo-young, Defense Attaché of the Republic of Korea | Non-acceptance would cause embarrassment to donor and U.S. Government.
The Honorable General Martin E. Dempsey, Chairman of the Joint Chiefs of Staff | Sword with wooden case. Rec'd—4/2/2012. Est. Value—$460.00. Disposition—Pending Transfer to General Services Administration | Major General Xhemal Gjunkshi, Chief of Defense of the Republic of Albania | Non-acceptance would cause embarrassment to donor and U.S. Government.
The Honorable General Martin E. Dempsey, Chairman of the Joint Chiefs of Staff | Plaque and saber. Rec'd—4/22/2012. Est. Value—$845.00. Disposition—Pending Transfer to General Services Administration | His Excellency Lieutenant General Mashal M. Al-Zaben, Chairman of the Joint Chiefs of Staff of the Armed Forces of the Hashemite Kingdom of Jordan | Non-acceptance would cause embarrassment to donor and U.S. Government.
The Honorable General Martin E. Dempsey, Chairman of the Joint Chiefs of Staff | Hatchet. Rec'd—5/10/2012. Est. Value—$975.00. Disposition—Pending Transfer to General Services Administration | His Excellency General Necdet Ozel, Chief of Defense of the Republic of Turkey | Non-acceptance would cause embarrassment to donor and U.S. Government.
The Honorable General Martin E. Dempsey, Chairman of the Joint Chiefs of Staff | Plaque. Figurine. Book, title: “The Secret of the Mongols”. Rec'd—5/22/2012. Est. Value—$410.00. Disposition—Pending Transfer to General Services Administration | His Excellency Lieutenant General Tserendejid Byambajav, Chief of the General Staff of the Armed Forces of Mongolia | Non-acceptance would cause embarrassment to donor and U.S. Government.
The Honorable General Martin E. Dempsey, Chairman of the Joint Chiefs of Staff | Sword. Rec'd—8/13/2012. Est. Value—$640.00. Disposition—Pending Transfer to General Services Administration | General Harald Sunde, Chief of Defense of Norway | Non-acceptance would cause embarrassment to donor and U.S. Government.
The Honorable General Martin E. Dempsey, Chairman of the Joint Chiefs of Staff | Rug. Rec'd—8/20/2012. Est. Value—$425.00. Disposition—Pending Transfer to General Services Administration | General Sher Mohammad Karimi, Chief of Staff of the Afghan National Army | Non-acceptance would cause embarrassment to donor and U.S. Government.
The Honorable General Martin E. Dempsey, Chairman of the Joint Chiefs of Staff | Plaque and rug. Rec'd—8/21/2012. Est. Value—$830.00. Disposition—Pending Transfer to General Services Administration | His Excellency General Zibari Babakir Badr-Khan Shawkat al-Zebari, Chief of Defense of the Republic of Iraq | Non-acceptance would cause embarrassment to donor and U.S. Government.
The Honorable General Martin E. Dempsey, Chairman of the Joint Chiefs of Staff | Desk set. Rec'd—9/17/2012. Est. Value—$1,750.00. Disposition—Pending Transfer to General Services Administration | His Excellency General Necdet Ozel, Chief of Defense of the Republic of Turkey | Non-acceptance would cause embarrassment to donor and U.S. Government.
The Honorable General Martin E. Dempsey, Chairman of the Joint Chiefs of Staff | Vase. Rec'd—9/17/2012. Est. Value—$980.00. Disposition—Pending Transfer to General Services Administration | Mrs. Kamuran Ozel, Spouse of the Chief of Defense of the Republic of Turkey | Non-acceptance would cause embarrassment to donor and U.S. Government.
The Honorable General Martin E. Dempsey, Chairman of the Joint Chiefs of Staff | Wristwatch. Rec'd—9/27/2012. Est. Value—$450.00. Disposition—Pending Transfer to General Services Administration | University of Toronto, Department of Physics, Toronto, Canada | Non-acceptance would cause embarrassment to donor and U.S. Government.
The Honorable General Martin E. Dempsey, Chairman of the Joint Chiefs of Staff | Necklace, earrings, and ring set. Rec'd—9/27/2012. Est. Value—$1,900.00. Disposition—Pending Transfer to General Services Administration | His Excellency General Hussein Abdullah Al Gobail, Chief of Defense of the Kingdom of Saudi Arabia | Non-acceptance would cause embarrassment to donor and U.S. Government.
The Honorable Michele Flournoy, Under Secretary of Defense, OSD Policy | Sterling silver on aluminum long Old City tea box. Rec'd—1/12/2012. Est. Value—$490.00. Disposition—Pending Transfer to General Services Administration | His Excellency Major General Amir Eshel, Commander in Chief of the Israeli Air Force | Non-acceptance would cause embarrassment to donor and U.S. Government.
The Honorable Frank Mora, Deputy Assistant Secretary of Defense, OSD Policy | Command coin in display box. Book, title: “The Participation of the Armed Forces in the Actual Environment of the Public Security”. Rec'd—1/20/2012. Est. Value—$690.00. Disposition—Pending Transfer to General Services Administration | His Excellency General Augusto Moisés García Ochoa, Chief of Procurement of the Mexican Army of the United Mexican States | Non-acceptance would cause embarrassment to donor and U.S. Government.
The Honorable Michael Schiffer, Deputy Assistant Secretary of Defense, OSD Policy | Business card holder. Two lacquer boxes. Rec'd—2/22/2012. Est. Value—$392.00. Disposition—Pending Transfer to General Services Administration | His Excellency Director-General Lee Baek-soon, Ministry of Foreign Affairs and Trade of the Republic of Korea | Non-acceptance would cause embarrassment to donor and U.S. Government.
The Honorable Michael G. Vickers, Under Secretary of Defense, OSD Policy | Envelope opener with red eye gold eagle head. Rec'd—3/4/2012. Est. Value—$430.00. Disposition—Pending Transfer to General Services Administration | His Excellency Prince Bandar, the Kingdom of Saudi Arabia | Non-acceptance would cause embarrassment to donor and U.S. Government.
The Honorable Michael G. Vickers, Under Secretary of Defense, OSD Policy | Knife/silver Jambiya in orange case. Rec'd—3/4/2012. Est. Value—$780.00. Disposition—Pending Transfer to General Services Administration | His Excellency Ali Muhammad al-Anisi, Director of National Security Bureau of the Republic of Yemen | Non-acceptance would cause embarrassment to donor and U.S. Government.
The Honorable Peter Lavoy, A/ASD Asian & Pacific Security Affairs, OSD Policy | Wristwatch. Rec'd—3/21/2012. Est. Value—$375.00. Disposition—Pending Transfer to General Services Administration | His Excellency Major General Lee Seo-young, Defense Attaché of the Republic of Korea | Non-acceptance would cause embarrassment to donor and U.S. Government.
The Honorable Michele Flournoy, Under Secretary of Defense, OSD Policy | Wristwatch. Rec'd—3/21/2012. Est. Value—$375.00. Disposition—Pending Transfer to General Services Administration | His Excellency Major General Lee Seo-young, Defense Attaché of the Republic of Korea | Non-acceptance would cause embarrassment to donor and U.S. Government.
The Honorable Vice Admiral William Gortney, Director, Joint Chiefs of Staff | Korean lacquer box. Rec'd—4/5/2012. Est. Value—$420.00. Disposition—Pending Transfer to General Services Administration | His Excellency Admiral Choi Yoon-hee, Chief of Naval Operations of Republic of Korea | Non-acceptance would cause embarrassment to donor and U.S. Government.
The Honorable James Schear, Deputy Assistant Secretary of Defense, OSD Policy | Pearl necklace, earrings and bracelet set. Rec'd—4/6/2012. Est. Value—$440.00. Disposition—Pending Transfer to General Services Administration | His Excellency Lieutenant General M.F. Akbar, Commandant of the Bangladesh National Defense College | Non-acceptance would cause embarrassment to donor and U.S. Government.
The Honorable Michael G. Vickers, Under Secretary of Defense, OSD Policy | Wristwatch. Rec'd—4/11/2012. Est. Value—$3,760.00. Disposition—Pending Transfer to General Services Administration | His Excellency Ghanim Al-Kubaysi, Director of Qatar State Security | Non-acceptance would cause embarrassment to donor and U.S. Government.
The Honorable Michael G. Vickers, Under Secretary of Defense, OSD Policy | Qatari tower model. Rec'd—4/11/2012. Est. Value—$520.00. Disposition—Pending Transfer to General Services Administration | His Excellency Brigadier General Sheikh Ahmed bin Nasser Al-Thank, Assistant Chief of Staff for Intelligence & Security of the Qatar Armed Forces and the Director of Military Intelligence of the State of Qatar | Non-acceptance would cause embarrassment to donor and U.S. Government.
The Honorable Michael G. Vickers, Under Secretary of Defense, OSD Policy | Gold necklace. Rec'd—4/11/2012. Est. Value—$1,815.00. Disposition—Pending Transfer to General Services Administration | His Excellency Ghanim Al-Kubaysi, Director of Qatar State Security | Non-acceptance would cause embarrassment to donor and U.S. Government.
The Honorable William F. Wechsler, Deputy Assistant Secretary of Defense, OSD Policy | Vase. Rec'd—4/24/2012. Est. Value—$440.00. Disposition—Pending Transfer to General Services Administration | His Excellency Baz Mohamed Ahmadi, Deputy Minister of Interior for Counternarcotics of the Islamic Republic of Afghanistan | Non-acceptance would cause embarrassment to donor and U.S. Government.
The Honorable Andy Weber, Office of the Assistant Secretary of Defense (ASD) (NCB) | Two jewelry boxes. Rec'd—5/16/2012. Est. Value—$565.00. Disposition—Pending Transfer to General Services Administration | His Excellency Seo Pil-Eon, Vice Minister of Public Administration and Security of the Republic of Korea | Non-acceptance would cause embarrassment to donor and U.S. Government.
The Honorable David Sedney, Deputy Assistant Secretary of Defense, OSD Policy | Afghan rug. Rec'd—6/8/2012. Est. Value—$375.00. Disposition—Pending Transfer to General Services Administration | His Excellency Eklil Hakimi, Ambassador of the Islamic Republic of Afghanistan | Non-acceptance would cause embarrassment to donor and U.S. Government.
The Honorable Robert Prins, Lieutenant Colonel, U.S. Army, Defense Threat Reduction Agency | Wristwatch. Rec'd—6/21/2012. Est. Value—$780.00. Disposition—Pending Transfer to General Services Administration | Brigadier General Ghanem Ibriheem Al-Fudhalah, Director of Joint Operations, Bahrain Defense Force of the Kingdom of Bahrain | Non-acceptance would cause embarrassment to donor and U.S. Government.
The Honorable Matthew Moakler, Major, U.S. Army, Defense Threat Reduction Agency | Wristwatch. Rec'd—6/21/2012. Est. Value—$780.00. Disposition—Pending Transfer to General Services Administration | Brigadier General Ghanem Ibriheem Al-Fudhalah, Director of Joint Operations, Bahrain Defense Force of the Kingdom of Bahrain | Non-acceptance would cause embarrassment to donor and U.S. Government.
The Honorable Ashton B. Carter, Deputy Secretary of Defense | Bowl. Rec'd—7/22/2012. Est. Value—$390.00. Disposition—Pending Transfer to General Services Administration | His Excellency Air Chief Marshal Sukumpol Suwanatat, Minister of Defense of the Kingdom of Thailand | Non-acceptance would cause embarrassment to donor and U.S. Government.
The Honorable Ashton B. Carter, Deputy Secretary of Defense | Rug. Rec'd—10/12/2012. Est. Value—$450.00. Disposition—Pending Transfer to General Services Administration | His Excellency Sadun Farhan al-Dulaymi, Acting Minister of Defense of the Republic of Iraq | Non-acceptance would cause embarrassment to donor and U.S. Government.
The Honorable Adm. James A. Winnefeld, Jr., Vice Chairman of the Joint Chiefs of Staff | Mere Pounamu carving. Rec'd—10/18/2012. Est. Value—$1,080.00. Disposition—Pending Transfer to General Services Administration | His Excellency Rear Admiral Jack Steer, Chief of the Royal Navy of New Zealand | Non-acceptance would cause embarrassment to donor and U.S. Government.
The Honorable Ashton B. Carter, Deputy Secretary of Defense | Rug. Rec'd—10/22/2012. Est. Value—$550.00. Disposition—Pending Transfer to General Services Administration | His Excellency Brigadier General Abdul Raziq, Unit Commander, 4th Brigade, 203rd Corps of the Afghan National Army | Non-acceptance would cause embarrassment to donor and U.S. Government.

Agency: Defense Intelligence Agency
[Report of Tangible Gifts Furnished by the Defense Intelligence Agency]
Name and title of person accepting the gift on behalf of the U.S. Government | Gift, date of acceptance on behalf of the U.S. Government, estimated value, and current disposition or location | Identity of foreign donor and government | Circumstances justifying acceptance
RADM Elizabeth L. Train, Director for Intelligence, Joint Chiefs of Staff J2 | Tissot T3 women's watch. Versace men's cologne. Green and red tie with black imprints. Rec'd—8/21/2012. Est. Value—$660.00. Disposition—Pending Transfer to General Services Administration | Major General Sheikh Mamun Khaled, Director General of the Directorate General Forces Intelligence of the People's Republic of Bangladesh | Non-acceptance would cause embarrassment to donor and U.S. Government.

Agency: Department of the Air Force
[Report of Tangible Gifts Furnished by the Department of the Air Force]
Name and title of person accepting the gift on behalf of the U.S. Government | Gift, date of acceptance on behalf of the U.S. Government, estimated value, and current disposition or location | Identity of foreign donor and government | Circumstances justifying acceptance
The Honorable Michael Donley, Secretary of United States Air Force | 48″ x 96″ multicolored brown rug. Rec'd—12/29/2012. Est. Value—$2,000.00. Disposition—Displayed in Pentagon Rm 4E878 for Official Use Only | His Excellendy Abdul Rahim Wardak, Minister of Defense of the Islamic Republic of Afghanistan | Non-acceptance would cause embarrassment to donor and U.S. Government.
Colonel Andreas Forstner, United States Air Force Military Assistant for NATO | JBR men's watch. JBR women's watch. Rec'd—3/21/2012. Est. Value—$1,000.00. Disposition—Transferred to General Services Administration | His Excellency Major General Hamad bin Ali al-Attiyah, Chief of Staff of the Qatar Armed Forces | Non-acceptance would cause embarrassment to donor and U.S. Government.
Mr. John Peterson, United States Air Force Political Advisor for NATO | JBR men's watch. JBR women's watch. Rec'd—3/21/2012. Est. Value—$1,000.00. Disposition—Transferred to General Services Administration | His Excellency Major General Hamad bin Ali al-Attiyah, Chief of Staff of the Qatar Armed Forces | Non-acceptance would cause embarrassment to donor and U.S. Government.
Lieutenant General Ralph Jodice II, United States Air Force Commander NATO | Chanel men's watch. Chanel women's watch. Rec'd—3/21/2012. Est. Value—$4,000.00. Disposition—Transferred to General Services Administration | His Excellency Major General Hamad bin Ali al-Attiyah, Chief of Staff of the Qatar Armed Forces | Non-acceptance would cause embarrassment to donor and U.S. Government.
Mrs Dawn Goldfein, Spouse to Lieutenant General David Goldfein, United States Air Force Commander USAFCENT | Saint Honore watch. Rec'd—4/28/2012. Est. Value—$1,417.00. Disposition—Transferred to General Services Administration | Mrs. Al Attiyah, Spouse of the Chief of Staff of the Qatar Armed Forces | Non-acceptance would cause embarrassment to donor and U.S. Government.
Colonel James Breck, 738 AEAC Commander | Three 5′ x 7′ multi colored rugs. Rec'd—2/2/2011. Est. Value—$450.00. Disposition—Displayed in 738 AEAG, Afghanistan for Official Use Only | Major General Abdul Raziq Sherzai, Commander of the Kandahar Air Wing of the Afghan Air Force | Non-acceptance would cause embarrassment to donor and U.S. Government.
John Polhemus, Andrews Air Force Base Protocol | Mont Blanc black pen set. Rec'd—8/23/2012. Est. Value—$900.00. Disposition—Pending Transfer to General Services Administration | Adi Khair, First Secretary of the Embassy of the Hashemite Kingdom of Jordan to the United States | Non-acceptance would cause embarrassment to donor and U.S. Government.
John Polhemus, Andrews Air Force Base Protocol | White 64GB 4G iPad. Rec'd—9/3/2012. Est. Value—$700.00. Disposition—Pending Transfer to General Services Administration | Adi Khair, First Secretary of the Embassy of the Hashemite Kingdom of Jordan to the United States | Non-acceptance would cause embarrassment to donor and U.S. Government.
Lieutenant General Frank Gorenc, Assistant Vice Chief of Staff United States Air Force | 12″ silver colored falcon statue w/base. Rec'd—12/20/2012. Est. Value—$1,069.00. Disposition—Displayed in Pentagon Rm 4E944 for Official Use Only | His Excellency Mohamed Abdullah Al-Rumaihi, Ambassador of the State of Qatar to the United States | Non-acceptance would cause embarrassment to donor and U.S. Government.
Brigadier General Peggy Moore, Assistant to Secretary of United States Air Force | 36″ x 60″ red and blue rug. Rec'd—12/29/2012. Est. Value—$775.00. Disposition—Pending Purchase from General Services Administration | His Excellendy Abdul Rahim Wardak, Minister of Defense of the Islamic Republic of Afghanistan | Non-acceptance would cause embarrassment to donor and U.S. Government.

Agency: Department of the Army
[Report of Tangible Gifts Furnished by the Department of the Army]
Name and title of person accepting the gift on behalf of the U.S. Government | Gift, date of acceptance on behalf of the U.S. Government, estimated value, and current disposition or location | Identity of foreign donor and government | Circumstances justifying acceptance
Colonel Maxine Girard, Commander, Area Support Group—Qatar, Camp As Sayliyah, Qatar APO AE 09898 | Valentino women's black dial black lizard watch (style: V38SBQ9909-S009). Rec'd—6/7/2011. Est. Value—$370.00. Disposition—Turn in as excess property | His Excellency Brigadier General Sheikh Ahmed bin Nasser Al-Thani, Assistant Chief of Staff for Intelligence & Security of the Qatar Amred Forces and the Director of Military Intelligence of the State of Qatar | Non-acceptance would cause embarrassment to donor and U.S. Government.
Lieutenant Colonel William J. Carty Jr., Special Operations Task Force—South Kandahar Airfield, Afghanistan | 6′ x 8′ wool oriental rug. Rec'd—7/10/2011. Est. Value—$1,275.00. Disposition—Request to purchase and keep as personal property pending at General Services Agency | Governor Gul Agha Sherazi, Governor of the Nangahar Province of the Islamic Republic of Afghanistan | Non-acceptance would cause embarrassment to donor and U.S. Government.
Lieutenant General Curtis M. Scaparrotti, Commander, Insternational Security Assistance Force Joint Command, Kabul Afghanistan | Ceremonial polish mace. Rec'd—8/10/2011. Est. Value—$499.95. Disposition—Retain for official Display at Headquarters, I Corps, Mail Stop #1, P.O. Box 339500, Joint Base Lewis McChord Washington 98433-9500 | Lieutenant General Edward Gruszka, Commander of the Operational Command of the Polish Armed Forces | Non-acceptance would cause embarrassment to donor and U.S. Government.
Lieutenant General Vincent K. Brooks, Commanding General USARCENT | One men's and one women's Concord Saratoga watches. Rec'd—9/25/2011. Est. Value—$2,424.00. Disposition—Turn in as excess property | Lieutenant General Ahmad Al-Khalid al-Hamad al-Sabah, Ministry of Defense and 15th Armored Brigade of Kuwait | Non-acceptance would cause embarrassment to donor and U.S. Government.
Lieutenant Colonel William J. Carty Jr., Special Operations Task Force—South Kandahar Airfield, Afghanistan | 3′ x 5′ silk oriental rug. Rec'd—1/24/2012. Est. Value—$400.00. Disposition—Request to purchase and keep as personal property pending at General Services Agency | Brigadier General Haji Gulali, Commander of the Kandahar Airfield Garrison of the Afghan National Army | Non-acceptance would cause embarrassment to donor and U.S. Government.
Lieutenant Colonel K. Weedon Gallagher, Hattalion Commander, 1297th Combat Sustainment Support Battalion, Regional Command-South, Kandahar, Afghanistan | Chinese Recoilless Anti-Tank gun, serial number: 5137 30491. Soviet auto cannon, serial number:174458. AK47, serial number: 1964YR7999. AK47, serial number: EB0730. AK 47, serial number: 2537787. Rec'd—3/1/2012. Est. Value—$31,425.00. Disposition—Request to retain for official display at the 1297th Combat Sustainment Support Battalion Headquarters, Havre de Grace, Maryland | Colonel Mohammad Fazel, Regional Logistics Support Command of the Afghan National Army | Non-acceptance would cause embarrassment to donor and U.S. Government.
Brigadier General Terry Ferrell, Commanding General, National Training Center (NTC) and Fort Irwin, 92310 | Scuderia Ferrari Ronda 5050 Coronograph watch. Rec'd—6/12/2012. Est. Value—$550.00. Disposition—Turn in as excess property | Major General Ali Mohammed Al Jabry, Deputy Commander of the United Arab Emirates Land Forces | Non-acceptance would cause embarrassment to donor and U.S. Government.
Lieutenant Colonel Ralph Arthur Lounsbrough, Commander 840th Transportation Battalion | Black 32 MB iPhone 4 (MC605B/A). Rec'd—7/18/2012. Est. Value—$400.00. Disposition—Turn in as excess property | Colonel Yousef A. Al-Duraie, Manager of the Oil and Vital Interests Protection Department of the Ministry of the Interior of Kuwait | Non-acceptance would cause embarrassment to donor and U.S. Government.
Brigadier General Eric P. Wendt, Deputy Commander, ISAF Regional Command North/U.S. Forces—Afghanistan—North | 4′ x 8′ rectangular “Al Khuja”-style Afghan multicolored rug from the vicinity of Maimaneh in Northern Afghanistan depicting several geometric shapes. A framed commemorative bowl with an inscription of a famous Afghan poet and the name/title of Governor Atta (written in Dari). Rec'd—7/24/2012. Est. Value—$380.00. Disposition—Turn in as excess property | Govenor Noor Muhammad Atta, Governor of Balkh Province of the Islamic Republic of Afghanistan | Non-acceptance would cause embarrassment to donor and U.S. Government.
Brigadier General Eric P. Wendt, Deputy Commander, ISAF Regional Command North/US Forces—Afghanistan—North | A rough uncut ruby embedded in a white rock. A commemorative plaque from the Provincial Governor of Kunduz. Rec'd—7/25/2012. Est. Value—$370.00. Disposition—Turn in as excess property | Govenor Mohammah Anwar Jektalek, Governor of Kunduz Province of the Islamic Republic of Afghanistan | Non-acceptance would cause embarrassment to donor and U.S. Government.
Brigadier General Timothy P. McGuire, Deputy Commanding General, Support, Regional Command South, Combined Joint Task Force-82, Kandahar Airfield, Afghanistan | 4′ x 6′ wool rug. Rec'd—8/9/2012. Est. Value—$500.00. Disposition—Pending Transfer to General Services Administration | Mr. Shah Wali Karzai, Leader of the Popalzai tribe of the Islamic Republic of Afghanistan | Non-acceptance would cause embarrassment to donor and U.S. Government.
Major General James L. Huggins, Commanding General, 82d Airborne Division, Kandahar, Afghanistan | Rado original automatic gold watch with a hard metal bezel and facetted sapphire chrystals. Rec'd—8/27/2012. Est. Value—$688.92. Disposition—Turn in as excess property | Mr. Matiullah Khan, Chief of Police of the Uruzgan Provincial of the Islamic Republic of Afghanistan | Non-acceptance would cause embarrassment to donor and U.S. Government.
Brigadier General Timothy P. McGuire, Deputy Commanding General, Support, 82d Airborne Division, Fort Bragg, North Carolina 28310 | 4″ x 2″ lapis lazuli blue bowl. Rec'd—8/30/2012. Est. Value—$550.00. Disposition—Pending Transfer to General Services Administration | General Mirwais Khan Noorzai, Commander of the 404th Maiwand Zone of the Afghan Uniformed Police | Non-acceptance would cause embarrassment to donor and U.S. Government.
Major General James L. Huggins, Commanding General, 82d Airborne Division, Fort Bragg, North Carolina | 8′ x 11′ silk Afghan rug. Rec'd—10/1/2012. Est. Value—$500.00. Disposition—Request to retain for official display at the 82d Airborne Division Museum, Fort Bragg, North Carolina | Brigadier General Haji Gulali, Commander of the Kandahar Airfield Garrison of the Afghan National Army | Non-acceptance would cause embarrassment to donor and U.S. Government.
Brigadier General Martin P. Schweitzer, Deputy Commanding General, Operations 82d Airborne Division, Fort Bragg, North Carolina, 28310 | 8′ x 11′ silk Afghan rug. Rec'd—10/2/2012. Est. Value—$700.00. Disposition—Request to purchase and keep as personal property pending at General Services Administration | Brigadier General Haji Gulali, Commander of the Kandahar Airfield Garrison of the Afghan National Army | Non-acceptance would cause embarrassment to donor and U.S. Government.
Brigadier General Ricky L. Waddell, CJIATF-Shafafiyat Commander | 6′ x 6′ high quality rug. Rec'd—10/2/2012. Est. Value—$1,000.00. Disposition—Turn in as excess property | General Gul Agha Sherazi, Governor of the Nangarhar Province of the Islamic Republic of Afghanistan | Non-acceptance would cause embarrassment to donor and U.S. Government.
Lieutenant General Francis J Wiercinski, Commander, U.S. Army Pacific | Pearl necklace. Rec'd—11/8/2012. Est. Value—$600.00. Disposition—Retain for official display at Headquarters, U.S. Army Pacific, 3rd Floor, Building T100, Fort Shafter, Hawaii 96858 | General Edhie Wibowo and Mrs. Kiki Gayatri Wibowo, Chief of the Army of Indonesia and Spouse | Non-acceptance would cause embarrassment to donor and U.S. Government.
Major General Stephen R. Lyons, Commander, 8th Theater Sustainment Command, Fort Shafter, HI | 500 ml bottle of Kweichow Moutai alcohol. Wooden pen holder with panda embroidery. One silk scarf. One cashmere scarf. One cashmere shawl. Rec'd—11/28/2012. Est. Value—$470.00. Disposition—Retain for Official Display at the 8th Theater Sustainment command (8th TSC), Fort Shafter, HI | Major General Tang Fen, Director of the Mass Work Office of the General Political Department and Head of Delegation for People's Liberation Army of the People's Republic of China | Non-acceptance would cause embarrassment to donor and U.S. Government.
Brigadier General Robert White, Deputy Commanding General—Support, Regional Command (South), 3rd Infantry Division, Kandahar Airfield, Afghanistan | 6′ x 9′ hand-stitched rug. Rec'd—12/24/2012. Est. Value—$700.00. Disposition—Retain for Official Display at the 3rd Infantry Division Headquarters Building, second floor common area, Fort Steward Georgia | Brigadier General Gulali, Camp Hero Garrison Commander of the Afghan National Army | Non-acceptance would cause embarrassment to donor and U.S. Government.
Major General Robert B. Abrams, Commander, Regiongal Command (South), 3rd Infantry Division, Kandahar Airfield, Afghanistan | 6′ x 9′ hand-stitched rug. Rec'd—12/24/2012. Est. Value—$700.00. Disposition—Retain for Official Display at the Regional Command South, Shura Room, Headquarters Building, Kandahar Airfield, Afghanistan, APO 09335 | Brigadier General Gulali, Camp Hero Garrison Commander of the Afghan National Army | Non-acceptance would cause embarrassment to donor and U.S. Government.
Lieutenant General Huntoon, Supt. USMA | TRAVEL: Lieutennt General Huntoon, Supt. USMA, attended conference. In-kind gift of travel and travel related benefits, i.e, travel, lodging, and meals. Rec'd—3/2-4/2012. Est. Value—$6,000.00 | Brenthurst Foundation for Economic Dimension to Peace Building Conference, Tswalu Kalahri Reserve, the Republic of South Africa | Non-acceptance would cause embarrassment to donor and U.S. Government.

Agency: Department of the Navy
[Report of Tangible Gifts and Travel Furnished by the Department of the Navy]
Name and title of person accepting the gift on behalf of the U.S. Government | Gift, date of acceptance on behalf of the U.S. Government, estimated value, and current disposition or location | Identity of foreign donor and government | Circumstances justifying acceptance
The Honorable Ray Mabus, Secretary of the Navy | Three miniture brass nautical instruments. Rec'd—7/14/2012. Est. Value—$465.00. Disposition—Retained by Recipient for Official Use | Vice Admiral Zahir Uddin Ahmed, Chief of Naval Staff of the Bangladesh Navy | Non-acceptance would cause embarrassment to donor and U.S. Government.
The Honorable Ray Mabus, Secretary of the Navy | Model boat of a miniature Korean “turtle” warship. Miniature English clock by William & Son of London. Rec'd—8/23/2012. Est. Value—$1,380.00. Disposition—Retained by Recipient for Official Use | Vice Admiral Jung Hwa Park, Commander Republic of Korea Fleet of the Republic of Korea Navy | Non-acceptance would cause embarrassment to donor and U.S. Government.
The Honorable Ray Mabus, Secretary of the Navy | Elephant head, ears and trunk wood. Rec'd—8/29/2012. Est. Value—$435.00. Disposition—Retained by Recipient for Official Use | His Excellency Philemon Yang, Prime Minister of the Republic of Cameroon | Non-acceptance would cause embarrassment to donor and U.S. Government.
The Honorable Ray Mabus, Secretary of the Navy | Red porcelain vase. Rec'd—11/27/2012. Est. Value—$435.00. Disposition—Retained by Recipient for Official Use | His Excellency Liang Guanglie, Minister of National Defense of the People's Republic of China | Non-acceptance would cause embarrassment to donor and U.S. Government.
Admiral Jonathan Greenert, US Navy, Chief of Naval Operations and Spouse | Fukagawa Seiji porcelain. Hagoita doll paddle. Rec'd—10/3/2011. Est. Value—$536.83. Disposition—Retained by Recipient for Official Use | Admiral Masahiko Sugimoto, Chief of Staff of the Japanese Maritime Self Defense Force of Japan | Non-acceptance would cause embarrassment to donor and U.S. Government.
Admiral Jonathan Greenert, US Navy, Chief of Naval Operations and Spouse | Weems and Plath clock in wooden box. Rec'd—10/18/2011. Est. Value—$1,500.00. Disposition—Retained by Recipient for Official Use | Admiral Julio Soares de Moura Neto, Chief of Naval Operations of the Federative Republic of Brazil | Non-acceptance would cause embarrassment to donor and U.S. Government.
Admiral Jonathan Greenert, US Navy, Chief of Naval Operations and Spouse | Lomonosov coffee set. Nine Christmas ornaments. Sword replica letter opener. Rec'd—10/18/2011. Est. Value—$1,377.00. Disposition—Retained by Recipient for Official Use | Admiral Vladimir Vysotskiy, Commander-in-Chief of the Russian Federation Navy | Non-acceptance would cause embarrassment to donor and U.S. Government.
Admiral Jonathan Greenert, US Navy, Chief of Naval Operations and Spouse | Ferragamo silk scarf. Delta fountain pen. Rec'd—10/21/2011. Est. Value—$496.00. Disposition—Retained by Recipient for Official Use | Vice Admiral Bruno Branciforte, Chief of Naval Operations of the Italian Republic | Non-acceptance would cause embarrassment to donor and U.S. Government.
Admiral Jonathan Greenert, US Navy, Chief of Naval Operations and Spouse | Aigner mens watch. Ax swagger stick. Rec'd—10/21/2011. Est. Value—$1,322.00. Disposition—Pending Transfer to General Services Administration | Brigadier General Ibrahim Al Musharrakh, Chief of Naval Forces of the United Arab Emirates | Non-acceptance would cause embarrassment to donor and U.S. Government.
Admiral Jonathan Greenert, US Navy, Chief of Naval Operations and Spouse | Tittot crystal. Cuff link and tie bar set. Franz Proud peacock pin. Rec'd—12/6/2011. Est. Value—$423.50. Disposition—Crystal Retained by Recipient for Official Use. All else Pending Transfer to General Services Administration | Admiral Hsiang-lung Tung, Commander in Chief of the Taiwan Navy | Non-acceptance would cause embarrassment to donor and U.S. Government.
Admiral Jonathan Greenert, US Navy, Chief of Naval Operations and Spouse | S.T. Dupont pen. Hermes silk scarf. Rec'd—3/23/2012. Est. Value—$796.12. Disposition—Retained by Recipient for Official Use | Admiral Bernard Rogel and Mrs. Christine Rogel, Chief of Naval Operations of the French Republic and Spouse | Non-acceptance would cause embarrassment to donor and U.S. Government.
Admiral Jonathan Greenert, US Navy, Chief of Naval Operations and Spouse | Candino men's watch. Candino pen. Candino cufflink set. Cardino wallet. Rec'd—3/26/2012. Est. Value—$595.00. Disposition—Retained by Recipient for Official Use | His Highness Sheikh Hamad bin Khalifa Al Thani, Amir of the State of Qatar | Non-acceptance would cause embarrassment to donor and U.S. Government.
Captain Anthony Cowden, US Navy | Raymond Weill men's watch. Rec'd—7/8/2011. Est. Value—$895.00. Disposition—Transferred to General Services Administration | Vice Admiral Dakheel Allah Al-Wagdani, The Royal Saudi Naval Forces | Non-acceptance would cause embarrassment to donor and U.S. Government.
Vice Admiral Michael LeFever, US Navy, Commander, Office of the Defense Representive to Pakistan | Hardwood trunk with brass inlay. Rec'd—7/9/2011. Est. Value—$850.00. Disposition—Purchased by Recipient | Admiral Noman Bashir, Chief of Naval Staff of the Islamic Republic of Pakistan | Non-acceptance would cause embarrassment to donor and U.S. Government.
Admiral Mark Ferguson, US Navy, Vice Chief of Naval Operations | Medium sized Bahraini decorative wood trunk. Fuel men's watch. Small camel rug. Gold and pearl ring. 3.33 fl. oz. Bahraini Cologne. 0.36 fl. oz. Banafsaj night perfume 3.33 fl. oz. Banafsaj night perfume. Rec'd—11/23/2011. Est. Value—$1,688.00. Disposition—Retained by Recipient for Official Use | Brigadier General Abdulla al Monsoori, Royal Bahraini Navy | Non-acceptance would cause embarrassment to donor and U.S. Government.
Vice Admiral Mark I. Fox, US Navy, Commander, U.S. Naval Forces Central Command | Two 3⅓; fl. oz. Tanelli perfume. 3.4 fl. oz. Attimo perfume. 1.7 fl. oz. Lys perfume. Corneliani tie. Horizon brown leather briefcase. Gift set containing Geovani men's watch, Geovani women's watch, JB Robinson pen, Pierre Cardin pen, Smalto cufflinks and key chain in wood decorative box. Rec'd—11/29/2011. Est. Value—8500.00. Disposition—Pending Transfer to General Services Administration | His Excellency Major General Hamad bin Al Attiyah, Chief of Staff of the Qatar Armed Forces | Non-acceptance would cause embarrassment to donor and U.S. Government.
Mr. Scott Edelman, Political Advisor to Vice Admiral Mark Fox, Commander, U.S. Naval Forces Central Command | Horizon black leather briefcase. GeoVani watch. JBR pen, cufflinks and cologne gift set. 3.25 fl. oz Midnight rain perfume. Collistar cologne. 1.7 fl. oz Tom Ford Grey Vetiver perfume. Rec'd—11/29/2011. Est. Value—$2,874.00. Disposition—Pending Transfer to General Services Administration | His Excellency Major General Hamad bin Al Attiyah, Chief of Staff of the Qatar Armed Forces | Non-acceptance would cause embarrassment to donor and U.S. Government.
Seaman Apprentice Ben Yager, US Navy, Escort, Commander, U.S. Naval Forces Central Command | Jovial watch. JBR pen and wallet. Smalto cufflinks gift set. Rec'd—11/29/2011. Est. Value—$1,200.00. Disposition—Pending Transfer to General Services Administration | His Excellency Major General Hamad bin Al Attiyah, Chief of Staff of the Qatar Armed Forces | Non-acceptance would cause embarrassment to donor and U.S. Government.
Lieutenant Alysha Haran, US Navy, Flag Aide, Commander, U.S. Naval Forces Central Command | Giovani watch. Pierre Cardin pen and key chain charm. JBR perfume gift set. Rec'd—11/29/2011. Est. Value—$1,200.00. Disposition—Pending Transfer to General Services Administration | His Excellency Major General Hamad bin Al Attiyah, Chief of Staff of the Qatar Armed Forces | Non-acceptance would cause embarrassment to donor and U.S. Government.
Commander Michael Seeberger, US Navy, Executive Assistant, Commander, U.S. Naval Forces Central Command | JBR watch, pen, cufflinks and wallet gift set. Rec'd—11/29/2011. Est. Value—$1,200.00. Disposition—Pending Transfer to General Services Administration | His Excellency Major General Hamad bin Al Attiyah, Chief of Staff of the Qatar Armed Forces | Non-acceptance would cause embarrassment to donor and U.S. Government.
Lieutenant Bryan Pinckney, US Navy, Flag Aide, Commander, U.S. Naval Forces Central Command | JBR watch, pen, cufflinks and wallet gift set. Rec'd—11/29/2011. Est. Value—$1,200.00. Disposition—Pending Transfer to General Services Administration | His Excellency Major General Hamad bin Al Attiyah, Chief of Staff of the Qatar Armed Forces | Non-acceptance would cause embarrassment to donor and U.S. Government.
Lieutenant Commander Vickie McDonald, US Navy, Flag Aide, Commander, U.S. Naval Forces Central Command | JBR watch. 1.7 fl. oz. Pierre Cardin cologne, pen, and key chain charm gift set. Rec'd—11/29/2011. Est. Value—$1,200.00. Disposition—Pending Transfer to General Services Administration | His Excellency Major General Hamad bin Al Attiyah, Chief of Staff of the Qatar Armed Forces | Non-acceptance would cause embarrassment to donor and U.S. Government.
Brigadier General Carl Mundy, U.S. Marine Corps, Executive Officer, U.S. Central Command | Hand-woven Afghan rug. Rec'd—12/26/2011. Est. Value—$1,100.00. Disposition—Retained by Recipient for Official Use | Major General Abdul Raziq Sherzai, Commander of the Kandahar Air Wing of the Afghan Air Force | Non-acceptance would cause embarrassment to donor and U.S. Government.
Admiral James Stavridis, US Navy, Commander, U.S. European Command | Montblanc fountain pen. Hjerter heart-shaped necklace. Rec'd—2/24/2012. Est. Value—$890.00. Disposition—Pending Transfer to the National Defense University to Display for Official Use | General Harald Sunde, Chief of Defense of Norway | Non-acceptance would cause embarrassment to donor and U.S. Government.
General James Mattis, US Marine Corps, Commander, U.S. Central Command | Two ammonites (fossilized snails). Rec'd—3/31/2012. Est. Value—$650.00. Disposition—Retained by Recipient for Official Use | His Excellency Enomali Rahmon, President of the Republic of Tajikistan | Non-acceptance would cause embarrassment to donor and U.S. Government.
Rear Admiral Ted Carter, US Navy, Commander, Carrier Strike Group TWELVE | Blue and clear crystal chalice. Rec'd—5/6/2012. Est. Value—$521.00. Disposition—Retained by Recipient for Official Use | Rear Admiral Abdullah bin Khamis bin Abdullah Al-Raisi, Royal Navy of the Sultanate of Oman | Non-acceptance would cause embarrassment to donor and U.S. Government.
Vice Admiral Mark I. Fox, US Navy, Commander, U.S. Naval Forces Central Command | A set of twelve silver spoons with Royal Bahrain Crest imprinted on them. Rec'd—5/15/2012. Est. Value—$526.00. Disposition—Item was lost in shipping, report of loss was documented | Her Royal Highness Princess Sabika bint Ibrahim Al Khalifa, Chairperson of the Supreme Council for Women and spouse of the King of the Kingdom of Bahrain | Non-acceptance would cause embarrassment to donor and U.S. Government.
Rear Admiral C.M. Gaouette, US Navy, Deputy Commander, U.S. Naval Forces Central Command/U.S. FIFTH Fleet/Combined Maritime Forces | A set of twelve silver spoons with Royal Bahrain Crest imprinted on them. Rec'd—5/15/2012. Est. Value—$526.00. Disposition—Retained by Recipient for Official Use | Her Royal Highness Princess Sabika bint Ibrahim Al Khalifa, Chairperson of the Supreme Council for Women and spouse of the King of the Kingdom of Bahrain | Non-acceptance would cause embarrassment to donor and U.S. Government.
Vice Admiral Mark I. Fox, US Navy, Commander, U.S. Naval Forces Central Command | Big green egg. Large ceramic multi-use cooking unit in the sytle of ancient kamado cookers, with accessories. Rec'd—8/29/2012. Est. Value—$960.00. Disposition—Retained by Recipient for Official Use | His Royal Highness Prince Salman bin Hamad Al-Khalifa, Crown Prince of the Kingdom of Bahrain and Deputy Supreme Commander of the Bahrain Defense Force | Non-acceptance would cause embarrassment to donor and U.S. Government.
General James Mattis, US Marine Corps, Commander, U.S. Central Command | Montblanc Meisterstuck fountain pen. Rec'd—9/4/2012. Est. Value—$840.00. Disposition—Retained by Recipient for Official Use | General Jean Kahwagi, Commander-in-Chief of the Lebanese Armed Forces | Non-acceptance would cause embarrassment to donor and U.S. Government.
Admiral James Stavridis, US Navy, Commander, U.S. European Command | Dagger in box. Statue of a Greek soldier. Ilias Lalaounis brooch. Rec'd—9/4/2012. Est. Value—$431.44. Disposition—Retained by Recipient for Official Use | General Mikhail Kostarakos and Mrs. Katerina Kostarakos Chief of the Hellenic National Defense General Staff | Non-acceptance would cause embarrassment to donor and U.S. Government.
Admiral James Stavridis, US Navy, Commander, U.S. European Command | Silver covered woden box with personal inscription. Rec'd—9/6/2012. Est. Value—$450.00. Disposition—Retained by Recipient for Official Use | Admiral Giampaolo Di Paola, Minister of Defense of the Italian Republic | Non-acceptance would cause embarrassment to donor and U.S. Government.
Harry B. Harris, Jr., Assistant to the Chairman of the Joint Chiefs of Staff | Book, title: “His Majesty Sultan Haji Hassanal Bolkiah Mui'izzaddin Waddaulah Sultan dan Yang Di-Pertuan of Brunei Darussalam: A Celebration of Forty Glorius Years of Reign.” Commemorative ballpoint pen. Rec'd—9/10/2012. Est. Value—$1,500.00. Disposition—Pending Transfer to General Services Administration | His Majesty Sultan Haji Hassanal Bolkiah Mu'izaddin Waddaulah ibni Al-Marhum Sultan Haji Omar `Ali Saifuddien Sa'adula Khairi Waddien, Sultan and Yang Di-Pertuan of Brunei Darussalam | Non-acceptance would cause embarrassment to donor and U.S. Government.
Rearl Sean Buck, US Navy, Commander, Patrol and Reconnaissance Force SEVENTH Fleet | TRAVEL: Expended for lodgings in Tokushima, Japan. Rec'd—8/12-13/2011. Est. Value—$533.00 | Vice Admiral Hiroo Hatanaka, Commander Fleet air Forces of Japan | Non-acceptance would cause embarrassment to donor and U.S. Government.
Lieutenant Daniel Walker, US Navy, Flag Aide to Comander, Patrol and Reconnaissance Force SEVENTH Fleet | TRAVEL: Expended for lodgings in Tokushima, Japan. Rec'd—8/12-13/2011. Est. Value—$533.00 | Vice Admiral Hiroo Hatanaka, Commander Fleet air Forces of Japan | Non-acceptance would cause embarrassment to donor and U.S. Government.
Vice Admiral Frank Pandolfe, US Navy, Deputy Commandeer, U.S. Naval Forces, Europe/Deputy Commander, U.S. Naval Forces, Africa/Commander, U.S. SIXTH Fleet | TRAVEL: Expended for lodgings in Cape Town, South Africa. Rec'd—4/10-13/2012. Est. Value—$985.83 | Vice Admiral J. Mudimu, Chief of South African Naval Operations | Non-acceptance would cause embarrassment to donor and U.S. Government.
Admiral Bruce W. Clingan, US Navy, Commander, US Naval Forces, Europe/Commander US Naval Forces, Africa and two accompanying staff members | TRAVEL: Expended for lodgings in Bulgaria. Rec'd—6/12-14/2012. Est. Value—$557.82 | General Simeon Simeonov, Chief of Defense of the Republic of Bulgaria | Non-acceptance would cause embarrassment to donor and U.S. Government.
Rear Admiral Kenneth Norton, US Navy, Chief of Staff, Commander, U.S. Naval Forces, Europe/Commander, U.S. Naval Forces, Africa and two accompaning staff members | TRAVEL: Expended for lodgings in St. Petersburg, Russia. Rec'd—6/28/2012-7/12/2012. Est. Value—$2,304.00 | Captain First Rank Vyacheslav Molochny, Main Naval Staff of the Russian Federation | Non-acceptance would cause embarrassment to donor and U.S. Government.
Vice Admiral Frank Pandolfe, US Navy, Deputy Commandeer, U.S. Naval Forces, Europe/Deputy Commander, U.S. Naval Forces, Africa/Commander, U.S. SIXTH Fleet | TRAVEL: Expended for lodgings in Venice, Italy. Rec'd—10/16-18/2012. Est. Value—$774.74 | Vice Admiral Luigi Binelli Mantelli, Chief of the Italian Navy | Non-acceptance would cause embarrassment to donor and U.S. Government.
Admiral Bruce W. Clingan, US Navy, Commander, US Naval Forces, Europe/Commander US Naval Forces, Africa and two accompanying staff members | TRAVEL: Expended for lodgings in Venice, Italy. Rec'd—10/16-19/2012. Est. Value—$1,162.11 | Vice Admiral Luigi Binelli Mantelli, Chief of the Italian Navy | Non-acceptance would cause embarrassment to donor and U.S. Government.
Rear Admiral Joseph Rixey, US Navy, Deputy Assistant Secretary of the Navy (International Programs)/Director, Navy International Programs Office | TRAVEL: Expended for lodgings in Vina Del Mar, Chile. Rec'd—12/3-5/2012. Est. Value—$1,020.00 | Admiral Edmundo González Robles, Commander-in-Chief of the Chilean Navy | Non-acceptance would cause embarrassment to donor and U.S. Government.
Captain Eduardo E. Wheeler, US Navy, Director, Northern Command/Southern Command Division Security Assistance Directorate Navy International Programs Office | TRAVEL: Expended for lodgings in Vina Del Mar, Chile. Rec'd—12/3-5/2012. Est. Value—$1,020.00 | Admiral Edmundo González Robles, Commander-in-Chief of the Chilean Navy | Non-acceptance would cause embarrassment to donor and U.S. Government.

Agency: Department of Homeland Security
[Report of Tangible Gifts Furnished by the Department of Homeland Security]
Name and title of person accepting the gift on behalf of the U.S. Government | Gift, date of acceptance on behalf of the U.S. Government, estimated value, and current disposition or location | Identity of foreign donor and government | Circumstances justifying acceptance
The Honorable Janet Napolitano, Secretary of Homeland Security | Daum brand, clear-glass perfume bottle with purple glass stopper in the shape of an iris. Rec'd—5/22/2012. Est. Value—$545.00. Disposition—3801 Nebraska Ave. NW., Bldg 5, Room 5103, Office of the Secretary, Retained for Official Use Only | His Excellency Abdullah II ibn Al Hussein, King of the Hashemite Kingdom of Jordan | Non-acceptance would cause embarrassment to donor and U.S. Government.
The Honorable Janet Napolitano, Secretary of Homeland Security | Hermes silk scarf in green, gray, peach, and black pattern. 2.5″ x 3″ Christofle desk clock, silver metal with white base and black roman numerals. Rec'd—10/8/2012. Est. Value—$905.00. Disposition—3802/3803 Nebraska Ave. NW., Bldg 5, Room 5103, Office of the Secretary, Retained for Official Use Only | The Honorable Manuel Valls, Minister of Interior of the French Republic | Non-acceptance would cause embarrassment to donor and U.S. Government.
The Honorable Janet Napolitano, Secretary of Homeland Security | 8″ tall gold Ibrik pitcher with detailed filigree pattern and matching plate. 6.5″ diameter decorum gold-metal bowl with rounded lid and red and white “jewel” detailing. 13.5″ diameter silver metal and porcelain plate with silver edges and floral pattern, with Ministry of Interior seal on the face of the plate. 6″ x 8″ silver-metal oval mirror with hanging chain and a floral design on the back. Rec'd—10/11/2012. Est. Value—$435.00. Disposition—3804/3805 Nebraska Ave. NW., Bldg 5, Room 5103, Office of the Secretary; Retained for Official Use Only; Last Two Items Transferred to General Services Administration | His Excellency Idris Naim Sahin, Minister of Interior of the Republic of Turkey | Non-acceptance would cause embarrassment to donor and U.S. Government.
The Honorable Janet Napolitano, Secretary of Homeland Security | 8″ x 8″ Kutani Yaki porcelain vase with a glass overlay of light and dark greens and silver depicting gold cranes in flights. Rec'd—12/19/2012. Est. Value—$568.82. Disposition—3805 Nebraska Ave. NW., Bldg 5, Room 5103, Office of the Secretary Retained for Official Use Only | His Excellency Kenichiro Sasae, Ambassador of Japan to the United States | Non-acceptance would cause embarrassment to donor and U.S. Government.
Mr. Taekuk Cho, Attaché, Homeland Security Investigations, U.S. Immigration and Customs Enforcement | TRAVEL: Travel to and in-country transportation costs and lodging for official visit to the Republic of Korea to attend the Future Immigration Leaders Conference. Rec'd—4/1/2012. Est. Value—$2,800.00 | Seoul Office Headquarters, Korea Immigration service of the Republic of Korea | Non-acceptance would cause embarrassment to donor and U.S. Government.
Ms. Sikina Hasham, Policy Analyst, Office of International Affairs, Office of Policy | TRAVEL: Airfare, lodging, meals, and local travel expenses for attendance at the Global Futures Forum on Countering Violent Extremism. Rec'd—9/23-25/2012. Est. Value—$2,196.00 | Emirates Center for Strategic Studies and Research (Invitation Extended by: Ms. Alma Hakirević, +971-2-404-4421) | Non-acceptance would cause embarrassment to donor and U.S. Government.
Mr. Mark Koumans, Deputy Assistant Secretary for International Affairs, Office of Policy | TRAVEL: Airfare, lodging, meals, and local travel expenses for speaking engagement at the Taiwan International Conference on Homeland Security. Rec'd—12/4-5/2012. Est. Value—$8,204.00 | Mr. Jason Yuan, Representative, Taipei Economic and Cultural Representative Office in the United States | Non-acceptance would cause embarrassment to donor and U.S. Government.
Mr. Clifton Skilbred, Senior Policy Analyst, Office of International Affairs, Office of Policy | TRAVEL: Airfare and barrack lodging for presentation on Department of Homeland Security policy and border operations to military command and staff college. Rec'd—12/15/2012. Est. Value—$1,736.30 | German Armed Forces Command and Staff College of the Federal Republic of Germany (Invitation Extended by: Colonel Bernhard Altersberger, Class Coordinator) | Non-acceptance would cause embarrassment to donor and U.S. Government.

Agency: Department of Justice
[Report of Tangible Gifts Furnished by the Department of Justice]
Name and title of person accepting the gift on behalf of the U.S. Government | Gift, date of acceptance on behalf of the U.S. Government, estimated value, and current disposition or location | Identity of foreign donor and government | Circumstances justifying acceptance
Attorney General Eric Holder | Large case with hand-knotted Persian rug. Rec'd—3/13/2012. Est. Value—$600.00. Disposition—Attorney General's Office for official use only | His Excellency Dr. Ali Bin Fatais Al-Marri, Attorney General of the State of Qatar | Non-acceptance would cause embarrassment to donor and U.S. Government.
The Department of Justice | Box with silver ship. Rec'd—6/13/2012. Est. Value—$400.00. Disposition—OAG's office for official use only | His Excellency Dr. Ali Bin Fatais Al-Marri, Attorney General of the State of Qatar | Non-acceptance would cause embarrassment to donor and U.S. Government.
The Department of Justice | Apple mini iPad. Rec'd—12/18/2012. Est. Value—$430.00. Disposition—Accepted on behalf of the Department. Pending determiniation of use by Attorney General or Department of Justice | His Excellency Yousef Mana Saee Al Otainba, Ambassador of the United Arab Emirates to the United States | Non-acceptance would cause embarrassment to donor and U.S. Government.

Agency: Department of Treasury
[Report of Tangible Gifts Furnished by the Department of Treasury]
Name and title of person accepting the gift on behalf of the U.S. Government | Gift, date of acceptance on behalf of the U.S. Government, estimated value, and current disposition or location | Identity of foreign donor and government | Circumstances justifying acceptance
Neal Wolin, Deputy Secretary | Desk set including a paper holder and cup holder, both inlaid with the Philippine flag. Rec'd—1/11/2012. Est. Value—$385.00. Disposition—Pending Transfer to General Services Administration | His Excellency Cesar Purisima, Secretary of Finance of the Republic of the Philippines | Non-acceptance would cause embarrassment to donor and U.S. Government.
Lael Brainard, Under Secretary for International Affairs | Color etching by Mexican artist Sergio Hernandez. G20 pen. Silver Mexican commemorative coin in case. Silver Bicentennial Mexican independence commemorative coin in case. Silver earrings by Mexican artisan Martha Vargas. Nylon G20 laptop case. Rec'd—2/25/2012. Est. Value—$454.00. Disposition—Pending Transfer to General Services Administration | His Excellency José Antonio Meade Kuribreña, Secretary of Finance of the United Mexican States | Non-acceptance would cause embarrassment to donor and U.S. Government.
David Cohen, Under Secretary for Enforcement | Gold coin. Rec'd—3/20/2012. Est. Value—$1,665.95. Disposition—Pending Transfer to General Services Administration | Mr. Riad Salameh, Governor of the Central Bank of the Republic of Lebanon | Non-acceptance would cause embarrassment to donor and U.S. Government.
Marisa Lago, Assistant Secretary for International Affairs | Shirt. Scarf. Cup holder. Various food and candies. Plastic briefcase. Thumb drive. Chocolates. Note pad. Plastic cover. Head of delegation pin. Guidebook. CD. Coaster. Pad of paper. Plastic pen. Frame. Rec'd—5/24/2012. Est. Value—$759.69. Disposition—Pending Transfer to General Services Administration | His Excellency Cesar Purisima, Secretary of Finance of the Republic of the Philippines | Non-acceptance would cause embarrassment to donor and U.S. Government.
Lael Brainard, Under Secretary for International Affairs | Talavera decorative ceramic plate in gift box. Leather-bound notebooks. Copy of Mexican etching, title: “Titi Salva,” by Olegario Hernandez Mendoza. Two wooden animal ornaments. CD of Mexican Philharmonic Orchestra. G20 coffee mug with a can of Café Punta del Cielo. Rec'd—6/27/2012. Est. Value—$554.00. Disposition—Pending Transfer to General Services Administration | Mr. Gerardo Rodríguez Regordosa, Under Secretary of Finance of the United Mexican States | Non-acceptance would cause embarrassment to donor and U.S. Government.

Agency: Environmental Protection Agency
[Report of Travel Furnished by the Environmental Protection Agency]
Name and title of person accepting the gift on behalf of the U.S. Government | Gift, date of acceptance on behalf of the U.S. Government, estimated value, and current disposition or location | Identity of foreign donor and government | Circumstances justifying acceptance
Vicki Dellarco, Ph.D., Senior Science Advisor, Office of Pesticide Programs | TRAVEL: To Ispra, Italy. The meeting was from 2/14/2012 to 2/16/2012. Four nights of hotel were reimbursed at 100 Euro/night which equals $134 USD for a total of $536.00. Three days of per diem were reimbursed at 92 Euros/day which equals $123 USD for a total of $369.00. Rec'd—2/12-17/2012. Est. Value—$905.00 | Joint Research Center of the European Commission | Non-acceptance would cause embarrassment to donor and U.S. Government.
Jennifer Seed, Ph.D., Deputy Division Director, Risk Assessment Division, Office of Pollution Prevention and Toxics | TRAVEL: To Ispra, Italy. The meeting was from 2/14/2012 to 2/16/2012. Four nights of hotel were reimbursed at 100 Euro/night which equals $134 USD for a total of $536.00. Three days of per diem were reimbursed at 92 Euros/day which equals $123 USD for a total of $369.00. Rec'd—2/12-17/2012. Est. Value—$905.00 | Joint Research Center of the European Commission | Non-acceptance would cause embarrassment to donor and U.S. Government.
James Quackenboss, Research Scientist, Office of Research and Development, National Exposure Research Laboratory | TRAVEL: Travel expenses accepted included meals and incidental expenses (e.g., internet access) ($315) and local transportation ($120) while in Kitakyushu, Japan. EPA authorized acceptance of the cash reimbursement pursuant to exception in the Foreign Gifts and Decorations Act at 5 U.S.C. § 7342(c)(1)(B)(ii). Rec'd—2/26-29/2012. Est. Value—$425.00 | Mr. Eisaku Toda, Director of the Risk Assessment Office of the Environmental Health Department of the Ministry of the Environment of Japan | Non-acceptance would cause embarrassment to donor and U.S. Government.
Ronald Crossland, Acting Deputy Assistant, Regional Administrator for Management | TRAVEL: Travel expenses accepted included meals, transportation, incidental expenses (e.g., internet access) ($964.94) and lodging ($949.26) while in Japan. EPA authorized acceptance of the cash reimbursement pursuant to exception in the Foreign Gifts and Decorations Act at 5 U.S.C. § 7342(c)(1)(B)(ii). Rec'd—2/26/2012-3/6/2012. Est. Value—$1,914.20 | Post-Conflict and Disasters Management Branch of the Environment Program of the United Nations | Non-acceptance would cause embarrassment to donor and U.S. Government.
Francisca E. Liem, Chief, Good Laboratory Practice Section, Office of Enforcement and Compliance Assurance | TRAVEL: Travel expenses accepted included meals ($648), transportation ($210), and lodging ($1,075) while in Tokyo, Japan. EPA authorized acceptance of the cash reimbursement pursuant to exception in the Foreign Gifts and Decorations Act at 5 U.S.C. § 7342(c)(1)(B)(ii). Rec'd—3/7-18/2012. Est. Value—$1,933.00 | Organization for Economic Cooperation and Development (OECD) | Non-acceptance would cause embarrassment to donor and U.S. Government.
Staci Gatica, Environmental Protections Specialist, Enforcement Liaison, Office of Atmospheric Programs | TRAVEL: Five days of per diem (M&EI) were reimbursed at $95 per day for a total of $475 while in Dominica. EPA authorized acceptance of the cash reimbursement pursuant to exception in the Foreign Gifts and Decorations Act at 5 U.S.C. § 7342(c)(1)(B)(ii). Rec'd—3/26-30/2012. Est. Value—$475.00 | Environment Program of the United Nations | Non-acceptance would cause embarrassment to donor and U.S. Government.
Mark C. Segal, Senior Microbiologist, Office of Chemical Safety and Pollution Prevention | TRAVEL: Travel expenses accepted included meals, local transportation, incidental expenses (e.g., internet access) ($1,163.33) and lodging ($1,971.75) while in Paris, France. EPA authorized acceptance of the cash reimbursement pursuant to exception in the Foreign Gifts and Decorations Act at 5 U.S.C. § 7342(c)(1)(B)(ii). Rec'd—3/29/2012. Est. Value—$3,135.08 | Organization for Economic Co-operation and Development | Non-acceptance would cause embarrassment to donor and U.S. Government.
Dr. David M. DeMarini, Genetic Toxicologist, U.S. EPA, RTP, NC | TRAVEL: Travel expenses accepted included meals, ground transportation, and incidental expenses ($806.20), and lodging ($444.80) while in Lyon, France. EPA authorized acceptance of the cash reimbursement pursuant to exception in the Foreign Gifts and Decorations Act at 5 U.S.C. § 7342(c)(1)(B)(ii). Rec'd—4/16-19/2012. Est. Value—$1,251.00 | International Agency for Research on Cancer of the World Health Organization | Non-acceptance would cause embarrassment to donor and U.S. Government.
Dr. Jane C. Caldwell, Environmental Health Scientist, U.S. EPA, RTP, NC | TRAVEL: Travel expenses accepted included meals, ground transportation, and incidental expenses ($806.20), and lodging ($444.80) while in Lyon, France. EPA authorized acceptance of the cash reimbursement pursuant to exception in the Foreign Gifts and Decorations Act at 5 U.S.C. § 7342(c)(1)(B)(ii). Rec'd—4/16-19/2012. Est. Value—$1,251.00 | International Agency for Research on Cancer of the World Health Organization | Non-acceptance would cause embarrassment to donor and U.S. Government.
Dr. Robert J. Kavlock, Deputy Assistant Administrator for Science, EPA Office of Research and Development | TRAVEL: Travel expenses accepted included meals, ground transportation, and incidental expenses ($806.20), and lodging ($444.80) while in Lyon, France. EPA authorized acceptance of the cash reimbursement pursuant to exception in the Foreign Gifts and Decorations Act at 5 U.S.C. § 7342(c)(1)(B)(ii). Rec'd—4/16-19/2012. Est. Value—$1,251.00 | International Agency for Research on Cancer of the World Health Organization | Non-acceptance would cause embarrassment to donor and U.S. Government.
Mike Wireman, National Groundwater Expert, Region 8 | TRAVEL: Reimbursed expenses included per diem 12 days (approx 960.00); Transportation—(approx. $50.00) Hotels in rural villages—(approx. $70.00) while in Romania. EPA authorized acceptance of the cash reimbursement pursuant to exception in the Foreign Gifts and Decorations Act at 5 U.S.C. § 7342(c)(1)(B)(ii). Rec'd—4/16-28/2012. Est. Value—$1,080.00 | The World Bank | Non-acceptance would cause embarrassment to donor and U.S. Government.
The Honorable Scott Fulton | TRAVEL: Travel expenses accepted included meals, local transportation, and hotel while in Buenos Aires, Argentina. EPA authorized acceptance of the cash reimbursement pursuant to exception in the Foreign Gifts and Decorations Act at 5 U.S.C. § 7342(c)(1)(B)(ii). Rec'd—4/19-24/2012. Est. Value—$2,500.00 | Environment Program of the United Nations | Non-acceptance would cause embarrassment to donor and U.S. Government.
David Simpson, Director for Ecosystem Economic Studies, National Center for Environmental Economics, United States Environmental Protection Agency | TRAVEL: Four nights of hotel were reimbursed at 160 USD per night for a total of 640 USD. Four days of per diem were reimbursed at 60 USD per day for a total of 240 USD while in Trinidad & Tobago. EPA authorized acceptance of the cash reimbursement pursuant to exception in the Foreign Gifts and Decorations Act at 5 U.S.C. § 7342(c)(1)(B)(ii). Rec'd—5/22-27/2012. Est. Value—$880.00 | Environment Program of the United Nations | Non-acceptance would cause embarrassment to donor and U.S. Government.
Dr. David M. DeMarini, Genetic Toxicologist, U.S. EPA, RTP, NC | TRAVEL: Travel expenses accepted included meals, ground transportation, and incidental expenses ($1,427.00), and lodging ($1,100.00) while in Lyon, France. EPA authorized acceptance of the cash reimbursement pursuant to exception in the Foreign Gifts and Decorations Act at 5 U.S.C. § 7342(c)(1)(B)(ii). Rec'd—6/4-15/2012. Est. Value—$2,527.00 | International Agency for Research on Cancer of the World Health Organization | Non-acceptance would cause embarrassment to donor and U.S. Government.
Adele Cardenas Malott, Senior Policy Advisor, U.S. EPA, Dallas, Texas | TRAVEL: Lodging, per diem and travel expenses incurred outside the U.S. with a value of $1,067.00. Lodging and per diem was $927 plus $140 in transportation expenses. Travel was from June 13-16, 2012 to Mexico City, Mexico. EPA authorized acceptance of the cash reimbursement pursuant to exception in the Foreign Gifts and Decorations Act at 5 U.S.C. § 7342(c)(1)(B)(ii). Rec'd—6/13-16/2012. Est. Value—$1,067.00 | Organization of American States (OAS) | Non-acceptance would cause embarrassment to donor and U.S. Government.
William Luthans, Deputy Director, Multimedia Planning and Permitting Division; Sr. Policy Advisor for Border, Region 6 | TRAVEL: Lodging, per diem and travel expenses incurred outside the U.S. with a value of $1,067.00. Lodging and per diem was $927 plus $140 in transportation expenses. Travel was from June 13-16, 2012 to Mexico City, Mexico. EPA authorized acceptance of the cash reimbursement pursuant to exception in the Foreign Gifts and Decorations Act at 5 U.S.C. § 7342(c)(1)(B)(ii). Rec'd—6/13-16/2012. Est. Value—$1,067.00 | Organization of American States (OAS) | Non-acceptance would cause embarrassment to donor and U.S. Government.
The Honorable Scott Fulton | TRAVEL: Travel expenses accepted included meals, local transportation, and hotel while in Rio de Janeiro, Brazil. EPA authorized acceptance of the cash reimbursement pursuant to exception in the Foreign Gifts and Decorations Act at 5 U.S.C. § 7342(c)(1)(B)(ii). Rec'd—6/15-23/2012. Est. Value—$1,000.00 | Environment Program of the United Nations | Non-acceptance would cause embarrassment to donor and U.S. Government.
Mike Wireman, National Groundwater Expert, Region 8 | TRAVEL: Reimbursed expenses included per diem days (approx 640.00); Transportation—(approx. $50.00) Hotels—(approx. $900.00) while in China. EPA authorized acceptance of the cash reimbursement pursuant to exception in the Foreign Gifts and Decorations Act at 5 U.S.C. § 7342(c)(1)(B)(ii). Rec'd—7/26/2012-8/4/2012. Est. Value—$1,590.00 | The World Bank | Non-acceptance would cause embarrassment to donor and U.S. Government.
Matthew A. Loesel, Environmental Protection Specialist, Region 6 | TRAVEL: Nine days of per diem were reimbursed at $125 for a total of $1,125.00 while in Beijing, China. EPA authorized acceptance of the cash reimbursement pursuant to exception in the Foreign Gifts and Decorations Act at 5 U.S.C. § 7342(c)(1)(B)(ii). Rec'd—8/4-12/2012. Est. Value—$1,125.00 | Asian Development Bank | Non-acceptance would cause embarrassment to donor and U.S. Government.
Mary Ross, Ph.D., Supervisory Health Scientist, National Center for Environmental Assessment, Office of Research and Development | TRAVEL: Costs for four nights in a hotel and per diem for meals/incidentals (per diem rate $294) in Bonn, Germany. EPA authorized acceptance of the cash reimbursement pursuant to exception in the Foreign Gifts and Decorations Act at 5 U.S.C. § 7342(c)(1)(B)(ii). Rec'd—8/19-24/2012. Est. Value—$1,208.00 | European Center for Environmental Health of the World Health Organization | Non-acceptance would cause embarrassment to donor and U.S. Government.
Matthew A. Loesel, Environmental Protection Specialist, EPA Region 6 | TRAVEL: Per diem was reimbursed at $85 per day for 5 days for a total of $425 as well as hotels for two nights at $75 per night for $150 for a total of $575 while in Tengchong City, China. EPA authorized acceptance of the cash reimbursement pursuant to exception in the Foreign Gifts and Decorations Act at 5 U.S.C. § 7342(c)(1)(B)(ii). Rec'd—8/27/2012-9/2/2012. Est. Value—$575.00 | Asian Development Bank | Non-acceptance would cause embarrassment to donor and U.S. Government.
William Donovan, Senior Scientist, Office of Pesticide Programs, Health Effects Division, Risk Assessment Branch V | TRAVEL: Travel expenses accepted included meals, local transportation, and miscellaneous expenses (17 days for total of $ 3,059.00) while in Rome, Italy. EPA authorized acceptance of the cash reimbursement pursuant to exception in the Foreign Gifts and Decorations Act at 5 U.S.C. § 7342(c)(1)(B)(ii). Rec'd—9/4-21/2012. Est. Value—$3,059.00 | Food and Agriculture Organization of the United Nations | Non-acceptance would cause embarrassment to donor and U.S. Government.
Vicki Dellarco, Senior Scientist, Office of Pesticide Programs, Immediate Office | TRAVEL: Hotel (11 nights at $2,088.00), and meals, local transportation, and miscellaneous expenses (13 days for total of $2,253.00) while in Rome, Italy. EPA authorized acceptance of the cash reimbursement pursuant to exception in the Foreign Gifts and Decorations Act at 5 U.S.C. § 7342(c)(1)(B)(ii). Rec'd—9/9-21/2012. Est. Value—$4,341.00 | World Health Organization | Non-acceptance would cause embarrassment to donor and U.S. Government.
P.V. Shah, Chief Inert Ingredient Assessment Branch, Registration Division, Office of Pesticide Programs | TRAVEL: Hotel (11 nights at $2,088.00), and meals, local transportation, and miscellaneous expenses (13 days for total of $2,253.00) while in Rome, Italy. EPA authorized acceptance of the cash reimbursement pursuant to exception in the Foreign Gifts and Decorations Act at 5 U.S.C. § 7342(c)(1)(B)(ii). Rec'd—9/9-21/2012. Est. Value—$4,341.00 | World Heath Organization | Non-acceptance would cause embarrassment to donor and U.S. Government.
Terrence Johnson, Environmental Scientist, United States Environmental Protection Agency | TRAVEL: Travel expenses accepted included meals, transportation, incidentals ($1,060.50), and lodging ($1,336.50) while in Palau. EPA authorized acceptance of the cash reimbursement pursuant to exception in the Foreign Gifts and Decorations Act at 5 U.S.C. § 7342(c)(1)(B)(ii). Rec'd—9/14/2012-10/01/2012. Est. Value—$2,397.00 | Palau Environmental Quality Protection Board | Non-acceptance would cause embarrassment to donor and U.S. Government.
Michelle Rogow, On Scene Coordinator, Region 9 | TRAVEL: Travel expenses accepted included $54/day for meals for a total of $864 and $89.10/day for lodging for a total of $1,425.60 while in Palau. EPA authorized acceptance of the cash reimbursement pursuant to exception in the Foreign Gifts and Decorations Act at 5 U.S.C. § 7342(c)(1)(B)(ii). Rec'd—9/14/2012-10/1/2012. Est. Value—$2,308.00 | Palau Environmental Quality Protection Board | Non-acceptance would cause embarrassment to donor and U.S. Government.
John Gherardini, Deputy Director, Office of Acquisition Management | TRAVEL: Travel expenses accepted included meals, local transportation and lodging ($1,343.00) while in Copenhagen, Denmark and Bratislava, Slovakia. EPA authorized acceptance of the cash reimbursement pursuant to exception in the Foreign Gifts and Decorations Act at 5 U.S.C. § 7342(c)(1)(B)(ii). Rec'd—9/23-27/2012. Est. Value—$1,343.00 | United Nations Development Program | Non-acceptance would cause embarrassment to donor and U.S. Government.
Dr. Jane C. Caldwell, Environmental Health Scientist, U.S. EPA, RTP, NC | TRAVEL: Travel expenses accepted included meals, ground transportation, and incidental expenses ($1,116), and lodging ($908) while in Lyon, France. EPA authorized acceptance of the cash reimbursement pursuant to exception in the Foreign Gifts and Decorations Act at 5 U.S.C. § 7342(c)(1)(B)(ii). Rec'd—9/30/2012-10/10/2012. Est. Value—$2,024.00 | International Agency for Research on Cancer of the World Health Organization | Non-acceptance would cause embarrassment to donor and U.S. Government.
Weihsueh Chiu, Supervisory Physical Scientist, Office of Research and Development | TRAVEL: Travel expenses accepted included meals, transportation, incidental expenses, and lodging (1650 euros, or approx $2,112), while in Lyon, France. EPA authorized acceptance of the cash reimbursement pursuant to exception in the Foreign Gifts and Decorations Act at 5 U.S.C. § 7342(c)(1)(B)(ii). Rec'd—9/30/2012-10/10/2012. Est. Value—$2,112.00 | International Agency for Research on Cancer of the World Health Organization | Non-acceptance would cause embarrassment to donor and U.S. Government.
Kate Guyton, Acting Deputy National Program Director, Office of Research and Development | TRAVEL: Travel expenses accepted included meals, transportation, incidental expenses, and lodging (1650 euros, or approx $2,112), while in Lyon France. EPA authorized acceptance of the cash reimbursement pursuant to exception in the Foreign Gifts and Decorations Act at 5 U.S.C. § 7342(c)(1)(B)(ii). Rec'd—9/30/2012-10/10/2012. Est. Value—$2,112.00 | International Agency for Research on Cancer of the World Health Organization | Non-acceptance would cause embarrassment to donor and U.S. Government.
James Emery Kaldy III, Ph.D., Ecologist, Office of Research & Development, National Health and Environmental Effects Research Laboratory, Western Ecology Division | TRAVEL: Travel expenses accepted included meals ($220), transportation ($60), and lodging ($460) while in Tokyo, Japan. EPA authorized acceptance of the cash reimbursement pursuant to exception in the Foreign Gifts and Decorations Act at 5 U.S.C. § 7342(c)(1)(B)(ii). Rec'd—10/3-9/2012. Est. Value—$740.00 | Mr. Tsukasa Iwashina, Director of the Department of Botany of the Tsukuba Botanical Garden of the national museum of Nature and Science of Japan | Non-acceptance would cause embarrassment to donor and U.S. Government.
Kimberly Nesci, Acting Chief, Microbial Pesticides Branch, Biopesticides and Pollution Prevention Division, Office of Pesticide Programs, Office of Chemical Safety and Pollution Prevention | TRAVEL: Travel expenses accepted included transportation to and from airport ($200), meals and other incidental expenses (e.g., internet access) ($803) while in Rome, Italy. EPA authorized acceptance of the cash reimbursement pursuant to exception in the Foreign Gifts and Decorations Act at 5 U.S.C. § 7342(c)(1)(B)(ii). Rec'd—10/09/2012. Est. Value—$1,003.00 | The Food and Agriculture Organization of the United Nations | Non-acceptance would cause embarrassment to donor and U.S. Government.
David J. Miller, Chief, Chemistry and Exposure Branch, Office of Pesticide Programs | TRAVEL: Travel expenses accepted include reimbursement for meals (4 nights = $500) and hotel ($108) in Parma, Italy while serving as a Panel member on an EFSA Working Group in April 2012. Rec'd—10/23/2012. Est. Value—$607.75 | European Food Safety Authority | Non-acceptance would cause embarrassment to donor and U.S. Government.
Eugene Jablonowski, Senior Health Physicist, Region 5 Superfund Emergency Response | TRAVEL: Travel expenses accepted included meals and incidental expenses ($969.00), lodging ($1,281.76), international phone charges ($141.77) and government purchase card international transaction fees ($13.08) while in Baku, Azerbaijan. EPA authorized acceptance of the cash reimbursement pursuant to exception in the Foreign Gifts and Decorations Act at 5 U.S.C. § 7342(c)(1)(B)(ii). Rec'd—11/23/2012-12/1/2012. Est. Value—$3,405.61 | Waste Technology Section of the Division of Nuclear Fuel Cycle and Waste Technology of the Department of Nuclear Energy of the International Atomic Energy Agency | Non-acceptance would cause embarrassment to donor and U.S. Government.
Dr. David M. DeMarini, Genetic Toxicologist, U.S. EPA, RTP, NC | TRAVEL: Travel expenses accepted included meals, ground transportation, and incidental expenses ($541.79), and lodging ($627.53) while in Lyon, France. EPA authorized acceptance of the cash reimbursement pursuant to exception in the Foreign Gifts and Decorations Act at 5 U.S.C. § 7342(c)(1)(B)(ii). Rec'd—11/24/2012-12/01/2012. Est. Value—$1,169.32 | International Agency for Research on Cancer of the World Health Organization | Non-acceptance would cause embarrassment to donor and U.S. Government.
Dr. Jane C. Caldwell, Environmental Health Scientist, U.S. EPA, RTP, NC | TRAVEL: Travel expenses accepted included meals, ground transportation, and incidental expenses ($726), and lodging ($450) while in Lyon, France. EPA authorized acceptance of the cash reimbursement pursuant to exception in the Foreign Gifts and Decorations Act at 5 U.S.C. § 7342(c)(1)(B)(ii). Rec'd—11/26/2012-12/01/2012. Est. Value—$1,176.00 | International Agency for Research on Cancer of the World Health Organization | Non-acceptance would cause embarrassment to donor and U.S. Government.
Peter E. Shanaghan, Senior Environmental Engineer, Office of Ground Water and Drinking Water, Office of Water, United States Environmental Protection Agency | TRAVEL: Travel expenses accepted included meals, ground transportation, incidental expenses (e.g., internet access) ($1,384.17) and lodging ($778.83) while in Belize City, Belize. EPA authorized acceptance of the cash reimbursement pursuant to exception in the Foreign Gifts and Decorations Act at 5 U.S.C. § 7342(c)(1)(B)(ii). Rec'd—11/27/2012-11/30/2012. Est. Value—$567.00 | United Nations Environment Program | Non-acceptance would cause embarrassment to donor and U.S. Government.
Dr. Robert J. Kavlock, Deputy Assistant Administrator for Science, EPA Office of Research and Development | TRAVEL: Travel expenses accepted included meals, ground transportation, and incidental expenses ($562.85), and lodging ($611.92) while in Lyon, France. EPA authorized acceptance of the cash reimbursement pursuant to exception in the Foreign Gifts and Decorations Act at 5 U.S.C. § 7342(c)(1)(B)(ii). Rec'd—11/27/2012-12/01/2012. Est. Value—$1,174.77 | International Agency for Research on Cancer of the World Health Organization | Non-acceptance would cause embarrassment to donor and U.S. Government.

Agency: Federal Communications Commission
[Report of Travel Furnished by the Federal Communications Commission]
Name and title of person accepting the gift on behalf of the U.S. Government | Gift, date of acceptance on behalf of the U.S. Government, estimated value, and current disposition or location | Identity of foreign donor and government | Circumstances justifying acceptance
Thomas Sullivan, International Bureau, Assistant Bureau Chief for Management | TRAVEL: Travel expenses originating and terminating entirely outside of the U.S. for ITU and Ministry of Telecommunications, Colombia, “Role of Telecommunications/ICT in Disaster Management”. Rec'd—7/23-26/2012. Est. Value—$482.00 | Ms. Sylvia Juliana Valdivieso Diaz, Chief of the International Office of the Ministry of Telecommunications of the Republic of Colombia | Non-acceptance would cause embarrassment to donor and U.S. Government.
Roxanne McElvane, Senior Counselor, International Development International Bureau | TRAVEL: Travel expenses originating and terminating entirely outside of the U.S. for ITU Development Bureau Brainstorming Retreat for ITU Officials and Senior Staff to Prep for the 2014 World Telecommunication Development Conference. Rec'd—11/10-14/2012. Est. Value—$5,000.00 | International Telecommunications Union, Director Brahima Sanou, Telecommunication Development Bureau | Non-acceptance would cause embarrassment to donor and U.S. Government.

Agency: National Aeronautics and Space Administration
[Report of Travel Gifts Furnished by National Aeronautics and Space Administration]
Name and title of person accepting the gift on behalf of the U.S. Government | Gift, date of acceptance on behalf of the U.S. Government, estimated value, and current disposition or location | Identity of foreign donor and government | Circumstances justifying acceptance
James M. Free, Director, NASA Glenn Research Center (GRC) | Victorinox Swiss Army Chrono Classis XLS watch. Rec'd—12/7/2012. Est. Value—$825. Disposition—Accepted on behalf of agency and placed on display at NASA GRC | Mr. Konrad Peter, Executive Chairman of RUAG Holding AG (RUAG is owned and controlled by the Swiss Government) | Non-acceptance would cause embarrassment to donor and U.S. Government.
Mr. Bryan K. Smith, Director, Space Flight Systems, NASA GRC | Victorinox Swiss Army Chrono Classis XLS watch. Rec'd—12/7/2012. Est. Value—$825. Disposition—Accepted on behalf of agency and placed on display at NASA GRC | Mr. Konrad Peter, Executive Chairman of RUAG Holding AG (RUAG is owned and controlled by the Swiss Government) | Non-acceptance would cause embarrassment to donor and U.S. Government.

Agency: Office of the Director of National Intelligence
[Report of Tangible Gifts Furnished by the Office of the Director of National Intelligence]
Name and title of person accepting the gift on behalf of the U.S. Government | Gift, date of acceptance on behalf of the U.S. Government, estimated value, and current disposition or location | Identity of foreign donor and government | Circumstances justifying acceptance
5 U.S.C. 7342(f)(4), as amended | 19.5″ Algerian coral studded filigree silver scabbard and double edge curved modern sword in a fitted red Moroccan case. Rec'd—12/4/2012. Est. Value—$500.00. Disposition—For Official Use Only | 5 U.S.C. 7342(f)(4), as amended | Non-acceptance would cause embarrassment to donor and U.S. Government.

Agency: Office of the Mayor of the District of Columbia
[Report of Tangible Gifts Furnished by the Office of the Mayor of the District of Columbia]
Name and title of person accepting the gift on behalf of the U.S. Government | Gift, date of acceptance on behalf of the U.S. Government, estimated value, and current disposition or location | Identity of foreign donor and government | Circumstances justifying acceptance.
Mayor Vincent Gray | Afghan rug. Rec'd—2/27/2012. Est. Value—$500.00. Disposition—Wilson Building, Room 509 5th Floor Display Case for Official Use | Engineer Muhammad Yunus Nawandish, the Mayor of Kabul and His Excellency Eklil Hakimi, Ambassador of the Islamic Republic of Aghanistan to the United States | Non-acceptance would cause embarrassment to donor and U.S. Government.
Mayor Vincent Gray | Hand-painted ceramic plate. Rec'd—4/5/2012. Est. Value—$350.00. Disposition—Wilson Building, G9 Corridor Ground Floor Display Case for Official Use | TUSKON US-Turkish Confederation of Businessmen and Industrialists | Non-acceptance would cause embarrassment to donor and U.S. Government.
Mayor Vincent Gray | Small ceramic painted vase. Rec'd—5/18/2012. Est. Value—$350.00. Disposition—Wilson Building, G9 Corridor Ground Floor Display Case for Official Use | M.R. Sukhumbhand Paribatra, Governor of Bangkok of the Kingdom of Thailand | Non-acceptance would cause embarrassment to donor and U.S. Government.
Mayor Vincent Gray | Model of the Royal Thai barge. Rec'd—5/18/2012. Est. Value—$1,000.00. Disposition—Wilson Building, Room 509 5th Floor Display Case for Official Use | M.R. Sukhumbhand Paribatra, Governor of Bangkok of the Kingdom of Thailand | Non-acceptance would cause embarrassment to donor and U.S. Government.
Mayor Vincent Gray | Two painting by Madam Zhao Li. Rec'd—6/26/2012. Est. Value—$800.00. Disposition—Wilson Building, Suite 419, hanging on wall for Official Use | Madam Zhao Li, Director of the Beijing Planning Exhibition Center of the People's Republic of China | Non-acceptance would cause embarrassment to donor and U.S. Government.
Mayor Vincent Gray | Bronze tripod that was used in ancient times as a container for alcohol. Golden glass sculpture in the shape of a dragon. Chinese scroll picturing a mountain and river landscape. Rec'd—6/26/2012. Est. Value—$500.00. Disposition—Wilson Building, G9 Corridor Ground Floor Display Case for Official Use | The Honorable Guo Jinlong, Mayor of Beijing, Mr. Li Ruogu of the China EXIM Bank, and Mr. Wang Jianlong of the Wanda Group | Non-acceptance would cause embarrassment to donor and U.S. Government.
Mayor Vincent Gray and Deputy Mayor Hoskins | Colored glazed glass sculpture for Mayor Gray and silk to Deputy Mayor Hoskins. Rec'd—6/29/2012. Est. Value—$400.00. Disposition—Wilson Building, G9 Corridor Ground Floor Display Case for Official Use | Mr. Zhang Jian of the Shanghai Zhonghui Investment Holdings | Non-acceptance would cause embarrassment to donor and U.S. Government.
Mayor Vincent Gray, Deputy Mayor Hoskins, Trade Delegation | Famous Chinese scroll picturing daily life in the Northern territory of the Song Dynasty. Silk tapestries. Ties and scarves for men and women of the Trade Delegation. Rec'd—6/29/2012. Est. Value—$600.00. Disposition—Wilson Building, G9 Corridor Ground Floor Display Case for Official Use | The Honorable Zhou Naixiang, Mayor of Suzhou of the People's Republic of China | Non-acceptance would cause embarrassment to donor and U.S. Government.

Agency: Office of the U.S. Trade Representative
[Report of Travel Furnished by the Office of the U.S. Trade Representative]
Name and title of person accepting the gift on behalf of the U.S. Government | Gift, date of acceptance on behalf of the U.S. Government, estimated value, and current disposition or location | Identity of foreign donor and government | Circumstances justifying acceptance
Mr. Carlos H. Romero, Deputy Assistant United States Trade Representative for Labor | TRAVEL: Lodging (3 nights). Guest speaker at a government conference. Rec'd—10/26-28/2010. Est. Value—$450.00 | Ministry of Industry Trade and Labor of the State of Israel | Non-acceptance would cause embarrassment to donor and U.S. Government.

Agency: United States Agency For International Development
[Report of Travel Furnished by United States Agency For International Development]
Name and title of person accepting the gift on behalf of the U.S. Government | Gift, date of acceptance on behalf of the U.S. Government, estimated value, and current disposition or location | Identity of foreign donor and government | Circumstances justifying acceptance
Aura Leticia Teleguario Sincal, Program Assistant Enterprise, Trade and Environment Office, USAID/Guatemala | TRAVEL: Official duties. USAID/Guatemala paid the plane fare and misc. expenses to and from Israel. Rec'd—11/23/2009-12/19/2009. Est. Value—$3,965.00 | Embassy of the State of Israel | Non-acceptance would cause embarrassment to donor and U.S. Government.
Alan L. Davis, USAID Rep to Cyprus | TRAVEL: Official duties. Rec'd—6/13-17/2010. Est. Value—$707.00 | Government of the Arab Republic of Egpyt | Non-acceptance would cause embarrassment to donor and U.S. Government.
Patterson W. Brown, USAID Advisor for Humanitian Assistance and Food Security | TRAVEL: Offical duties. Rec'd—7/7-9/2010. Est. Value—$800.00 | Global Public Policy Institute (GPPI) | Non-acceptance would cause embarrassment to donor and U.S. Government.
Lela Jakovlevska | TRAVEL: Participation in two-day Regional Conference: Spot on 3: Reality, Diversity: One Challenge-three Discourses, held in Vienna Austria. Rec'd—2/28-29/2012. Est. Value—$800.00 | KulturKontakt, The Republic of Austria | Non-acceptance would cause embarrassment to donor and U.S. Government.
Giovanni Melendez, HIV/AIDS Prevention Specialist | TRAVEL: Transportation provided by CODISRA to Giovanni Melendez (HIV/AIDS Prevention Specialist-USAID Guatemala) to disseminate secondary analysis about HIV and indiginous groups in Guatemala in four departments of the country. The dissemination activities had been part of a dissemination plan to raise the importance to focus HIV/AIDS preventions targeting key vulnerable populations, where beyond ethnicity varible, its importance to concentrate recourses and efforts on sexual behaviors. Rec'd—12/11-14/2012. Est. Value—$650.00 | The Government of the Republic of Guatemala | Non-acceptance would cause embarrassment to donor and U.S. Government.

Agency: U.S. House of Representatives
[Report of Tangible Gifts Furnished by the U.S. House of Representatives]
Name and title of person accepting the gift on behalf of the U.S. Government | Gift, date of acceptance on behalf of the U.S. Government, estimated value, and current disposition or location | Identity of foreign donor and government | Circumstances justifying acceptance
The Honorable Tom McClintock, Member of Congress | Australian Senate cufflinks. Rec'd—7/18/2012. Est. Value—Unknown. Disposition—Surrendered on 8/28/2012 to the Clerk of the House | The Honorable Barnaby Joyce, Shadow Minister for Regional Development, Local Government and Water, Leader of the Nationals in the Senate and Senator for Queensland of the Commonwealth of Australia | Non-acceptance would cause embarrassment to donor and U.S. Government.

Agency: U.S. Senate
[Report of Tangible Gifts and Travel Furnished by the U.S. Senate]
Name and title of person accepting the gift on behalf of the U.S. Government | Gift, date of acceptance on behalf of the U.S. Government, estimated value, and current disposition or location | Identity of foreign donor and government | Circumstances justifying acceptance
The Honorable John McCain, United States Senator | Shadow box with Dallah and Al-Masmak display. Rec'd—1/24/2012. Est. Value—$410.00. Disposition-Deposited with the Secretary of the Senate | Sheikh Muhammad al-Issa, Minister of Justice of the Kingdom of Saudi Arabia | Non-acceptance would cause embarrassment to donor and U.S. Government.
The Honorable John McCain, United States Senator | 6′ x 9′ Afghan rug. Rec'd—1/31/2012. Est. Value—$600.00. Disposition-Deposited with the Secretary of the Senate | His Excellency Hamid Karzai, President of the Islamic Republic of Afghanistan | Non-acceptance would cause embarrassment to donor and U.S. Government.
The Honorable Dianne Feinstein, United States Senator | 4′ x 6′ handwoven wool carpet. Rec'd—4/29/2012. Est. Value—$400.00. Disposition-Deposited with the Secretary of the Senate | His Excellency Hamid Karzai, President of the Islamic Republic of Afghanistan | Non-acceptance would cause embarrassment to donor and U.S. Government.
The Honorable Ben Nelson, United States Senator | Gold-plated sculpture. Rec'd—7/2/2012. Est. Value—$350.00. Disposition-Deposited with the Secretary of the Senate | His Excellency Hamid Karzai, President of the Islamic Republic of Afghanistan | Non-acceptance would cause embarrassment to donor and U.S. Government.
Chris Stanley, Senior Legislative Assistant, Office of Senator David Vitter | Uniq Georgian Armed Forces watch. Rec'd—9/12/2012. Est. Value—$350.00. Disposition-Deposited with the Secretary of the Senate | His Excellency Dimitri Shashkini, Minister of Defense of Georgia | Non-acceptance would cause embarrassment to donor and U.S. Government.
The Honorable Dianne Feinstein, United States Senator | 4′ x 6′ Afghan rug. Rec'd—12/13/2012. Est. Value—$400.00. Disposition-Deposited with the Secretary of the Senate | His Excellency Salahuddin Rabbani, Chairman of the High Peace Council of the Islamic Republic of Afghanistan | Non-acceptance would cause embarrassment to donor and U.S. Government.
The Honorable Mitch McConnell, United States Senator | Chivas Brothers scotch whisky. Rec'd—12/21/2012. Est. Value—$480.00. Disposition-Deposited with the Secretary of the Senate | Her Excellency Shehrbano Rehman, Ambassador of the Islamic Republic of Pakistan to the United States | Non-acceptance would cause embarrassment to donor and U.S. Government.
The Honorable John F. Kerry, United States Senator | TRAVEL: Lodging and meal expenses. Rec'd—1/4/2012. Est. Value—Unknown | Government of the Sultanate of Oman | Non-acceptance would cause embarrassment to donor and U.S. Government.
Perry Cammack, Professional Staff Member, Committee on Foreign Relations, United States Senate | TRAVEL: Lodging and meal expenses. Rec'd—1/4/2012. Est. Value—Unknown | Government of the Sultanate of Oman | Non-acceptance would cause embarrassment to donor and U.S. Government.
William Danvers, Staff Director, Committee on Foreign Relations, United States Senate | TRAVEL: Lodging and meal expenses. Rec'd—1/4/2012. Est. Value—Unknown | Government of the Sultanate of Oman | Non-acceptance would cause embarrassment to donor and U.S. Government.
The Honorable John F. Kerry, United States Senator | TRAVEL: Lodging and meal expenses. Rec'd—1/12/2012. Est. Value—Unknown | Government of the Hashemite Kingdom of Jordan | Non-acceptance would cause embarrassment to donor and U.S. Government.
William Danvers, Staff Director, Committee on Foreign Relations, United States Senate | TRAVEL: Lodging and meal expenses. Rec'd—1/12/2012. Est. Value—Unknown | Government of the Hashemite Kingdom of Jordan | Non-acceptance would cause embarrassment to donor and U.S. Government.
The Honorable John F. Kerry, United States Senator | TRAVEL: Lodging and meal expenses. Rec'd—5/4-5/2012. Est. Value—Unknown | Government of the Hashemite Kingdom of Jordan | Non-acceptance would cause embarrassment to donor and U.S. Government.
William Danvers, Staff Director, Committee on Foreign Relations, United States Senate | TRAVEL: Lodging and meal expenses. Rec'd—5/4-5/2012. Est. Value—Unknown | Government of the Hashemite Kingdom of Jordan | Non-acceptance would cause embarrassment to donor and U.S. Government.
Mildred Otero, Chief Education Counsel, Committee on Health, Education, Labor, and Pensions, United States senate | TRAVEL: Meal expense. Rec'd—8/20-24/2012. Est. Value—Unknown | Government of the Republic of Finland | Non-acceptance would cause embarrassment to donor and U.S. Government.
Pam Smith, Staff Director, Committee on Health, Education, Labor, and Pensions, United States Senate | TRAVEL: Meal expense. Rec'd—8/20-24/2012. Est. Value—Unknown | Government of the Republic of Finland | Non-acceptance would cause embarrassment to donor and U.S. Government.
Beth Buehlmann, Education Policy Director, Committee on Health, Education, Labor, and Pensions, United States Senate | TRAVEL: Meal expense. Rec'd—8/20-24/2012. Est. Value—Unknown | Government of the Republic of Finland | Non-acceptance would cause embarrassment to donor and U.S. Government.
The Honorable Lisa Murkowski, United States Senator | TRAVEL: Lodging expense. Rec'd—9/3-4/2012. Est. Value—Unknown | Government of the Republic of Iceland | Non-acceptance would cause embarrassment to donor and U.S. Government.
Isaac Edwards, Senior Republican Counsel, Committee on Energy and Natural Resources, United States Senate | TRAVEL: Lodging expense. Rec'd—9/3-4/2012. Est. Value—Unknown | Government of the Republic of Iceland | Non-acceptance would cause embarrassment to donor and U.S. Government.
The Honorable Lisa Murkowski, United States Senator | TRAVEL: Meal and transportation expense. Rec'd—9/6/2012. Est. Value—Unknown | Government of the Republic of Iceland | Non-acceptance would cause embarrassment to donor and U.S. Government.
Isaac Edwards, Senior Republican Counsel, Committee on Energy and Natural Resources, United States Senate | TRAVEL: Meal and transportation expense. Rec'd—9/6/2012. Est. Value—Unknown | Government of the Republic of Iceland | Non-acceptance would cause embarrassment to donor and U.S. Government.
The Honorable Daniel K. Inouye, United States Senator | TRAVEL: Lodging expense. Rec'd—10/8-13/2012. Est. Value—Unknown | Government of Japan | Non-acceptance would cause embarrassment to donor and U.S. Government.

[FR Doc. 2013-21264 Filed 8-29-13; 8:45 am]

BILLING CODE 4710-20-P]